DEPARTMENT OF THE INTERIOR

Fish and Wildlife Service

50 CFR Part 32

[Docket No. FWS-HQ-NWRS-2018-0020; FXRS12610900000-189-FF09R20000]

RIN 1018-BC07

2018-2019 Refuge-Specific Hunting and Sport Fishing Regulations

AGENCY: Fish and Wildlife Service, Interior.

ACTION: Final rule.

SUMMARY: We, the U.S. Fish and Wildlife Service, open 3 National Wildlife Refuges (NWRs, or refuges) to hunting, open 1 NWR to sport fishing, increase the hunting activities available at 26 NWRs, increase sport fishing activities at 4 NWRs, and add pertinent refuge-specific regulations for other NWRs that pertain to migratory game bird hunting, upland game hunting, big game hunting, and sport fishing for the 2018-2019 season. Through these openings and expansions, we open or expand an additional 251,000 acres to hunting and sport fishing within the Refuge System resulting in an estimated increase of 17,575 user days yielding approximately $711,000 in recreation-related expenditures. By having ripple effects throughout the economy, these direct expenditures yield a total economic impact of approximately $1.6 million.

DATES: This rule is effective September 10, 2018.

FOR FURTHER INFORMATION CONTACT: Katherine Harrigan, (703) 358-2440.

SUPPLEMENTARY INFORMATION: The National Wildlife Refuge System Administration Act of 1966 closes NWRs in all States except Alaska to all uses until opened. The Secretary of the Interior (Secretary) may open refuge areas to any use, including hunting and/or sport fishing, upon a determination that the use is compatible with the purposes of the refuge and National Wildlife Refuge System mission. The action also must be in accordance with provisions of all laws applicable to the areas, developed in coordination with the appropriate State fish and wildlife agency(ies), consistent with the principles of sound fish and wildlife management and administration, and otherwise in the public interest. These requirements ensure that we maintain the biological integrity, diversity, and environmental health of the Refuge System for the benefit of present and future generations of Americans.

We annually review refuge hunting and sport fishing programs to determine whether to include additional refuges or whether individual refuge regulations governing existing programs need modifications. Changing environmental conditions, State and Federal regulations, and other factors affecting fish and wildlife populations and habitat may warrant modifications to refuge-specific regulations to ensure the continued compatibility of hunting and sport fishing programs and to ensure that these programs will not materially interfere with or detract from the fulfillment of refuge purposes or the Refuge System's mission.

Provisions governing hunting and sport fishing on refuges are in title 50 of the Code of Federal Regulations in part 32 (50 CFR part 32). We regulate hunting and sport fishing on refuges to:

• Ensure compatibility with refuge purpose(s);

• Properly manage fish and wildlife resource(s);

• Protect other refuge values;

• Ensure refuge visitor safety; and

• Provide opportunities for quality fish- and wildlife-dependent recreation.

On many refuges where we decide to allow hunting and sport fishing, our general policy of adopting regulations identical to State hunting and sport fishing regulations is adequate in meeting these objectives. On other refuges, we must supplement State regulations with more-restrictive Federal regulations to ensure that we meet our management responsibilities, as outlined in the Statutory Authority section, below. We issue refuge-specific hunting and sport fishing regulations when we open wildlife refuges to migratory game bird hunting, upland game hunting, big game hunting, or sport fishing. These regulations may list the wildlife species that you may hunt or fish, seasons, bag or creel (container for carrying fish) limits, methods of hunting or sport fishing, descriptions of areas open to hunting or sport fishing, and other provisions as appropriate.

Statutory Authority

The National Wildlife Refuge System Administration Act of 1966 (16 U.S.C. 668dd-668ee, as amended by the National Wildlife Refuge System Improvement Act of 1997 [Improvement Act]) (Administration Act), and the Refuge Recreation Act of 1962 (16 U.S.C. 460k-460k-4) (Recreation Act) govern the administration and public use of refuges.

Amendments enacted by the Improvement Act built upon the Administration Act in a manner that provides an “organic act” for the Refuge System, similar to organic acts that exist for other public Federal lands. The Improvement Act serves to ensure that we effectively manage the Refuge System as a national network of lands, waters, and interests for the protection and conservation of our Nation's wildlife resources. The Administration Act states first and foremost that we focus our Refuge System mission on conservation of fish, wildlife, and plant resources and their habitats. The Improvement Act requires the Secretary, before allowing a new use of a refuge, or before expanding, renewing, or extending an existing use of a refuge, to determine that the use is compatible with the purpose for which the refuge was established and the mission of the Refuge System. The Improvement Act established as the policy of the United States that wildlife-dependent recreation, when compatible, is a legitimate and appropriate public use of the Refuge System, through which the American public can develop an appreciation for fish and wildlife. The Improvement Act established six wildlife-dependent recreational uses as the priority general public uses of the Refuge System. These uses are: Hunting, fishing, wildlife observation and photography, and environmental education and interpretation.

The Recreation Act authorizes the Secretary to administer areas within the Refuge System for public recreation as an appropriate incidental or secondary use only to the extent that doing so is practicable and not inconsistent with the primary purpose(s) for which Congress and the Service established the areas. The Recreation Act requires that any recreational use of refuge lands be compatible with the primary purpose(s) for which we established the refuge and not inconsistent with other previously authorized operations.

The Administration Act and Recreation Act also authorize the Secretary to issue regulations to carry out the purposes of the Acts and regulate uses.

We develop specific management plans for each refuge prior to opening it to hunting or sport fishing. In many cases, we develop refuge-specific regulations to ensure the compatibility of the programs with the purpose(s) for which we established the refuge and the Refuge System mission. We ensure initial compliance with the Administration Act and the Recreation Act for hunting and sport fishing on newly acquired refuges through an interim determination of compatibility made at or near the time of acquisition. These regulations ensure that we make the determinations required by these acts prior to adding refuges to the lists of areas open to hunting and sport fishing in 50 CFR part 32. We ensure continued compliance by the development of comprehensive conservation plans and step-down management plans, and by annual review of hunting and sport fishing programs and regulations.

Summary of Comments and Responses

On May 29, 2018, we published a proposed rule in the Federal Register (83 FR 24598) to open 3 refuges to hunting, increase the hunting activities available at 26 refuges, open 1 refuge to sport fishing, increase the fishing activities at 4 refuges, and add pertinent refuge-specific regulations for other refuges that pertain to migratory game bird hunting, upland game hunting, big game hunting, and sport fishing for the 2018-2019 season. We accepted public comments on the proposed rule for 30 days, ending June 28, 2018. By that date, we received 504 comments. Of those, eight comments concerned hunting on National Park Service land in Alaska, pollution in China, and management actions on refuges, which are not the subject of our proposed rule. Therefore, we do not consider them below. We discuss the other 496 comments we received below by topic.

Comment (1): Many commenters expressed general opposition to any hunting or fishing in the National Wildlife Refuge System (NWRS, or Refuge System). In many cases, commenters stated that hunting was antithetical to the purposes of a “refuge,” which, in their opinion, should serve as an inviolate sanctuary for all wildlife. One of these comments specifically opposed hunting at Trempealeau NWR in Wisconsin, and three commenters opposed hunting at Panther Swamp NWR in Mississippi.

Our Response: The Administration Act, as amended, stipulates that hunting (along with fishing, wildlife observation and photography, and environmental education and interpretation), if found to be compatible, is a legitimate and priority general public use of a refuge and should be facilitated. The Service has adopted policies and regulations implementing the requirements of the Administration Act that refuge managers comply with when considering hunting and fishing programs.

We allow hunting of resident wildlife on NWRs only if such activity has been determined compatible with the established purpose(s) of the refuge and the mission of the Refuge System as required by the Administration Act. Hunting of resident wildlife on NWRs generally occurs consistent with State regulations, including seasons and bag limits. Refuge-specific hunting regulations can be more restrictive (but not more liberal) than State regulations and often are more restrictive in order to help meet specific refuge objectives. These objectives include resident wildlife population and habitat objectives, minimizing disturbance impacts to wildlife, maintaining high-quality opportunities for hunting and other wildlife-dependent recreation, eliminating or minimizing conflicts with other public uses and/or refuge management activities, and protecting public safety.

Each refuge manager makes a decision regarding hunting on that particular refuge only after rigorous examination of the available information. Developing or referencing a comprehensive conservation plan (CCP), a 15-year plan for the refuge, is generally the first step a refuge manager takes. Our policy for managing units of the NWRS is that we will manage all refuges in accordance with an approved CCP, which, when implemented, will achieve refuge purposes; help fulfill the Refuge System mission; maintain and, where appropriate, restore the ecological integrity of each refuge and the Refuge System; help achieve the goals of the National Wilderness Preservation System; and meet other mandates. The CCP will guide management decisions and set forth goals, objectives, and strategies to accomplish these ends. The next step for refuge managers is developing or referencing step-down plans, of which a hunting plan would be one. Part of the process for opening a refuge to hunting after completing the step-down plan would be appropriate compliance with the National Environmental Policy Act (NEPA; 42 U.S.C. 4321 et seq.), such as conducting an environmental assessment accompanied by the appropriate decision documentation (record of decision, finding of no significant impact, or environmental action memorandum or statement). The rest of the elements in the opening package are an evaluation of section 7 of the Endangered Species Act of 1973, as amended (16 U.S.C. 1531 et seq.), copies of letters requesting State and/or tribal involvement, and draft refuge-specific regulatory language. We make available the CCP, hunt plan, and NEPA documents, and request public comments on them, as well as on any proposed rule, before we allow hunting on a refuge.

In sum, this illustrates that the decision to allow hunting on an NWR is not a quick or simple process. It is full of deliberation and discussion, including review of all available data to determine the relative health of a population before we allow it to be hunted.

The word “refuge” includes the idea of providing a haven of safety for wildlife, and as such, hunting might seem an inconsistent use of the NWRS. However, again, the Administration Act stipulates that hunting, if found compatible, is a legitimate and priority general public use of a refuge. Furthermore, we manage refuges to support healthy wildlife populations that in many cases produce harvestable surpluses that are a renewable resource. As practiced on refuges, hunting and fishing do not pose a threat to wildlife populations. It is important to note that taking certain individuals through hunting does not necessarily reduce a population overall, as hunting can simply replace other types of mortality. In some cases, however, we use hunting as a management tool with the explicit goal of reducing a population; this is often the case with exotic and/or invasive species that threaten ecosystem stability. Therefore, facilitating hunting opportunities is an important aspect of the Service's roles and responsibilities as outlined in the legislation establishing the NWRS, and the Service will continue to facilitate these opportunities where compatible with the purpose of the specific refuge and the mission of the NWRS.

Note that not all refuges are inviolate sanctuaries. If we acquired a refuge as an inviolate sanctuary, we may open up to 40 percent of that refuge's area for hunting of migratory game birds (16 U.S.C. 668dd(d)(1)(A)). However, if we acquired a refuge without the stipulation that it be an inviolate sanctuary, we may open 100 percent of the refuge's area for hunting.

The Fish and Wildlife Improvement Act of 1978 (16 U.S.C. 742l) amended section 6 of the Administration Act to provide for the opening of all or any portion of an inviolate sanctuary to the taking of migratory birds if taking is determined to be beneficial to the species. Such opening of more than 40 percent of the refuge to hunting is determined by species. This amendment refers to inviolate sanctuaries created in the past or to be created in the future. It has no application to areas acquired for other management purposes.

We did not make any changes to the rule as a result of these comments.

Comment (2): We received a substantial number of comments expressing general support for the proposed changes in the rule. Of the 504 comments on the rule, 289 were in general support of the proposed changes.

Our Response: In passing the Improvement Act, Congress reaffirmed that the Refuge System was created to conserve fish, wildlife, plants, and their habitats, and would facilitate opportunities for Americans to participate in compatible wildlife-dependent recreation, including hunting and fishing on Refuge System lands.

We did not make any changes to the rule as a result of these comments.

Comment (3): We received 76 comments requesting that the Service allow falconry as a use across the NWRS. These comments emphasized the cultural heritage and tradition of the sport of falconry, and requested that falconry be approved as a default use on all refuges. These comments were concerned with the ambiguity with which falconry is addressed in refuge-specific regulations, where some refuges allow falconry, some refuges prohibit falconry, and some refuges do not address falconry in their refuge-specific regulations. Overall, these comments expressed interest in increasing opportunities for falconry on refuges.

Our Response: As stated in our response to Comment (1), we allow hunting of resident wildlife on NWRs only if such activity has been determined compatible with the established purpose(s) of the refuge and the mission of the Refuge System as required by the Administration Act. Service policy, as outlined in our Service manual at 605 FW 2.7M (Special Hunts), stipulates, “We will address special types of hunts, such as falconry, in the hunt section of the visitor service plan (VSP).” In other words, each refuge manager, when developing their step-down VSP (which would include a hunt plan, if appropriate) from their CCP, must first determine if hunting is compatible. Assuming it is found to be compatible, the refuge manager would next determine the conduct of the hunt, which might include the use of falconry. A refuge manager has discretion to restrict hunting and types of hunting, specifically falconry, if, for example, endangered or threatened species are present, the cumulative impacts of a type of hunt have not been analyzed or are not available, or if a type of special hunt is not compatible with the refuge; thus, this issue is decided individually on a refuge-by-refuge basis.

We did not make any changes to the rule as a result of these comments.

Comment (4): We received one comment requesting the Service reconsider their proposed opening of black bear archery hunting on Swan River NWR in Montana. The commenter expressed concerns that the hunting of black bears could have an impact on threatened grizzly bears.

Our Response: Based on this public comment, the Service has removed black bear from the archery hunt on Swan River NWR in this final rule. We intend to conduct a more detailed review of this issue in the future.

Comment (5): We received a few comments requesting that the Service not open the Two Rivers unit of Ottawa NWR in Ohio to hunting based on the concerns of safety, trespassing, liability, and driveway maintenance issues. The commenters felt that hunters accessing the unit would utilize their private road to enter the hunting area, and that the general public would not obey “no trespassing” signs, and if public hunters were to hurt themselves on the private property, the landowners would be liable. The commenters expressed safety concerns that hunters would shoot from or across the road into their property in the pursuit of game, or drive recklessly on the road. Finally, the commenters expressed concerns over who would maintain the road accessing the unit, especially during the winter months, as the road historically has not been maintained regularly by the current landowners.

Our Response: Vehicle access to the Two Rivers unit of Ottawa NWR is by use of a right-of-way lane through private property at the end of a public road. Boat access to the unit is by use of a boat ramp on Ohio Department of Natural Resources property downriver of the unit. The refuge has a recorded access easement beyond the public road to access the Two Rivers unit.

The 318-acre parcel is not expected to receive high levels of visitation because it will remain mostly undeveloped. To address the maintenance concerns, Ottawa NWR will work with adjacent landowners to develop a plan to maintain the right-of-way so that it is safe for refuge visitors and the private landowners.

Safety during the hunting season is of paramount importance. All hunters, whether on public or private land, are responsible to know their target and to safely discharge their weapons in the pursuit of game. There are numerous regulations to promote hunter safety, from restrictions on hunting equipment and methods, to blaze orange requirements. Most hunters in Ohio are required to complete a hunter education course. Hunter education requirements have been adopted by most States, including Ohio, to improve hunter safety. Ottawa NWR has conducted safe and successful hunt programs since 1961 with no accidental shootings.

With regards to trespassing, all hunters in the State of Ohio are responsible for knowing where they are on the land. Public lands are traditionally surrounded by private land holdings, and public land managers effectively administer safe and successful public hunting programs. The Two Rivers unit is no exception. To help hunters on the Two Rivers unit, Ottawa NWR will construct an informational kiosk for the parking lot that will include a unit map and rules and regulations for public access. The refuge will also develop a hunting brochure and map that will be available both on-site and online. Federal wildlife officers and State conservation officers will patrol public hunting area to enforce game laws and address trespass issues.

All refuge units display standard U.S. Fish and Wildlife Service boundary signs along their boundaries. To address the trespassing concerns, additional private property signs will be installed on the back of the refuge boundary signs along the Two Rivers unit's western boundary (eastern boundary of adjacent private property).

We did not make any changes to the rule as a result of these comments.

Comment (6): Bear River Migratory Bird Refuge received a public comment expressing concern that allowing hunters to shoot in the units south of the D-line levee without a sufficient buffer between the levee and the closed units north of the levee would cause the birds to be disturbed in the closed units.

Our Response: The Service agrees with this comment and has revised the regulations in the final rule to include a 100-yard (90-m) no hunting buffer around the D-line levee.

Changes From the Proposed Rule

As discussed above, under Summary of Comments and Responses, based on comments we received on the proposed rule and environmental assessments for individual refuges, we made changes in this final rule to what we proposed for Bear River Migratory Bird Refuge (in Utah) and for Swan River NWR (in Montana). Specifically, for Bear River Migratory Bird Refuge, we are retaining the current shotgun shell limit for hunting on or within 50 feet (15 meters) from the center of Unit 1A or the 2C dike, and we are adding the D line levee to the list of refuge areas with a 100-yard (90-m) hunting or shooting restriction. Bear River Migratory Bird Refuge also chose a different alternative in their environmental assessment from the proposed rule, which was posted on the refuge's website for public comment on June 8, 2018, leading to approximately 3,000 additional acres for waterfowl hunting, which brings the total acres opened or expanded by this rule to 251,000. For Swan River NWR, we removed black bear from the list of species for the archery big game hunt in order to conduct further analysis on the impacts of hunting this species on the refuge.

Regarding Table 2 under the Regulatory Flexibility Act section, we were notified of an error for William L. Finley NWR in the proposed rule that listed an additional 365 days for hunting, which should have been an additional 365 days for fishing. This error has been corrected in this final rule and does not change the number of user days from the proposed rule. This change was deemed minor and not controversial.

Effective Date

We are making this rule effective upon publication in the Federal Register (see DATES, above). We provided a 30-day public comment period for the May 29, 2018, proposed rule (83 FR 24598). We have determined that any further delay in implementing these refuge-specific hunting and sport fishing regulations would not be in the public interest, in that a delay would hinder the effective planning and administration of refuges' hunting and fishing programs. This rule does not impact the public generally in terms of requiring lead time for compliance. Rather, it relieves restrictions in that it allows activities on refuges that we would otherwise prohibit. Therefore, we find good cause under 5 U.S.C. 553(d)(3) to make this rule effective upon publication.

Amendments to Existing Regulations

This document codifies in the Code of Federal Regulations all of the Service's hunting and/or sport fishing regulations that we are updating since the last time we published a rule amending these regulations (82 FR 51940; November 8, 2017) and that are applicable at Refuge System units previously opened to hunting and/or sport fishing. We are taking this action to better inform the general public of the regulations at each refuge, to increase understanding and compliance with these regulations, and to make enforcement of these regulations more efficient. In addition to now finding these regulations in 50 CFR part 32, visitors to our refuges may find them reiterated in literature distributed by each refuge or posted on signs.

Table 1—Changes for 2018-2019 Hunting/Fishing Season
Refuge/region (*) | State | Migratory bird hunting | Upland game hunting | Big game hunting | Sport fishing
Bear River (6) | Utah | C | C | Closed | Already Open.
Blackwater (5) | Maryland | C | Closed | C | Already Open.
Cedar Point (3) | Ohio | Closed | Closed | B | Already Open.
Charles M. Russell (6) | Montana | Already Open | Already Open | C | Already Open.
Cherry Valley (5) | Pennsylvania | C | C | C | Closed.
Cold Springs (1) | Oregon | Already Open | Already Open | B | Already Open.
Cypress Creek (3) | Illinois | C | C | C | Already Open.
Edwin B. Forsythe (5) | New Jersey | C | B | C/D | Already Open.
Felsenthal (4) | Arkansas | C | C | C | Already Open.
Glacial Ridge (3) | Minnesota | C | C/D | C | Closed.
Great River (3) | Illinois and Missouri | C | C | C | C.
Hackmatack (3) | Illinois and Wisconsin | A | A | A | Closed.
J. Clark Salyer (6) | North Dakota | Already Open | Already Open | D | Already Open.
John Heinz (5) | Pennsylvania | Closed | Closed | B | Already Open.
Kankakee (3) | Illinois | Closed | Already Open | Already Open | Closed.
Lake Woodruff (4) | Florida | Closed | Closed | D | Already Open.
Lostwood (6) | North Dakota | Closed | Already Open | D | Closed.
Moosehorn (5) | Maine | C | C | C | Already Open.
Ottawa (3) | Ohio | C/D | B | C/D | Already Open.
Patoka River (3) | Indiana | C | C | C | C.
Patuxent (5) | Maryland | Already Open | Already Open | C | Already Open.
Rachel Carson (5) | Maine | Already Open | Already Open | C | Already Open.
San Pablo Bay (8) | California | C | Already Open | Closed | B.
Sevilleta (2) | New Mexico | C/D | B | Closed | Closed.
Shiawassee (3) | Michigan | C/D | B | C | Already Open.
Swan River (6) | Montana | Already Open | Closed | B | Already Open.
Trempealeau (3) | Wisconsin | C | B | C | Already Open.
Umbagog (5) | Maine and New Hampshire | Already Open | Already Open | C | Closed.
Upper Klamath (8) | Oregon | C | Closed | Closed | Already Open.
Wallkill (5) | New Jersey and New York | C | Already Open | Already Open | C.
William L. Finley (1) | Oregon | Closed | Closed | Already Open | C.
* Number in ( ) refers to the Region as defined in the preamble to this rule under Available Information for Specific Refuges.
Key:
A = New refuge opened.
B = New activity on a refuge previously open to other activities.
C = Refuge already open to activity, but added new lands/waters or modified areas open to hunting or fishing.
D = Refuge already open to activity but added new species to hunt.
E = Activity is being closed on the refuge.

The changes for the 2018-2019 hunting/fishing season noted in the chart above are each based on a complete administrative record which, among other detailed documentation, also includes a hunt plan, a compatibility determination, and the appropriate NEPA analysis, all of which were the subject of a public review and comment process. These documents are available upon request.

Fish Advisory

For health reasons, anglers should review and follow State-issued consumption advisories before enjoying recreational sport fishing opportunities on Service-managed waters. You can find information about current fish-consumption advisories on the internet at: http://www.epa.gov/fish-tech.

Executive Order 13771—Reducing Regulation and Controlling Regulatory Costs

This final rule is not an Executive Order (E.O.) 13771 (82 FR 9339, February 3, 2017) regulatory action because this final rule is not significant under E.O. 12866.

Regulatory Planning and Review (Executive Orders 12866 and 13563)

Executive Order 12866 provides that the Office of Information and Regulatory Affairs (OIRA) will review all significant rules. OIRA has determined that this rulemaking is not significant.

Executive Order 13563 reaffirms the principles of E.O. 12866 while calling for improvements in the nation's regulatory system to promote predictability, to reduce uncertainty, and to use the best, most innovative, and least burdensome tools for achieving regulatory ends. The executive order directs agencies to consider regulatory approaches that reduce burdens and maintain flexibility and freedom of choice for the public where these approaches are relevant, feasible, and consistent with regulatory objectives. E.O. 13563 emphasizes further that regulations must be based on the best available science and that the rulemaking process must allow for public participation and an open exchange of ideas. We have developed this rule in a manner consistent with these requirements.

Regulatory Flexibility Act

Under the Regulatory Flexibility Act (as amended by the Small Business Regulatory Enforcement Fairness Act [SBREFA] of 1996) (5 U.S.C. 601 et seq.), whenever a Federal agency is required to publish a notice of rulemaking for any proposed or final rule, it must prepare and make available for public comment a regulatory flexibility analysis that describes the effect of the rule on small entities (i.e., small businesses, small organizations, and small government jurisdictions). However, no regulatory flexibility analysis is required if the head of an agency certifies that the rule will not have a significant economic impact on a substantial number of small entities. Thus, for a regulatory flexibility analysis to be required, impacts must exceed a threshold for “significant impact” and a threshold for a “substantial number of small entities.” See 5 U.S.C. 605(b). SBREFA amended the Regulatory Flexibility Act to require Federal agencies to provide a statement of the factual basis for certifying that a rule will not have a significant economic impact on a substantial number of small entities.

This final rule adds 4 NWRs to the list of refuges open to sport fishing and hunting and increases hunting or fishing activities on 26 additional NWRs. As a result, visitor use for wildlife-dependent recreation on these NWRs will change. If the refuges establishing new programs were a pure addition to the current supply of those activities, it would mean an estimated increase of 17,575 user days (one person per day participating in a recreational opportunity, Table 2). Because the participation trend is flat in these activities since 1991, this increase in supply will most likely be offset by other sites losing participants. Therefore, this is likely to be a substitute site for the activity and not necessarily an increase in participation rates for the activity.

Table 2—Estimated Change in Recreation Opportunities in 2018/2019
[Dollars in thousands]
Refuge | Additional hunting days | Additional fishing days | Additional expenditures
Bear River | 0 |  | $0
Blackwater | 637 |  | 25.7
Charles M. Russell | 500 |  | 20.1
Cherry Valley | 240 |  | 9.7
Cold Springs | 25 |  | 1.0
Cypress Creek | 1,650 |  | 66.5
Edwin B. Forsythe | 350 |  | 14.1
Felsenthal | 206 |  | 8.3
Glacial Ridge | 54 |  | 2.2
Great River | 1,000 | 200 | 48.9
Hackmatack | 100 | 30 | 5.3
J. Clark Salyer | 100 |  | 4.0
John Heinz | 10 |  | 0.4
Lake Woodruff | 10 |  | 0.4
Lostwood | 100 |  | 4.0
Moosehorn | 25 |  | 1.0
Ottawa/Cedar Point | 1,424 |  | 57.4
Patoka River | 75 | 25 | 4.1
Rachel Carson | 57 | 365 | 17.9
San Pablo Bay | 100 | 365 | 19.7
Sevilleta | 50 |  | 2.0
Shiawassee | 1,675 |  | 67.5
Swan River | 224 |  | 9.0
Trempealeau | 218 |  | 8.8
Umbagog | 5,950 |  | 239.7
Upper Klamath | 900 |  | 36.3
Wallkill | 180 | 365 | 22.9
William L. Finley | 0 | 365 | 14.7
Total | 15,860 | 1,715 | 711.5

To the extent visitors spend time and money in the area of the refuge that they would not have spent there anyway, they contribute new income to the regional economy and benefit local businesses. Due to the unavailability of site-specific expenditure data, we use the national estimates from the 2011 National Survey of Fishing, Hunting, and Wildlife Associated Recreation to identify expenditures for food and lodging, transportation, and other incidental expenses. Using the average expenditures for these categories with the maximum expected additional participation of the Refuge System yields approximately $711,000 in recreation-related expenditures (Table 2). By having ripple effects throughout the economy, these direct expenditures are only part of the economic impact of these recreational activities. Using a national impact multiplier for hunting activities (2.27) derived from the report “Hunting in America: An Economic Force for Conservation” and for fishing activities (2.40) derived from the report “Sportfishing in America” yields a total economic impact of approximately $1.6 million (2017 dollars) (Southwick Associates, Inc., 2012). Using a local impact multiplier would yield more accurate and smaller results. However, we employed the national impact multiplier due to the difficulty in developing local multipliers for each specific region.

Since we know that most of the fishing and hunting occurs within 100 miles of a participant's residence, then it is unlikely that most of this spending would be “new” money coming into a local economy; therefore, this spending would be offset with a decrease in some other sector of the local economy. The net gain to the local economies would be no more than $1.6 million, and most likely considerably less. Since 80 percent of the participants travel less than 100 miles to engage in hunting and fishing activities, their spending patterns would not add new money into the local economy and, therefore, the real impact would be on the order of about $325,000 annually.

Small businesses within the retail trade industry (such as hotels, gas stations, taxidermy shops, bait-and-tackle shops, and similar businesses) may be affected by some increased or decreased refuge visitation. A large percentage of these retail trade establishments in the local communities around NWRs qualify as small businesses (Table 3). We expect that the incremental recreational changes will be scattered, and so we do not expect that the rule will have a significant economic effect on a substantial number of small entities in any region or nationally. As noted previously, we expect approximately $711,000 to be spent in total in the refuges' local economies. The maximum increase would be less than two-tenths of 1 percent for local retail trade spending (Table 3).

Table 3—Comparative Expenditures for Retail Trade Associated With Additional Refuge
Visitation for 2018/2019
[Thousands, 2017 dollars]
Refuge/county(ies) | Retail trade in 2012 | Estimated maximum addition from new activities | Addition as % of total | Establishments in 2012 | Establishments with <10 employees in 2012
Blackwater:
Dorchester, MD | $308,272 | $25.7 | <0.01 | 100 | 74
Charles M. Russell:
McCone, MT | 24,790 | 20.1 | 0.08 | 10 | 7
Cherry Valley:
Monroe, PA | 2,285,124 | 4.8 | <0.01 | 633 | 424
Northampton, PA | 3,872,709 | 4.8 | <0.01 | 879 | 603
Cold Springs:
Umatilla, OR | 857,045 | 1.0 | <0.01 | 224 | 155
Cypress Creek:
Pulaski, IL | 37,328 | 66.5 | 0.18 | 18 | 15
Edwin B. Forsythe:
Atlantic, NJ | 4,583,003 | 4.7 | <0.01 | 1,229 | 840
Burlington, NJ | 7,333,114 | 4.7 | <0.01 | 1,423 | 939
Ocean, NJ | 8,215,768 | 4.7 | <0.01 | 1,866 | 1,327
Felsenthal:
Ashley, AR | 197,731 | 2.8 | <0.01 | 86 | 67
Bradley, AR | 105,539 | 2.8 | <0.01 | 39 | 28
Union, AR | 545,629 | 2.8 | <0.01 | 209 | 155
Glacial Ridge:
Polk, MN | 354,022 | 2.2 | <0.01 | 110 | 74
Great River:
Pike, MO | 203,871 | 48.9 | 0.02 | 64 | 45
Hackmatack:
McHenry, IL | 3,912,156 | 2.7 | <0.01 | 940 | 629
Walworth, WI | 1,317,927 | 2.7 | <0.01 | 359 | 264
J. Clark Salyer:
Bottineau, ND | 101,939 | 2.0 | <0.01 | 35 | 28
McHenry, ND | 28,290 | 2.0 | 0.01 | 17 | 12
John Heinz:
Delaware, PA | 6,906,244 | 0.2 | <0.01 | 1,704 | 1,146
Philadelphia, PA | 13,069,101 | 0.2 | <0.01 | 4,524 | 3,448
Lake Woodruff:
Volusia, FL | 6,585,374 | 0.4 | <0.01 | 1,871 | 1,412
Lostwood:
Burke, ND | 41,148 | 2.0 | <0.01 | 10 | 6
Montrail, ND | 292,497 | 2.0 | <0.01 | 41 | 27
Moosehorn:
Washington, ME | 462,433 | 1.0 | <0.01 | 151 | 100
Ottawa/Cedar Point:
Lucas, OH | 6,382,144 | 28.7 | <0.01 | 1,452 | 965
Ottawa, OH | 456,610 | 28.7 | 0.01 | 142 | 109
Patoka River:
Gibson, IN | 595,275 | 2.0 | <0.01 | 122 | 84
Pike, IN | 77,438 | 2.0 | <0.01 | 31 | 23
Patuxent Research Refuge:
Anne Arundel, MD | 9,351,065 |  |  | 2,014 | 1,286
Prince George's, MD | 9,990,887 |  |  | 2,221 | 1,439
Rachel Carson:
York, ME | 2,614,299 | 17.9 | <0.01 | 870 | 653
San Pablo Bay:
Napa, CA | 1,813,897 | 6.6 | <0.01 | 526 | 374
Solano, CA | 5,451,956 | 6.6 | <0.01 | 1,066 | 682
Sonoma, CA | 6,423,178 | 6.6 | <0.01 | 1,766 | 1,274
Sevilleta:
Socorro, NM | 127,902 | 2.0 | <0.01 | 39 | 31
Shiawassee:
Saginaw, MI | 3,110,321 | 67.5 | <0.01 | 871 | 590
Swan River:
Lake, MT | 286,486 | 9.0 | <0.01 | 120 | 89
Trempealeau:
Buffalo, WI | 83,043 | 4.4 | 0.01 | 47 | 38
Trempealeau, WI | 344,603 | 4.4 | <0.01 | 104 | 67
Umbagog:
Oxford, ME | 652,741 | 119.9 | 0.02 | 222 | 163
Coos, NH | 604,938 | 119.9 | 0.02 | 184 | 143
Upper Klamath:
Klamath, OR | 808,680 | 36.3 | <0.01 | 241 | 155
Wallkill River:
Sussex, NJ | 1,942,879 | 11.4 | <0.01 | 414 | 299
Orange, NY | 6,641,744 | 11.4 | <0.01 | 1,506 | 1,017
William L. Finley:
Linn, OR | 1,261,501 | 14.7 | <0.01 | 339 | 247

With the small change in overall spending anticipated from this final rule, it is unlikely that a substantial number of small entities will have more than a small impact from the spending change near the affected refuges. Therefore, we certify that this rule will not have a significant economic effect on a substantial number of small entities as defined under the Regulatory Flexibility Act (5 U.S.C. 601 et seq.). A regulatory flexibility analysis is not required. Accordingly, a small entity compliance guide is not required.

Small Business Regulatory Enforcement Fairness Act

The final rule is not a major rule under 5 U.S.C. 804(2), the Small Business Regulatory Enforcement Fairness Act. We anticipate no significant employment or small business effects. This rule:

a. Will not have an annual effect on the economy of 100 million or more. The minimal impact will be scattered across the country and will most likely not be significant in any local area.

b. Will not cause a major increase in costs or prices for consumers; individual industries; Federal, State, or local government agencies; or geographic regions. This rule will have only a slight effect on the costs of hunting opportunities for Americans. If the substitute sites are farther from the participants' residences, then an increase in travel costs will occur. The Service does not have information to quantify this change in travel cost but assumes that, since most people travel less than 100 miles to hunt, the increased travel cost will be small. We do not expect this rule to affect the supply or demand for hunting opportunities in the United States, and, therefore, it should not affect prices for hunting equipment and supplies, or the retailers that sell equipment.

c. Will not have significant adverse effects on competition, employment, investment, productivity, innovation, or the ability of U.S.-based enterprises to compete with foreign-based enterprises. This rule represents only a small proportion of recreational spending at NWRs. Therefore, this rule will have no measurable economic effect on the wildlife-dependent industry, which has annual sales of equipment and travel expenditures of $72 billion nationwide.

Unfunded Mandates Reform Act

Since this final rule will apply to public use of federally owned and managed refuges, it will not impose an unfunded mandate on State, local, or Tribal governments or the private sector of more than $100 million per year. The rule will not have a significant or unique effect on State, local, or Tribal governments or the private sector. A statement containing the information required by the Unfunded Mandates Reform Act (2 U.S.C. 1531 et seq.) is not required.

Takings (E.O. 12630)

In accordance with E.O. 12630, this final rule will not have significant takings implications. This rule will affect only visitors at NWRs and describe what they can do while they are on a refuge.

Federalism (E.O. 13132)

As discussed in Regulatory Planning and Review and Unfunded Mandates Reform Act, above, this final rule will not have sufficient federalism implications to warrant the preparation of a federalism summary impact statement under E.O. 13132. In preparing this final rule, we worked with State governments.

Civil Justice Reform (E.O. 12988)

In accordance with E.O. 12988, the Department of the Interior has determined that this final rule will not unduly burden the judicial system and that it meets the requirements of sections 3(a) and 3(b)(2) of the Order.

Energy Supply, Distribution or Use (E.O. 13211)

On May 18, 2001, the President issued E.O. 13211 on regulations that significantly affect energy supply, distribution, or use. E.O. 13211 requires agencies to prepare Statements of Energy Effects when undertaking certain actions. Because this final rule will open 3 refuges to hunting, open 1 refuge to sport fishing, increase the hunting activities available at 26 refuges, and increase sport fishing activities at 4 refuges, it is not a significant regulatory action under E.O. 12866, and we do not expect it to significantly affect energy supplies, distribution, or use. Therefore, this action is not a significant energy action, and no Statement of Energy Effects is required.

Consultation and Coordination With Indian Tribal Governments (E.O. 13175)

In accordance with E.O. 13175, we have evaluated possible effects on federally recognized Indian tribes and have determined that there are no effects. We coordinate recreational use on NWRs with Tribal governments having adjoining or overlapping jurisdiction before we propose the regulations.

Paperwork Reduction Act (PRA)

This rule does not contain any new collections of information that require approval by the Office of Management and Budget (OMB) under the Paperwork Reduction Act of 1995 (44 U.S.C. 3501 et seq.). OMB has previously approved the information collection requirements associated with regulations implementing refuge-specific hunting and sport fishing regulations and assigned the following OMB control numbers:

• 1018-0102, “National Wildlife Refuge Special Use Permit Applications and Reports, 50 CFR 25, 26, 27, 29, 30, 31, 32, & 36” (expires August 31, 2020),

• 1018-0140, “Hunting and Fishing Application Forms and Activity Reports for National Wildlife Refuges, 50 CFR 25.41, 25.43, 25.51, 26.32, 26.33, 27.42, 30.11, 31.15, 32.1 to 32.72” (expires July 31, 2021), and

• 1018-0153, “National Wildlife Refuge Visitor Check-In Permit and Use Report” (expires December 31, 2018).

An agency may not conduct or sponsor, and a person is not required to respond to, a collection of information unless it displays a currently valid OMB control number.

Endangered Species Act Section 7 Consultation

We comply with section 7 of the Endangered Species Act of 1973, as amended (16 U.S.C. 1531 et seq.), when developing comprehensive conservation plans and step-down management plans—which would include hunting and/or fishing plans—for public use of refuges, and prior to implementing any new or revised public recreation program on a refuge as identified in 50 CFR 26.32. We have completed section 7 consultation on each of the affected refuges.

National Environmental Policy Act

We analyzed this rule in accordance with the criteria of the National Environmental Policy Act of 1969 (NEPA) (42 U.S.C. 4332(C)), 43 CFR part 46, and 516 Departmental Manual (DM) 8.

A categorical exclusion from NEPA documentation applies to publication of amendments to refuge-specific hunting and fishing regulations because they are technical and procedural in nature, and the environmental effects are too broad, speculative, or conjectural to lend themselves to meaningful analysis (43 CFR 46.210 and 516 DM 8). Concerning the actions that are the subject of this rulemaking, we have complied with NEPA at the project level when developing each proposal. This is consistent with the Department of the Interior instructions for compliance with NEPA where actions are covered sufficiently by an earlier environmental document (43 CFR 46.120).

Prior to the addition of a refuge to the list of areas open to hunting and fishing in 50 CFR part 32, we develop hunting and fishing plans for the affected refuges. We incorporate these proposed refuge hunting and fishing activities in the refuge comprehensive conservation plan and/or other step-down management plans, pursuant to our refuge planning guidance in 602 Fish and Wildlife Service Manual (FW) 1, 3, and 4. We prepare these comprehensive conservation plans and step-down plans in compliance with section 102(2)(C) of NEPA, and the Council on Environmental Quality's regulations for implementing NEPA in 40 CFR parts 1500 through 1508. We invite the affected public to participate in the review, development, and implementation of these plans. Copies of all plans and NEPA compliance are available from the refuges at the addresses provided below.

Available Information for Specific Refuges

Individual refuge headquarters have information about public use programs and conditions that apply to their specific programs and maps of their respective areas. To find out how to contact a specific refuge, contact the appropriate Regional office listed below:

Region 1—Hawaii, Idaho, Oregon, and Washington. Regional Chief, National Wildlife Refuge System, U.S. Fish and Wildlife Service, Eastside Federal Complex, Suite 1692, 911 NE 11th Avenue, Portland, OR 97232-4181; Telephone (503) 231-6214.

Region 2—Arizona, New Mexico, Oklahoma, and Texas. Regional Chief, National Wildlife Refuge System, U.S. Fish and Wildlife Service, P.O. Box 1306, 500 Gold Avenue SW, Albuquerque, NM 87103; Telephone (505) 248-6937.

Region 3—Illinois, Indiana, Iowa, Michigan, Minnesota, Missouri, Ohio, and Wisconsin. Regional Chief, National Wildlife Refuge System, U.S. Fish and Wildlife Service, 5600 American Blvd. West, Suite 990, Bloomington, MN 55437-1458; Telephone (612) 713-5360.

Region 4—Alabama, Arkansas, Florida, Georgia, Kentucky, Louisiana, Mississippi, North Carolina, South Carolina, Tennessee, Puerto Rico, and the Virgin Islands. Regional Chief, National Wildlife Refuge System, U.S. Fish and Wildlife Service, 1875 Century Boulevard, Atlanta, GA 30345; Telephone (404) 679-7166.

Region 5—Connecticut, Delaware, District of Columbia, Maine, Maryland, Massachusetts, New Hampshire, New Jersey, New York, Pennsylvania, Rhode Island, Vermont, Virginia, and West Virginia. Regional Chief, National Wildlife Refuge System, U.S. Fish and Wildlife Service, 300 Westgate Center Drive, Hadley, MA 01035-9589; Telephone (413) 253-8307.

Region 6—Colorado, Kansas, Montana, Nebraska, North Dakota, South Dakota, Utah, and Wyoming. Regional Chief, National Wildlife Refuge System, U.S. Fish and Wildlife Service, 134 Union Blvd., Lakewood, CO 80228; Telephone (303) 236-8145.

Region 7—Alaska. Regional Chief, National Wildlife Refuge System, U.S. Fish and Wildlife Service, 1011 E Tudor Rd., Anchorage, AK 99503; Telephone (907) 786-3545.

Region 8—California and Nevada. Regional Chief, National Wildlife Refuge System, U.S. Fish and Wildlife Service, 2800 Cottage Way, Room W-2606, Sacramento, CA 95825; Telephone (916) 414-6464.

Primary Author

Katherine Harrigan, Division of Natural Resources and Conservation Planning, National Wildlife Refuge System, is the primary author of this rulemaking document.

List of Subjects in 50 CFR Part 32

Fishing, Hunting, Reporting and recordkeeping requirements, Wildlife, Wildlife refuges.

Regulation Promulgation

For the reasons set forth in the preamble, we amend title 50, chapter I, subchapter C of the Code of Federal Regulations as follows:

PART 32—HUNTING AND FISHING

1. The authority citation for part 32 continues to read as follows:

Authority: 5 U.S.C. 301; 16 U.S.C. 460k, 664, 668dd-668ee, and 715i; Pub. L. 115-20, 131 Stat. 86.

§ 32.7 [Amended]

2. Amend § 32.7 by adding, in alphabetical order, an entry for “Hackmatack National Wildlife Refuge” in the State of Illinois and in the State of Wisconsin.

3. Amend § 32.23 by:

a. Revising the entry Bald Knob National Wildlife Refuge;

b. Revising the entry Big Lake National Wildlife Refuge;

c. Revising the entry Cache River National Wildlife Refuge;

d. Revising the entry Dale Bumpers White River National Wildlife Refuge;

e. Revising the entry Felsenthal National Wildlife Refuge;

f. Revising the entry Holla Bend National Wildlife Refuge;

g. Revising the entry Overflow National Wildlife Refuge; and

h. Revising the entry Wapanocca National Wildlife Refuge.

The revisions read as follows:

§ 32.23 Arkansas.

* * * * *

Bald Knob National Wildlife Refuge

A. Migratory Game Bird Hunting. We allow hunting of duck, goose, coot, snipe, woodcock, and dove on designated areas of the refuge in accordance with State regulations and subject to the following conditions:

1. We require refuge hunting permits (signed brochure). The permits are nontransferable, and anyone on refuge land in possession of hunting equipment must possess a signed permit at all times.

2. We prohibit migratory game bird hunting on the refuge during the Quota Gun Deer Hunt.

3. With the exception of hunting for woodcock, we prohibit migratory game bird hunting after 12 p.m. (noon) during the regular State waterfowl hunting season.

4. We allow hunting for woodcock daily throughout the State season.

5. You may possess only approved nontoxic shot shells for hunting while in the field (see § 32.2(k)) in quantities of 25 or fewer. The possession limit includes shells located in or on vehicles and other personal equipment. The field possession limit for shells does not apply to goose hunting during the State Conservation Order.

6. We prohibit hunting closer than 100 yards (90 meters) to another hunter or hunting party.

7. You must remove decoys, blinds, boats, and all other equipment (see § 27.93 of this chapter) daily by 1 p.m.

8. We open the refuge to daylight use only, 30 minutes before legal sunrise to 30 minutes after legal sunset, with the exception that hunters may enter the refuge beginning at 4 a.m. and must exit by 1 hour after legal shooting time ends.

9. Boats with the owner's name and address permanently displayed or displaying valid registration may be left on the refuge from March 1 through October 31. We prohibit the use of boats from 12 a.m. (midnight) to 4 a.m. during duck season.

10. We allow use of dogs for migratory game bird hunting.

11. We prohibit airboats, hovercraft, and personal watercraft (Jet Ski, etc.).

B. Upland Game Hunting. We allow hunting of squirrel, rabbit, quail, raccoon, opossum, beaver, muskrat, nutria, armadillo, and coyote on designated areas of the refuge in accordance with State regulations and subject to the following conditions:

1. Conditions A1, A8, and A11 apply.

2. Hunters may use shotguns only with approved nontoxic shot (see § 32.2(k)) and rifles chambered for rimfire cartridges.

3. We allow squirrel hunting September 1 through February 28, except for season closure of the refuge during the Quota Gun Deer Hunt. We allow dogs.

4. We allow rabbit hunting in accordance with the State season, except for season closure of the refuge during the Quota Gun Deer Hunt. We allow dogs.

5. We allow quail hunting in accordance with the State season, except for season closure of the refuge during the Quota Gun Deer Hunt. We allow dogs.

6. We allow hunting of raccoon and opossum with dogs. We require dogs for hunting raccoon/opossum at night, 30 minutes after legal sunset to 30 minutes before legal sunrise. We list annual season dates in the refuge hunting brochure/permit. We prohibit field trials and organized training events.

7. Hunters may take beaver, muskrat, nutria, armadillo, and coyote during any refuge hunt with those weapons legal during those hunts, subject to applicable State seasons and regulations.

8. We limit nighttime hunting to raccoon/opossum hunting.

C. Big Game Hunting. We allow hunting of deer, feral hog, and turkey on designated areas of the refuge in accordance with State regulations and subject to the following conditions:

1. Conditions A1, A8, and A11 apply.

2. We divide the refuge into two hunting units: Farm Unit and Mingo Creek Unit.

3. The archery/crossbow hunting season for deer begins on the opening day of the State season and continues throughout the State season in the Mingo Creek Unit and Farm Unit except for the season closure of the refuge during the Quota Gun Deer Hunt. We provide annual season dates and bag limits in the hunt brochure/permit (signature required).

4. Muzzleloader hunting season for deer will begin in October and continue for a period of up to 9 days in all hunting units with annual season dates and bag limits provided on the hunt brochure/permit.

5. The modern gun hunting season for deer will begin in November and continue for a period of up to 9 days in all hunting units with annual season dates and bag limits provided in the hunt brochure/permit.

6. We prohibit spring and fall gun hunting for turkey.

7. All harvested game must be checked according to State regulations. The Refuge zone to be reported is 002.

8. You may use only shotguns with rifled slugs, muzzleloaders, and legal pistols for modern gun deer hunting on the Farm Unit.

9. We allow only portable deer stands. You may erect stands 7 days prior to the refuge deer season and must remove them from the waterfowl sanctuaries prior to November 15, except for stands used by Quota Gun Deer Hunt permit holders (fee/signature required), which you must remove by the last day of the Quota Gun Deer Hunt. You must remove all stands on the remainder of the refuge within 7 days of the closure of archery season (see § 27.93 of this chapter). We prohibit leaving any tree stand, ground blind, or game camera on the refuge without the owner's name and address clearly written in a conspicuous location.

10. We prohibit the possession or use of buckshot for hunting on all refuge lands.

11. We prohibit hunting from mowed and/or graveled road rights-of-way.

12. Refuge lands are located in State-designated Flood Prone Region B, and we will close them to all deer hunting when the White River Gauge at Augusta reaches 31 feet (9.3 meters (m)), as reported by the National Weather Service, and reopen them when the same gauge reading falls below 30 feet (9.1 m) and the White River Gauge at Georgetown falls to, or below, 19 feet (5.7 m).

13. We allow only Quota Gun Deer Hunt permit holders on the refuge during the Quota Gun Deer Hunt and only for the purposes of deer hunting. We close the refuge to all other entry and public use during the Quota Gun Deer Hunt.

14. We close waterfowl sanctuaries to all entry and hunting from November 15 to February 28, except for Quota Gun Deer Hunt permit holders who may hunt in the sanctuary when the season overlaps with these dates.

15. You may enter the refuge at 4 a.m. and remain until 1 hour after legal shooting time.

D. Sport Fishing. We allow fishing in accordance with State regulations and subject to the following conditions:

1. Conditions A8 and B8 apply.

2. We close waterfowl sanctuaries to all entry from November 15 to February 28. We also close the refuge to all entry and fishing during the Quota Gun Deer Hunt.

3. We prohibit commercial fishing.

4. We prohibit the take or possession of turtles and/or mollusks (see § 27.21 of this chapter).

5. We prohibit mooring houseboats to the refuge bank on the Little Red River.

Big Lake National Wildlife Refuge

A. Migratory Game Bird Hunting. [Reserved]

B. Upland Game Hunting. We allow hunting of squirrel, rabbit, raccoon, nutria, coyote, beaver, and opossum on designated areas of the refuge in accordance with State regulations and subject to the following conditions:

1. We require refuge hunt permits. The permits (found on the front cover of the annual hunt brochure/permit—signature required) are nontransferable and anyone on refuge land in possession of hunting equipment must sign and carry the permit at all times.

2. We provide annual season dates for squirrel, rabbit, raccoon, and opossum hunting in the refuge hunting brochure/permit.

3. We allow take of nutria, beaver, and coyote during any refuge hunt with the device allowed for that hunt subject to applicable State seasons and regulations.

4. You may take opossum when hunting raccoon.

5. We require dogs for night hunting of raccoon and opossum. We prohibit field trials and organized training events.

6. When hunting, you may only use shotguns with approved nontoxic shot (see § 32.2(k)) and rifles chambered for rimfire cartridges.

7. We prohibit boats from November 1 through February 28, except on that portion of the refuge open for public fishing with electric motors and Ditch 28.

8. We prohibit hunting from mowed and/or gravel road rights-of-way.

9. We limit nighttime use, 30 minutes after legal sunset to 30 minutes before legal sunrise, to fishing, frogging, and/or raccoon/opossum hunting.

C. Big Game Hunting. We allow hunting of white-tailed deer on designated areas of the refuge in accordance with State regulations and subject to the following conditions:

1. Conditions B1, B3, and B6 through B9 apply.

2. We allow archery/crossbow hunting for white-tailed deer. We provide annual season dates in the hunt brochure/permit.

3. Hunters may use only bows or crossbows.

4. Hunters may use only biodegradable materials to mark trails.

5. All harvested game must be checked according to State regulations. The Refuge zone to be reported is 030.

6. We allow only portable deer stands. You may erect stands 7 days prior to the refuge deer season and must remove them 7 days after the closure of archery season (see § 27.93 of this chapter).

7. Hunters may enter the refuge no earlier than 4 a.m. and must leave one hour after legal sunset.

8. We prohibit leaving any tree stand, ground blind, or game camera on the refuge.

D. Sport Fishing. We allow fishing and frogging on designated areas of the refuge in accordance with State regulations subject to the following conditions:

1. Condition B7 applies.

2. Anglers may launch boats only in designated areas.

3. We prohibit airboats, personal watercraft, Jet Skis, and hovercraft (see § 27.31 of this chapter).

4. We allow frogging from the beginning of the State frogging season through October 31.

5. We prohibit the take or possession of turtles and/or mollusks (see § 27.21 of this chapter).

Cache River National Wildlife Refuge

A. Migratory Game Bird Hunting. We allow hunting of duck, goose, coot, snipe, woodcock, and dove on designated areas of the refuge in accordance with State regulations and subject to the following conditions:

1. We require refuge hunting permits. These permits (found on the front cover of the annual hunt brochure/permit—signature required) are nontransferable, and anyone on the refuge in possession of hunting equipment must sign and carry the permit at all times.

2. We prohibit migratory game bird hunting on the refuge during the Quota Gun Deer Hunt.

3. With the exception of hunting for woodcock, we prohibit migratory game bird hunting after 12 p.m. (noon) during the regular State waterfowl hunting season.

4. We allow hunting for woodcock daily throughout the State seasons.

5. You must remove decoys, blinds, boats, and all other equipment (see § 27.93 of this chapter) daily by 1 p.m.

6. Waterfowl hunters may enter the refuge at 4 a.m. and hunt until 12 p.m. (noon).

7. Boats with the owner's name and address permanently displayed or displaying valid registration may be left on the refuge from March 1 through October 31. We prohibit boats on the refuge from 12 a.m. (midnight) to 4 a.m. during duck season.

8. We allow use of dogs for migratory game bird hunting.

9. We allow waterfowl hunting on flooded refuge roads.

10. We close all other hunts during the Quota Gun Deer Hunt. We allow only Quota Gun Deer Hunt permit (fee/signature required) holders to enter the refuge during this hunt and only for the purpose of deer hunting.

11. We prohibit airboats, hovercraft, and personal watercraft (Jet Ski, etc.) (see § 27.31 of this chapter).

B. Upland Game Hunting. We allow hunting of squirrel, rabbit, quail, raccoon, opossum, beaver, muskrat, nutria, armadillo, and coyote on designated areas of the refuge in accordance with State regulations and subject to the following conditions:

1. Conditions A1, A10, and A11 apply.

2. We allow squirrel hunting September 1 through February 28, except for refuge-wide season closure during the Quota Gun Deer Hunt. We allow dogs.

3. Rabbit season corresponds with the State season, except for refuge-wide season closure during the Quota Gun Deer Hunt. We allow dogs.

4. Quail season corresponds with the State season, except for refuge-wide season closure during the Quota Gun Deer Hunt. We allow dogs.

5. We allow hunting of raccoon and opossum with dogs. We require dogs for hunting of raccoon/opossum at night, 30 minutes after legal sunset to 30 minutes before legal sunrise. We provide annual season dates in the refuge hunting brochure/permit. We prohibit field trials and organized training events.

6. You may take beaver, muskrat, nutria, armadillo, and coyote during any refuge hunt with those weapons legal during those hunts subject to applicable State seasons and regulations.

7. We prohibit hunting from mowed and/or graveled refuge roads except by waterfowl hunters during flooded conditions.

8. You may use only shotguns with approved nontoxic shot (see § 32.2(k)) and rifles chambered for rimfire cartridges when hunting.

9. We limit nighttime use, 30 minutes after legal sunset to 30 minutes before legal sunrise, to fishing, frogging, and/or raccoon/opossum hunting.

C. Big Game Hunting. We allow hunting of deer and turkey on designated areas of the refuge in accordance with State regulations and subject to the following conditions:

1. Conditions A1, A10, A11, B6, B7, and B9 apply.

2. Archery/crossbow hunting season for deer begins on the opening day of the State season and continues throughout the State season, except for refuge-wide season closure during the Quota Gun Deer Hunt. We provide annual season dates and bag limits in the refuge hunting brochure/permit.

3. Muzzleloader hunting season for deer will begin in October and will continue for a period of up to 9 days with annual season dates and bag limits provided on the hunt brochure/permit.

4. Modern gun deer hunting will begin in November and continue for a period of up to 11 days with annual season dates and bag limits provided in the refuge hunt brochure/permit.

5. You may take feral hog with weapons legal during those hunts and according to applicable State Wildlife Management Area regulations.

6. The spring gun hunt for turkey will begin on the opening day of the State season and continue throughout the State season on all refuge lands located south of Interstate 40. The remainder of the refuge is closed with the exception of those refuge lands included in the combined Black Swamp Wildlife Management Area/Cache River National Wildlife Refuge quota permit hunts administered by the Arkansas Game and Fish Commission.

7. Hunters may only use shotguns with rifled slugs, muzzleloaders, or legal pistols for modern gun deer hunting on the Dixie Farm Unit Waterfowl Sanctuary, adjacent waterfowl hunt area, and Plunkett Farm Unit Waterfowl Sanctuary.

8. We allow only portable stands. Hunters may erect stands 7 days prior to the refuge deer season and must remove them from the waterfowl sanctuaries prior to November 15, and from the rest of the refuge within 7 days of the closure of archery season (see § 27.93 of this chapter). We prohibit leaving any tree stand, ground blind, or game camera on the refuge without the owner's name and address clearly written in a conspicuous location.

9. We prohibit the possession or use of buckshot for hunting on all refuge lands.

10. We prohibit hunting from mowed and/or graveled road rights-of-way.

11. We will close refuge lands located in State-designated Flood Prone Region B to all deer hunting when the White River gauge at Augusta reaches 31 feet (9.3 meters (m)), as reported by the National Weather Service, and reopen them when the same gauge reading falls below 30 feet (9.1 m) and the White River gauge at Georgetown falls to, or below, 19 feet (5.7 m).

12. We will close refuge lands located in State-designated Flood Prone Region C to all deer hunting when the Cache River gauge at Patterson exceeds 10 feet (3 m), as reported by the National Weather Service, and reopen them when the same gauge reading falls below 8.5 feet (2.6 m).

13. We will close refuge lands located in Flood Prone Region D to all deer and turkey hunting when the White River gauge at Clarendon reaches 28 feet (8.4 m), as reported by the National Weather Service, and reopen them when the same gauge reading falls to, or below, 27 feet (8.1 m).

D. Sport Fishing. We allow fishing and frogging on designated areas of the refuge in accordance with State regulations and subject to the following conditions:

1. Conditions A10 and B9 apply.

2. We close waterfowl sanctuaries to all entrance and fishing/frogging from November 15 to February 28. We prohibit refuge-wide entry and fishing during the Quota Gun Deer Hunt.

3. We prohibit the take or possession of turtles and/or mollusks (see § 27.21 of this chapter).

4. We prohibit the mooring of houseboats to refuge property.

Dale Bumpers White River National Wildlife Refuge

A. Migratory Game Bird Hunting. We allow hunting of duck and coot on designated areas of the refuge in accordance with State regulations and subject to the following conditions:

1. We require all refuge users to sign and possess a refuge user brochure/permit (signature required).

2. We allow duck hunting from legal shooting hours until 12 p.m. (noon).

3. We allow retriever dogs for migratory game bird hunting.

4. You must remove blinds, blind material, and decoys (see § 27.93 of this chapter) from the refuge by 1 p.m. each day.

5. Waterfowl hunters may enter and access the refuge no earlier than 4 a.m.

6. We prohibit boating November 1 through January 31 in the South Unit Waterfowl Hunt Areas, except from 4 a.m. to 1 p.m. on designated waterfowl hunt days.

7. We prohibit waterfowl hunting on Kansas Lake Area (indicated in refuge user brochure/permit).

8. We allow duck hunting on specific scattered tracts of land, in accordance with the North Unit regulations. Consult the refuge office for further information.

9. We only allow all-terrain vehicles (ATVs) for wildlife-dependent hunting and fishing activities. We restrict ATVs to designated yellow-marked trails throughout the refuge, unless marked otherwise. We prohibit the use of ATVs after December 15 each year in designated South Unit areas as shown in refuge user brochure/permit. We define ATVs as an off-road vehicle with factory specifications not to exceed the following: A maximum dry weight of 1,550 pounds (697.5 kilograms), tires having a centerline lug depth of 1 inch (2.5 centimeters) or less and a maximum tire pressure of 15 pounds per square inch (psi) as indicated on the tire by the manufacturer. We allow only those vehicles originally designed by their manufacturer to be ATVs; we prohibit mini trucks or other modified off-road vehicles.

10. We prohibit the use of decoys that contain moving parts or electrical components, except that you may use manually operated 'jerk strings' to simulate decoy movement.

11. You may not utilize a guide, guide service, outfitter, club, organization, or any other person who provides equipment, services, or assistance on the refuge for compensation.

12. We allow camping only in designated sites and areas identified in the refuge user brochure/permit (signed brochure), and we restrict camping to individuals involved in wildlife-dependent activities. We limit camping on the refuge to no more than 14 days during any 30 consecutive-day period. Campers must occupy camps daily. We prohibit all disturbances, including use of generators, after 10 p.m.

13. We allow refuge users to leave boats 16 feet (4.8 m) or less in length unattended overnight from March 1 to October 31, as long as the owner clearly and prominently displays his or her complete name and physical address.

14. We prohibit all access in the Demonstration and Dry Lake Waterfowl Rest Areas as indicated in the refuge brochure/permit.

15. We prohibit hovercraft, personal watercraft (e.g., jet skis, etc.), and airboats.

B. Upland Game Hunting. We allow hunting of squirrel, rabbit, beaver, coyote, raccoon, and opossum on designated areas of the refuge in accordance with State regulations and subject to the following conditions:

1. Condition A1 applies.

2. We allow hunting of rabbit and squirrel on the North Unit from September 1 until January 31.

3. We allow dogs for hunting of rabbit and squirrel from December 1 through January 31 on the North Unit.

4. You may hunt rabbit and squirrel on the South Unit from September 1 until November 30.

5. We prohibit dogs on the South Unit for the purpose of squirrel or rabbit hunting.

6. We close all upland game hunts during quota Gun Deer Hunt and quota Muzzleloader Deer Hunt.

7. We allow furbearer (as defined by State law) hunting in accordance with season dates posted in the refuge user brochure/permit (signed brochure). We allow furbearer hunting only with rimfire weapons and shotguns.

8. We allow the use of dogs for hunting furbearers from legal sunset to legal sunrise. Hunters must tether or pen all dogs used for furbearer hunting from legal sunrise to legal sunset and any time they are not involved in actual hunting.

9. We allow upland game hunting on specific scattered tracts of land, in accordance with Statewide regulations.

C. Big Game Hunting. We allow the hunting of white-tailed deer and turkey on designated areas of the refuge in accordance with State regulations and subject to the following conditions:

1. Condition A1 applies.

2. Archery deer seasons on the North Unit are from the beginning of October until the end of January except during quota muzzleloader and quota gun deer hunts, when the archery season is closed. We provide annual season dates and bag limits in the refuge user brochure/permit (signed brochure).

3. Archery deer seasons on the South Unit are from the beginning of October until the end of December except during quota muzzleloader and quota gun deer hunts, when the archery season is closed. We provide annual season dates and bag limits in the refuge user brochure/permit (signed brochure).

4. Muzzleloader season for deer will begin in October and will continue for a period of up to 3 days of quota hunting and 4 days of non-quota hunting in the North Unit. We provide annual season dates and bag limits in the refuge user brochure/permit (signed brochure).

5. The gun deer hunt will begin in November and will continue for a period of 3 days of quota hunting in the North and South Units, and 2 days of non-quota hunting in the North Unit. We provide annual season dates, bag limits, and areas in the refuge user brochure/permit.

6. We restrict hunt participants for quota hunts to those drawn for a quota permit. The permits are nontransferable and nonrefundable. Hunt dates and application procedures will be available at the refuge office in April.

7. We do not open for the bear season on all refuge-owned lands, including outlying and refuge lands in the Trusten Holder Wildlife Management Area.

8. If you harvest deer or turkey on the refuge, you must immediately record the zone number (Zone 145 for the South Unit or Zone 146 for the North Unit) on your hunting license and later check deer and/or turkey through the State checking system. Outlying tracts use the same zone number as the surrounding State zone.

9. We close the refuge to all non-quota hunting during refuge-wide quota muzzleloader and quota gun deer hunts.

10. You must follow refuge guidance regarding flood-zone closures during the deer hunt. Guidance is found in the refuge brochure, which you must carry at all times.

11. We prohibit the use of dogs other than those specified in the user permit.

12. We prohibit all forms of organized deer drives.

13. We prohibit firearm hunting from or across roads, ATV trails, levees, and maintained utility rights-of-way for deer only.

14. You may only use portable deer stands (see § 27.93 of this chapter). You may erect stands up to 7 days before each hunt, but you must remove them within 7 days after each hunt. All unattended deer stands on the refuge must have the owner's complete name and physical address clearly displayed.

15. We close the Kansas Lake Area to all entry on December 1 and reopen it on March 1.

16. We prohibit the possession of buckshot on the refuge.

17. We prohibit the possession and/or use of toxic shot by hunters using shotguns (see § 32.2(k) of this chapter) when hunting.

18. We provide information on feral hog hunting in the refuge brochure/permit (signed brochure).

D. Sport Fishing. We allow fishing, frogging, and crawfishing for personal use on designated areas of the refuge in accordance with State regulations and subject to the following conditions:

1. Condition A1 applies.

2. We allow fishing year-round in LaGrue, Essex, Prairie, Scrubgrass and Brooks Bayous, Big Island Chute, Moon and Belknap Lakes next to Arkansas Highway 1, Indian Bay, the Arkansas Post Canal and adjacent drainage ditches; borrow ditches located adjacent to the west bank of that portion of the White River Levee north of the Graham Burke pumping station; and all refuge-owned North Unit and scattered tract waters. We open all other South Unit refuge waters to sport fishing from March 1 through November 30 unless posted otherwise.

3. We allow frogging on all refuge-owned waters open for sport fishing as follows: We allow frogging on the South Unit from the beginning of the State season through November 30; we allow frogging on the North Unit for the entire State season.

4. We prohibit all commercial and recreational harvest of turtle on all property administered by Dale Bumpers White River National Wildlife Refuge.

5. We prohibit take or possession of any freshwater mussel, and we do not open to mussel shelling.

Felsenthal National Wildlife Refuge

A. Migratory Game Bird Hunting. We allow hunting of duck, goose, and coot on designated areas of the refuge in accordance with State regulations and subject to the following conditions:

1. We allow hunting of duck, goose, and coot during the State waterfowl season except during scheduled quota refuge Gun Deer Hunts.

2. Hunting of duck, goose, and coot ends at 12 p.m. (noon) each day.

3. We allow only portable blinds. You must remove all duck hunting equipment (portable blinds, boats, guns, and decoys) (see § 27.93 of this chapter) from the hunt area by 1:30 p.m. each day.

4. We close areas of the refuge posted with “Area Closed” signs and identify them on the refuge hunt brochure map as a waterfowl sanctuary. Waterfowl sanctuaries are closed to all public entry and public use during waterfowl hunting season.

5. Hunters must possess and carry a signed Refuge Public Use Regulations Brochure/Access Permit (signed brochure) while hunting.

6. We prohibit possession and/or use of herbicides (see § 27.51 of this chapter).

7. All youth hunters age 15 and younger must remain within sight and normal voice contact of an adult age 21 or older, possessing a valid hunting license. One adult may supervise no more than two youth hunters.

8. We allow only all-terrain vehicles/utility-type vehicles (ATVs/UTVs) for hunting and fishing activities. We restrict ATVs/UTVs to designated times and designated trails (see § 27.31 of this chapter) marked with signs and paint. We identify these trails and the dates they are open for use in the refuge hunt brochure. We limit ATVs/UTVs to those having an engine displacement size not exceeding 700cc. We limit ATV/UTV tires to those having a centerline lug depth not exceeding 1 inch (2.5 centimeters). You may use horses on roads and ATV/UTV trails (when open to motor vehicle and ATV/UTV traffic, respectively) as a mode of transportation for hunting and fishing activities on the refuge.

9. We prohibit hunting within 150 feet (45 meters (m)) of roads and trails open to motor vehicle use (including ATV/UTV trails).

10. We allow camping only at designated primitive campground sites identified in the refuge hunt brochure, and we restrict camping to individuals involved in wildlife-dependent refuge activities. Campers may stay no more than 14 days during any 30 consecutive-day period in any campground and must occupy camps daily. We prohibit all disturbances, including use of generators, after 10 p.m. You must unload all hunting weapons (see § 27.42(b) of this chapter) within 100 yards (90 m) of a campground.

11. You may take beaver, nutria, and coyote during any daytime refuge hunt with weapons and ammunition allowed for that hunt. There is no bag limit.

12. We allow the use of retriever dogs.

13. We prohibit the use or possession of any electronic call or other electronic device used for producing or projecting vocal sounds of any wildlife species.

14. We prohibit leaving any boat on the refuge.

B. Upland Game Hunting. We allow hunting of quail, squirrel, rabbit, and furbearers (as defined by State law) on designated areas of the refuge in accordance with State regulations and subject to the following conditions:

1. Conditions A4 through A10, and A12 apply.

2. We allow hunting for quail, squirrel, rabbit, and furbearers (as defined by State law) on the refuge during State seasons through January 31. We list specific hunting season dates annually in the refuge hunt brochure. We close upland game hunting during refuge quota deer hunts. We annually publish dates for these quota deer hunts in the refuge hunt brochure.

3. We do not open for spring squirrel hunting season, summer/early fall raccoon hunting season, or spring bobcat hunting season.

4. We prohibit possession of lead ammunition except that you may possess rimfire rifle lead ammunition no larger than .22 caliber for upland game hunting. We prohibit possession of shot larger than that legal for waterfowl hunting. During the deer and turkey hunts, hunters may possess lead ammunition legal for taking deer and turkey. We prohibit buckshot for gun deer hunting.

5. You may use dogs for squirrel and rabbit hunting from December 1 through January 31. You may also use dogs for quail hunting and for raccoon/opossum hunting during open season on the refuge for these species.

C. Big Game Hunting. We allow hunting of white-tailed deer, feral hog, and turkey on designated areas of the refuge in accordance with State regulations and subject to the following conditions:

1. Conditions A5 through A10 apply.

2. We allow archery deer hunting on the refuge from the opening of the State season through January 31.

3. We close archery deer hunting during the quota gun deer hunts.

4. The refuge will conduct no more than two muzzleloader deer hunts and no more than four quota modern gun deer hunts.

5. We allow muzzleloader deer hunting during the October State Muzzleloader season for this deer management zone. The refuge will conduct one 4-day quota modern gun hunt for deer, typically in November. The refuge also may conduct one mobility-impaired hunt for deer typically in early November.

6. Total deer harvested refuge-wide is two deer (two does or one buck and one doe as defined by State law) regardless of method. See refuge brochure for specific bag limit information.

7. Hunters must check all harvested deer during quota hunts at refuge deer check stations on the same day of the kill. We identify the check station locations in the refuge hunt brochure. Carcasses of deer taken must remain intact (except you may field dress) until checked.

8. You may only use portable deer stands erected no earlier than the opening day of Archery Season and you must remove them no later than January 31 each year (see § 27.93 of this chapter).

9. We prohibit the use of deer decoy(s).

10. We prohibit horses and mules during refuge quota deer hunts.

11. We open spring archery turkey hunting during the State spring turkey season. We do not open for fall archery turkey season.

12. We close spring archery turkey hunting during scheduled turkey quota gun hunts.

13. The refuge will conduct no more than three quota permit spring turkey gun hunts and no more than two 3-day quota spring turkey hunts (typically in April). Specific hunt dates and application procedures will be available at the refuge office in January. We restrict hunt participants to those selected for a quota permit, except that one nonhunting adult age 21 or older possessing a valid hunting license must accompany the youth hunter age 15 and younger.

14. An adult age 21 or older possessing a valid hunting license must accompany and be within sight and normal voice contact of hunters age 15 and younger. One adult may supervise no more than one youth hunter.

15. We prohibit leaving any tree stand, ground blind, or game camera on the refuge without the owner's name and address clearly written in a conspicuous location. Game cameras must be removed from the refuge daily and are prohibited from being left overnight.

16. We restrict hunt participants for quota hunts to those drawn for a quota permit (Quota Deer Hunt Application, FWS Form 3-2354). These permits are nontransferable and permit fees are nonrefundable. If conditions prevent the hunts from taking place, there will be no refunds or permits carried over from year to year. Hunt dates and application procedures will be available at the refuge office in July for deer and January for turkey.

17. The incidental taking of feral hogs will be in accordance with Arkansas Game and Fish Commission regulations concerning the taking of feral hogs on State WMAs. If allowed on State WMAs, feral hogs may be taken incidental to daytime refuge hunts (without the use of dogs) with legal hunting equipment and ammunition allowed for that hunt. No bag limit. Live hogs may not be transported or possessed.

D. Sport Fishing. We allow fishing, frogging, and crawfishing for personal use on designated areas of the refuge in accordance with State regulations subject to the following conditions:

1. Conditions A5, A6, A7, A10, and A14 apply.

2. We prohibit fishing in the waterfowl sanctuary area when the sanctuary is closed, with the exception of the main channel of the Ouachita and Saline Rivers and the borrow pits along Highway 82. We post the waterfowl sanctuary area with “Area Closed” signs and identify those areas in refuge hunt brochures.

3. We allow fishing only in areas accessible from the Ouachita and Saline Rivers and Eagle, Jones, and Pereogeethe Lakes during the refuge quota gun hunts.

4. You must reset trotlines when receding water levels expose them.

Holla Bend National Wildlife Refuge

A. Migratory Game Bird Hunting. [Reserved]

B. Upland Game Hunting. We allow hunting of squirrel, rabbit, raccoon, opossum, beaver, armadillo, coyote, and bobcat on designated areas of the refuge in accordance with State regulations and subject to the following conditions:

1. We require refuge hunting permits (found on the front cover of the annual hunt brochure/permit—signature required). The permits are nontransferable, and anyone on refuge land in possession of hunting equipment must sign and carry the permits at all times. Your hunt permit will also act as your entrance pass to the refuge.

2. During the refuge archery season, you may take only squirrel, rabbit, raccoon, opossum, beaver, armadillo, coyote, or bobcat.

3. We allow gun hunting of raccoon and opossum with dogs every Thursday, Friday, and Saturday until legal sunrise during the month of February. We prohibit field trials and organized training events (see § 26.21(b) of this chapter).

4. We only allow all-terrain vehicles (ATVs) for hunters and anglers with disabilities. We require a refuge ATV permit (Special Use Permit; FWS Form 3-1383-G) issued by the refuge manager.

5. We prohibit hunting from a vehicle.

6. You must enter and exit the refuge from designated roads and parking areas. We prohibit accessing refuge waters and land from the Arkansas River. We prohibit boating over the dam at the Old River Channel from either direction.

7. We prohibit hunting within 100 feet (30 meters) of roads open to motor vehicle use and nature trails.

8. We allow the use of nonmotorized boats during the refuge fishing/boating season (March 1 to October 31), but we prohibit hunters leaving boats on the refuge overnight (see § 27.93 of this chapter).

C. Big Game Hunting. We allow hunting of deer and turkey on designated areas of the refuge in accordance with State regulations and subject to the following conditions:

1. Conditions B1 and B4 through B8 apply.

2. We allow archery/crossbow hunting for white-tailed deer and turkey. We provide annual season dates in the public use regulations brochure/permit (signature required).

3. The refuge will conduct one youth-only (between ages 6 and 15 at the beginning of the gun deer season in Zone 7) quota gun deer hunt. Specific hunt dates and application procedures will be available at the refuge office in July. We restrict hunt participants to those selected for a quota permit, except that one nonhunting adult must accompany the youth hunter during the youth hunt.

4. We open spring archery turkey hunting during the State turkey season.

5. We close the refuge to all entry and public use during scheduled youth quota gun hunts, except for those allowed to participate in the youth quota gun hunt.

6. The refuge will conduct two youth-only (age 6 to 15 at the beginning of the spring turkey season) quota spring gun turkey hunts, each 2 days in length. Specific hunt dates and application procedures will be available at the refuge office in January. We restrict hunt participants to those selected for a quota permit (name, address, phone number required), except that one nonhunting adult age 21 or older must accompany the youth hunter during the youth hunt.

7. We allow only portable deer stands. You may erect stands 7 days before the start of the season and must remove the stands from the refuge within 7 days after the season ends (see §§ 27.93 and 27.94 of this chapter).

8. You must permanently affix the owner's name, address, and phone number to all tree stands, ground blinds, or game cameras on the refuge.

9. We prohibit hunting from paved, graveled, and mowed roads and mowed trails (see § 27.31 of this chapter).

10. We prohibit all forms of organized game drives.

11. You must check all game at the refuge check station.

D. Sport Fishing. We allow sport fishing and frogging in accordance with State regulations and subject to the following conditions:

1. Conditions B4, B6, and C5 apply.

2. Waters of the refuge are only open for fishing March 1 through October 31 from legal sunrise to legal sunset.

3. We prohibit anglers from leaving their boats unattended overnight on any portion of the refuge (see § 27.93 of this chapter).

4. We prohibit the take and possession of turtles and/or mollusks (see § 27.21 of this chapter).

5. We prohibit airboats, hovercraft, and personal watercraft (Jet Skis, etc.) (see § 27.31 of this chapter).

Overflow National Wildlife Refuge

A. Migratory Game Bird Hunting. We allow hunting of duck, goose, and coot on designated areas of the refuge in accordance with State regulations and subject to the following conditions:

1. You must possess and carry a Refuge Public Use Regulations Brochure/Access Permit (signed brochure) while hunting.

2. Hunting of duck, goose, and coot ends at 12 p.m. (noon) each day.

3. We allow only portable blinds. Hunters must remove portable blinds, boats, and decoys from the hunt area by 1:30 p.m. each day (see § 27.93 of this chapter).

4. You may only possess shotshells in quantities of 25 or fewer per day during waterfowl hunting season; hunters may not discharge more than 25 shells per day.

5. Hunters under age 16 do not need to have a hunter education card if they are under the direct supervision (within arm's reach) of a holder of a valid hunting license who is at least age 21.

6. All youth hunters age 15 and younger must remain within sight and normal voice contact of an adult age 21 or older, possessing a valid hunting license. One adult may supervise no more than two youth hunters.

7. We allow only all-terrain vehicles/utility-type vehicles (ATVs/UTVs) for hunting activities. We restrict ATVs/UTVs to designated times and designated trails (see § 27.31 of this chapter) marked with signs and paint. We identify those trails and the dates that they are open for use in the refuge hunt brochure. We limit ATVs/UTVs to those having an engine displacement size not exceeding 700cc. We limit ATV/UTV tires to those having a centerline lug depth not exceeding 1 inch (2.5 centimeters). You may use horses on roads and ATV/UTV trails (when open to motor vehicle and ATV/UTV traffic respectively) as a mode of transportation for hunting activities on the refuge.

8. We prohibit hunting within 150 feet (45 meters) of roads and trails open to motor vehicle use (including ATV/UTV trails).

9. You may take beaver, nutria, and coyote during any daytime refuge hunt with weapons and ammunition legal for that hunt. There is no bag limit. We prohibit transportation or possession of live hog.

10. All boats are prohibited on the refuge between the hours of 1:30 p.m. and 4 a.m. during waterfowl season.

11. All boat motors (including surface drive motors, mud motors, etc.) larger than 25 horsepower (HP) are prohibited.

12. Hunters may not enter the refuge until 4 a.m., with the exception of designated parking areas. Hunting ends at 12 p.m. (noon) each day.

B. Upland Game Hunting. We allow hunting of quail, squirrel, rabbit, and furbearers (as defined by State law) on designated areas of the refuge in accordance with State regulations and subject to the following conditions:

1. Conditions A4 through A9, and A11 apply.

2. We allow hunting during State seasons (see State regulations for the appropriate zone) for quail, squirrel, rabbit, and furbearers (as defined by State law) through January 31. We list specific hunting season dates annually in the refuge hunt brochure.

3. We do not open for the spring squirrel hunting season, summer/fall raccoon hunting season, or the spring bobcat hunting season.

4. When upland game hunting, we prohibit possession of lead ammunition except that you may possess rimfire rifle lead ammunition no larger than .22 caliber. We prohibit possession of shot larger than that legal for waterfowl hunting.

5. You may use dogs for squirrel and rabbit hunting from December 1 through January 31. You may also use dogs for quail hunting and for raccoon/opossum hunting during open season on the refuge for these species.

6. We allow nighttime raccoon and opossum hunting.

C. Big Game Hunting. We allow hunting of white-tailed deer, feral hog, and turkey on designated areas of the refuge in accordance with State regulations and subject to the following conditions:

1. Conditions A5 through A9, and A11 apply.

2. We allow muzzleloader deer hunting during the first State muzzleloader season for this zone (see State regulations for appropriate zone).

3. We prohibit buckshot for gun deer hunting.

4. Bag limit for the muzzleloader deer hunt is two deer, with no more than one buck.

5. You may only use portable deer stands erected no earlier than the opening day of Archery Season and you must remove them no later than January 31 each year (see § 27.93 of this chapter). Limit is one deer stand, blind, etc., per person.

6. We prohibit the use of deer decoy(s).

7. The refuge will conduct no more than one quota permit youth spring turkey gun hunt. Specific hunt dates and application procedures will be available at the refuge office in January. We restrict hunt participants on these hunts to those selected for a quota permit, except that one nonhunting adult age 21 or older and possessing a valid hunting license must accompany a youth hunter age 15 or younger.

8. An adult age 21 or older possessing a valid hunting license must accompany and be within sight or normal voice contact of hunters age 15 and younger. One adult may supervise no more than one youth hunter.

9. The incidental taking of feral hogs will be in accordance with Arkansas Game and Fish Commission regulations concerning the taking of feral hogs on State WMAs. If allowed on State WMAs, feral hogs may be taken incidental to daytime refuge hunts (without the use of dogs) with legal hunting equipment and ammunition allowed for that hunt. No bag limit. Live hogs may not be transported or possessed.

D. Sport Fishing. [Reserved]

* * * * *

Wapanocca National Wildlife Refuge

A. Migratory Game Bird Hunting. We allow hunting of snow geese on designated areas of the refuge in accordance with State regulations and subject to the following conditions:

1. We require refuge hunting permits. The permits (found on the front cover of the annual hunt brochure/permit—signature required) are nontransferable and anyone on refuge land in possession of hunting equipment must sign and carry them at all times.

2. We provide annual season dates on the hunt brochure/permit.

3. Hunters may enter the refuge at 4 a.m. and must leave the refuge by legal sunset.

4. Roundpond and Pigmon Units are closed to all migratory bird hunting.

B. Upland Game Hunting. We allow hunting of squirrel, rabbit, raccoon, nutria, beaver, coyote, feral hog, and opossum in accordance with State regulations and subject to the following conditions:

1. Conditions A1 through A4 apply.

2. You may use only shotguns with approved nontoxic shot (see § 32.2(k)) and rifles chambered for rimfire cartridges when hunting.

3. We provide annual season dates for squirrel, rabbit, raccoon, and opossum hunting on the hunt brochure/permit. We allow dogs.

4. You may take nutria, beaver, and coyote during any refuge hunt with those weapons legal during those hunts, subject to applicable State seasons and regulations.

5. You may take feral hog only during the refuge Quota Gun Deer Hunt and according to State WMA regulations.

6. We limit nighttime hunting to raccoon/opossum hunting.

7. We close all other hunts during the Quota Gun Deer Hunt. We allow only Quota Gun Deer Hunt permit (fee/signature required) holders to enter the refuge during this hunt and only for deer hunting.

C. Big Game Hunting. We allow hunting of big game on designated areas of the refuge in accordance with State regulations and subject to the following conditions:

1. Conditions A1 through A4, and B4 through B7 apply.

2. We prohibit hunting from mowed and/or graveled road rights-of-way.

3. We specify annual season dates, bag limits, and hunting methods on the annual hunting brochure/permit.

4. We allow only portable deer stands. You may erect stands 7 days prior to the refuge deer season and must remove them from the waterfowl sanctuaries by December 1. You must remove all stands on the remainder of the refuge within 7 days of the closure of archery season (see § 27.93 of this chapter).

5. We prohibit the possession or use of buckshot for hunting on all refuge lands.

6. We prohibit leaving any tree stand, ground blind, or game camera on the refuge without the owner's name, address, and phone number clearly written in a conspicuous location.

D. Sport Fishing. We allow fishing on the refuge in accordance with State regulations and subject to the following conditions:

1. We allow fishing from March 1 through October 31 from ½ hour before legal sunrise to ½ hour after legal sunset.

2. We prohibit the possession or use of live carp, shad, buffalo, or goldfish for bait.

3. We prohibit the possession or use of yo-yos, jugs, or other floating containers; drops or limb lines; trotlines; and commercial fishing tackle.

4. We allow bank fishing.

5. We prohibit the take or possession of frogs, mollusks, and/or turtles (see § 27.21 of this chapter).

6. Anglers may launch boats only in designated areas.

7. Anglers must remove all boats daily from the refuge (see § 27.93 of this chapter). We prohibit airboats, personal watercraft, and hovercraft.

4. Amend § 32.24 by:

a. Revising the entry Kern National Wildlife Refuge;

b. Revising the entry Lower Klamath National Wildlife Refuge;

c. Revising the entry Merced National Wildlife Refuge;

d. Revising the entry Sacramento River National Wildlife Refuge;

e. Revising the entry San Luis National Wildlife Refuge;

f. Revising the entry San Pablo Bay National Wildlife Refuge; and

g. Revising the entry Tule Lake National Wildlife Refuge.

The revisions read as follows:

§ 32.24 California.

* * * * *

Kern National Wildlife Refuge

A. Migratory Game Bird Hunting. We allow hunting of geese, ducks, coots, and moorhens on designated areas of the refuge in accordance with State regulations and subject to the following conditions:

1. Hunters assigned to the spaced blind unit must remain within 100 feet (30.5 meters) of the numbered steel post (blind site) except when pursuing cripples, placing decoys, or traveling to and from the parking area.

2. Hunters may not possess more than 25 shells while in the field.

3. We allow only nonmotorized boats.

B. Upland Game Hunting. We allow hunting of pheasant on designated areas of the refuge in accordance with State regulations and subject to the following condition: We allow pheasant hunting only in the free roam unit.

C. Big Game Hunting. [Reserved]

D. Sport Fishing. [Reserved]

Lower Klamath National Wildlife Refuge

A. Migratory Game Bird Hunting. We allow hunting of geese, ducks, coots, moorhens, and snipe on designated areas of the refuge in accordance with State laws and regulations and subject to the following conditions:

1. In the controlled waterfowl hunting area, we require a valid Refuge Recreation Pass for all hunters age 16 or older. An adult with a valid Recreation Pass must accompany hunters age 17 and younger who are hunting in the controlled area.

2. We require advance reservations for the first 2 days of the hunting season. Reservations are obtained through the Waterfowl Lottery each year.

3. Entry hours begin at 4:30 a.m. unless otherwise posted.

4. Shooting hours end at 1 p.m. on all California portions of the refuge with the following exceptions:

i. The refuge manager may designate up to 6 afternoon special youth, ladies, veteran, or disabled hunter waterfowl hunts per season.

ii. The refuge manager may designate up to 3 days per week of afternoon waterfowl hunting for the general public after December 1.

5. You may not set decoys in retrieving zones.

6. We prohibit air-thrust and inboard water-thrust boats.

7. You may use only nonmotorized boats and boats with electric motors on designated motorless units from the start of the hunting season through November 30. You may use motorized boats on designated motorless units from December 1 through the end of hunting season.

8. Pit style hunting blinds located in the Stearns units and unit 9D are first-come, first-served. We require you to hunt within a 200-foot (61-meter) radius of the blind.

B. Upland Game Hunting. We allow hunting of pheasant on designated areas of the refuge in accordance with State laws and regulations and subject to the following condition: In the controlled pheasant hunting area, we require a valid Refuge Recreation Pass for all hunters age 16 or older. An adult with a valid Recreation Pass must accompany hunters age 17 or younger who are hunting in the controlled area.

C. Big Game Hunting. [Reserved]

D. Sport Fishing. [Reserved]

Merced National Wildlife Refuge

A. Migratory Game Bird Hunting. We allow hunting of goose, duck, coot, and moorhen on designated areas of the refuge in accordance with State regulations and subject to the following conditions:

1. You may possess only 25 or fewer shotshells per day after leaving the parking lot.

2. Each hunter must remain inside his or her assigned blind, except for placing decoys, retrieving downed birds, and traveling to and from the parking area. We prohibit shooting from outside the blind.

3. We restrict hunters in the spaced zone area of the Lonetree Unit to their assigned zone except when they are traveling to and from the parking area, retrieving downed birds, or shooting to retrieve crippled birds.

4. Dogs must remain under the immediate control of their owners at all times (see § 26.21(b) of this chapter).

B. Upland Game Hunting. [Reserved]

C. Big Game Hunting. [Reserved]

D. Sport Fishing. [Reserved]

* * * * *

Sacramento River National Wildlife Refuge

A. Migratory Game Bird Hunting. We allow hunting of goose, duck, coot, moorhen, dove, and snipe on designated areas of the refuge in accordance with State regulations and subject to the following conditions:

1. Access to the hunt area on all units open to public hunting is by boat only, except on designated units, which are accessible by foot traffic or boat. We prohibit bicycles or other conveyances. Mobility-impaired hunters should consult with the refuge manager for allowed conveyances. We prohibit waterfowl hunting on the Mooney and Codora Units.

2. On the Codora Unit, we prohibit hunting except for junior hunters on weekends only. Junior hunters must possess a valid junior hunting license and be accompanied by a nonhunting adult.

3. We allow only shotgun hunting.

4. We prohibit hunting within 50 feet (15 meters (m)) of any landward boundary adjacent to private property.

5. We prohibit hunting within 150 yards (45 m) of any occupied dwelling, house, residence, or other building or any barn or other outbuilding used in connection therewith.

6. We prohibit fires on the refuge, except we allow portable gas stoves on gravel bars (see § 27.95(a) of this chapter).

7. We open the refuge for day-use access from 2 hours before legal sunrise until 1½ hours after legal sunset. We allow access during other hours on gravel bars only.

8. We require dogs to be kept on a leash, except for hunting dogs engaged in authorized hunting activities, and under the immediate control of a licensed hunter (see § 26.21(b) of this chapter).

B. Upland Game Hunting. We allow hunting of pheasant, turkey, and quail on designated areas of the refuge in accordance with State regulations and subject to the following conditions:

1. We allow only shotgun and archery hunting.

2. Conditions A1, A2, and A4 through A8 apply.

C. Big Game Hunting. We allow hunting of black-tailed deer and feral hogs on designated areas of the refuge in accordance with State regulations and subject to the following conditions:

1. Conditions A1, A2, A4 through A8, and B1 apply.

2. Feral hogs may be hunted September 1 through March 15.

3. We prohibit the use of dogs while hunting black-tailed deer and feral hogs.

4. We allow the use of only shotguns not capable of holding more than three rounds and firing single non-lead shotgun slugs, and archery equipment. We prohibit the use or possession of rifles and pistols on the refuge for hunting.

D. Sport Fishing. We allow sport fishing on designated areas of the refuge in accordance with State regulations and subject to the following conditions:

1. Conditions A6 through A8 apply.

2. On Packer Lake and Drumheller North, due to primitive access, we only allow boats up to 14 feet (4.2 m) and canoes. Electric motors only.

* * * * *

San Luis National Wildlife Refuge

A. Migratory Game Bird Hunting. We allow hunting of goose, duck, coot, moorhen, and snipe on designated areas of the refuge in accordance with State regulations and subject to the following conditions:

1. You may only hunt snipe within the free-roaming portion of the San Luis Unit waterfowl hunting area.

2. You may only possess shotshells in quantities of 25 or fewer after leaving your assigned parking lot or boat launch.

3. We prohibit dropping of passengers or equipment, and stopping between designated parking areas. You must return your permits to the check stations immediately upon completion of your hunt and prior to using any tour routes or leaving the refuge vicinity.

4. We restrict hunters in the spaced blind area to their assigned blind except when they are placing decoys, traveling to and from the parking area, retrieving downed birds, or pursuing cripples.

5. We restrict hunters in the spaced zone area of the East Bear Creek Unit to their assigned zone except when they are traveling to and from the parking area, retrieving downed birds, or pursuing crippled birds.

6. Access to the Freitas Unit free-roam hunting area is by boat only with a maximum of 5 miles per hour (mph). Prohibited boats include air-thrust and/or inboard water-thrust types.

7. We prohibit the use of motorized boats in the free-roam units with the exception of the Freitas Unit.

8. We do not allow vehicle trailers of any type or size to be in the refuge hunt areas at any time or to be left unattended at any location on the refuge.

9. Dogs must remain under the immediate control of their owners at all times (see § 26.21(b) of this chapter).

B. Upland Game Hunting. We allow hunting of pheasants on designated areas of the refuge in accordance with State regulations and subject to the following conditions:

1. You may only possess shotshells in quantities of 25 or fewer while in the field.

2. Dogs must remain under the immediate control of their owners at all times (see § 26.21(b) of this chapter).

C. Big Game Hunting. [Reserved]

D. Sport Fishing. We allow fishing on designated areas of the refuge in accordance with State regulations and subject to the following conditions:

1. We only allow fishing during normal refuge visitation hours in designated areas as posted.

2. We only allow the use of pole and line or rod and reel to take fish, and anglers must attend their equipment at all times.

San Pablo Bay National Wildlife Refuge

A. Migratory Game Bird Hunting. We allow hunting of goose, duck, and coot on designated areas of the refuge in accordance with State regulations and subject to the following conditions:

1. We only allow hunting in the open waters of San Pablo Bay and navigable sloughs, the Cullinan Ranch Unit, and the Sears Point Dickson Ranch Unit.

2. You may only hunt from a boat. We prohibit walk-in hunting on the refuge.

3. You may possess shotshells only in quantities of 25 or fewer while in the field.

4. We only allow dogs engaged in hunting activities on the refuge during waterfowl season. We prohibit other domesticated animals or pets.

5. We allow foot access through the refuge to the State's Tolay Creek Unit (Midshipman Slough) for waterfowl hunting.

6. We allow waterfowl hunting from legal sunrise to legal sunset.

7. Hunters may enter closed areas of the refuge (tidal marshes) only to retrieve downed birds, but all weapons must be left in the designated hunting areas.

8. We prohibit launching of boats and access to the Bay or sloughs from refuge property except from designated boat launch sites (Cullinan Ranch Unit and Dickson Ranch Unit).

B. Upland Game Hunting. We allow hunting of pheasant only in areas of the Tolay Creek Unit designated by posted signs in accordance with State regulations and subject to the following conditions:

1. You may only hunt on Wednesdays, Saturdays, and Sundays.

2. You may only possess approved nontoxic shotshells (see § 32.2(k)) in quantities of 25 or fewer while in the field.

3. You may only access the Tolay Creek Unit by foot or bicycle.

4. We only allow dogs engaged in hunting activities on the refuge during pheasant season. We prohibit other domesticated animals or pets.

C. Big Game Hunting. [Reserved]

D. Sport Fishing. We allow fishing on the refuge in accordance with State and Federal regulations, and subject to the following conditions:

1. The refuge is only open to fishing from legal sunrise to legal sunset.

2. We only allow fishing in the open waters of San Pablo Bay and navigable sloughs, the Cullinan Ranch Unit, and the Dickson Ranch Unit.

3. We prohibit walking through or over marsh vegetation.

4. We prohibit launching of boats and access to the Bay or sloughs from refuge property except from designated boat launch sites. We allow only nonmotorized crafts at the Cullinan Ranch Unit and Dickson Ranch Unit launch sites.

5. We only allow fishing from the shore at designated areas along the west side of Cullinan Ranch Unit in addition to the fishing and wildlife observation pier and canoe/kayak dock.

6. We allow fishing only with a pole and line or rod and reel. We prohibit bow fishing and gigging.

* * * * *

Tule Lake National Wildlife Refuge

A. Migratory Game Bird Hunting. We allow hunting of geese, ducks, coots, moorhens, and snipe on designated areas of the refuge in accordance with State laws and regulations, and subject to the following conditions:

1. In the controlled waterfowl hunting area, we require a valid Refuge Recreation Pass for all hunters age 16 or older. An adult with a valid Recreation Pass must accompany hunters age 17 or younger who are hunting in the controlled area.

2. We require advance reservations for the first 2 days of the hunting season. You may obtain a reservation through the Waterfowl Lottery each year.

3. Entry hours begin at 4:30 a.m. unless otherwise posted.

4. Shooting hours end at 1 p.m. on all portions of the refuge with the following exceptions:

i. The refuge manager may designate up to 6 afternoon special youth, ladies, veteran, or disabled hunter waterfowl hunts per season.

ii. The refuge manager may designate up to 3 days per week of afternoon waterfowl hunting for the general public after December 1.

5. You select blind sites by lottery at the beginning of each hunt day. You may shoot only from within your assigned blind site.

6. We prohibit the setting of decoys in retrieving zones.

7. We prohibit air-thrust and inboard water-thrust boats.

8. We prohibit the use of all-terrain amphibious or utility-type vehicles (UTVs) in wetland units.

B. Upland Game Hunting. We allow hunting of pheasant on designated areas of the refuge in accordance with State laws and regulations, and subject to the following condition: In the controlled pheasant hunting area, we require a valid Refuge Recreation Pass for all hunters age 16 or older. An adult with a valid Recreation Pass must accompany hunters age 17 or younger who are hunting in the controlled area.

C. Big Game Hunting. [Reserved]

D. Sport Fishing. [Reserved]

5. Amend § 32.25 by:

a. Under the entry Alamosa National Wildlife Refuge:

i. Removing paragraphs A.2 and A.4;

ii. Redesignating paragraph A.3 as A.2; and

iii. Revising paragraphs B and C;

b. Revising the entry Arapaho National Wildlife Refuge;

c. Revising the entry Baca National Wildlife Refuge; and

d. Revising the entry Monte Vista National Wildlife Refuge.

The revisions read as follows:

§ 32.25 Colorado.

* * * * *

Alamosa National Wildlife Refuge

* * * * *

B. Upland Game Hunting. We allow hunting of cottontail rabbit, and black-tailed and whitetailed jackrabbit, on designated areas of the refuge in accordance with State regulations and subject to the following condition: Condition A2 applies.

C. Big Game Hunting. We allow hunting of elk on designated areas of the refuge in accordance with State regulations.

* * * * *

Arapaho National Wildlife Refuge

A. Migratory Game Bird Hunting. We allow hunting of duck, coot, merganser, Canada goose, snipe, Virginia and Sora rail, and mourning dove on designated areas of the refuge in accordance with State and Federal regulations, and subject to the following conditions:

1. All migratory bird hunting closes annually on December 31.

2. We allow access to the refuge one hour prior to legal shooting time.

3. We allow use of only portable stands and blinds that the hunter must remove following each day's hunt (see § 27.93 of this chapter).

4. We prohibit hunting 200 feet (60 meters) from any public use road, designated parking area, or designated public use facility located within the hunt area.

B. Upland Game Hunting. We allow hunting of jackrabbit, cottontail rabbit, and sage grouse on designated areas of the refuge in accordance with State regulations and subject to the following conditions:

1. All upland game hunting closes annually on December 31.

2. Condition A2 applies.

C. Big Game Hunting. We allow hunting of antelope and elk on designated areas of the refuge in accordance with State regulations and subject to the following conditions:

1. Conditions A2 and A3 apply.

2. Elk hunters:

i. Must possess a refuge-specific permit to hunt elk; and

ii. Must attend a scheduled pre-hunt information meeting prior to hunting.

D. Sport Fishing. We allow fishing on designated areas of the refuge on the Illinois River in accordance with State regulations and subject to the following conditions:

1. We prohibit fishing between June 1 and July 31 each year.

2. We allow fishing only from legal sunrise to legal sunset.

3. We prohibit ice fishing on the refuge.

4. Fishing is closed in Unit C when the refuge is open to big game rifle hunting.

5. We prohibit lead sinkers and live bait for fishing.

Baca National Wildlife Refuge

A. Migratory Game Bird Hunting. We allow hunting of Eurasian collared-doves and mourning doves only in designated areas of the refuge in accordance with State and Federal regulations, and subject to the following conditions:

1. We allow Eurasian collared-dove hunting only during the mourning dove season.

2. The only acceptable methods of take are shotguns, hand-held bows, and hawking/falconry.

B. Upland Game Hunting. We allow hunting of cottontail rabbit, and black-tailed and white-tailed jackrabbit, on designated areas of the refuge in accordance with State regulations and subject to the following condition: Shotguns, rifles firing rimfire cartridges less than .23 caliber, hand-held bows, pellet guns, slingshots, and hawking/falconry are the only acceptable methods of take.

C. Big Game Hunting. We allow hunting of elk on designated areas of the refuge in accordance with State regulations and subject to the following condition: You must possess a valid State license and a refuge-specific permit from the State, or a valid State license issued specifically for the refuge, to hunt elk. State license selection will be made via the Colorado Parks and Wildlife hunt selection process.

D. Sport Fishing. [Reserved]

* * * * *

Monte Vista National Wildlife Refuge

A. Migratory Game Bird Hunting. We allow hunting of geese, ducks, coots, snipe, Eurasian collared-doves, and mourning doves on designated areas of the refuge in accordance with State and Federal regulations, and subject to the following conditions:

1. We allow Eurasian collared-dove hunting only during the mourning dove season.

2. The only acceptable methods of take are shotguns, hand-held bows, and hawking/falconry.

B. Upland Game Hunting. We allow hunting of cottontail rabbit, and black-tailed and white-tailed jackrabbit, on designated areas of the refuge in accordance with State regulations and subject to the following condition: Condition A2 applies.

C. Big Game Hunting. We allow hunting of elk on designated areas of the refuge in accordance with State regulations and subject to the following condition: You must possess a valid State license and a refuge-specific permit from the State, or a valid State license issued specifically for the refuge, to hunt elk. State license selection will be made via the Colorado Parks and Wildlife hunt selection process.

D. Sport Fishing. [Reserved]

* * * * *

§ 32.26 [Amended]

6. Amend § 32.26, the entry Stewart B. McKinney National Wildlife Refuge, by:

a. Removing paragraphs A.2, A.3, A.5, A.6, A.7, A.8, A.9, A.12, A.13, and A.14; and

b. Redesignating paragraphs A.4, A.10, and A.11 as paragraphs A.2, A.3, and A.4, respectively.

7. Amend § 32.27 by:

a. Under the entry Bombay Hook National Wildlife Refuge:

i. Revising paragraphs A and B, and the introductory text of paragraph C; and

ii. Removing paragraphs C.3 and C.4; and

b. Revising the entry Prime Hook National Wildlife Refuge.

The revisions read as follows:

§ 32.27 Delaware.

* * * * *

Bombay Hook National Wildlife Refuge

A. Migratory Game Bird Hunting. We allow hunting of migratory game birds on designated areas of the refuge in accordance with State regulations and subject to the following condition: We require a permit for waterfowl hunting except on the South Upland Hunting Area.

B. Upland Game Hunting. We allow hunting of grey squirrel, cottontail rabbit, ring-necked pheasant, bobwhite quail, raccoon, opossum, red fox, and mourning dove on designated areas of the refuge in accordance with State regulations.

C. Big Game Hunting. We allow hunting of turkey and deer on designated areas of the refuge in accordance with State regulations and subject to the following conditions:

* * * * *

Prime Hook National Wildlife Refuge

A. Migratory Game Bird Hunting. We allow the hunting of waterfowl, coot, mourning dove, snipe, and woodcock on designated areas of the refuge during designated seasons in accordance with State regulations and subject to the following conditions:

1. Refuge permits are required for waterfowl hunting except in “walk-in” areas as defined in the refuge brochure. You must obtain and possess a refuge permit from the refuge office or website.

2. You must complete and return a Migratory Bird Hunt Report (FWS Form 3-2361), available at the refuge administration office or on the refuge's website, within 15 days of the close of the season.

3. You may access the Lottery Waterfowl hunt area by boat. The maximum horsepower allowed for boat motors is 30 horsepower (HP). You must abide by the slow, no-wake zones on designated portions of refuge waterways as depicted in maps or within the brochure.

4. Disabled Waterfowl Draw Area.

i. All disabled hunters must possess and carry a State of Delaware Certified Hunter with Disabilities Card while hunting in disabled areas. We will not accept photocopies or electronic copies of these forms.

ii. Disabled hunters may have a nonhunting assistant who is age 18 or older. The assistant must remain within sight and normal voice contact, must not be engaged in hunting, and must possess a valid refuge hunt brochure signed in ink and a valid government-issued photo identification. Any assistant engaged in hunting must possess and carry all pertinent State and Federal licenses and stamps.

iii. We do not allow assistants to enter a designated disabled hunting area unless they are accompanied by a certified disabled hunter.

B. Upland Game Hunting. We allow hunting of rabbit, quail, pheasant, and red fox on designated areas of the refuge in accordance with State regulations and subject to the following conditions:

1. We do not allow squirrel hunting due to the similarity of gray squirrels and the State endangered Delmarva fox squirrel.

2. You must obtain and possess a refuge permit from the refuge office or website.

C. Big Game Hunting. We allow hunting of white-tailed deer and turkey on designated areas of the refuge in accordance with State regulations and subject to the following conditions:

1. We prohibit organized deer drives.

2. Hunting on the headquarters deer hunt area will be by lottery. You must obtain and possess a refuge permit from the refuge office or website.

D. Sport Fishing. We allow fishing and crabbing on designated areas of the refuge in accordance with State regulations and subject to the following conditions:

1. Turkle and Fleetwood ponds are restricted to electric trolling motors only.

2. All crabbing and fishing gear must be attended at all times. No gear may be left overnight.

8. Amend § 32.28 by:

a. Revising the entry Arthur R. Marshall Loxahatchee National Wildlife Refuge;

b. Under the entry J. N. “Ding” Darling National Wildlife Refuge:

i. Revising the introductory text of paragraph D and paragraph D.1;

ii. Removing paragraphs D.2, D.3, D.4, D.5, D.14, D.17, and D.21;

iii. Redesignating paragraphs D.6 through D.10, D.12, D.13, D.15, D.16, and D.18 through D.20 as paragraphs D.2 through D.6, D.7, D.8, D.9, D.10, and D.12 through D.14, respectively; and

iv. Revising newly redesignated paragraphs D.6 and D.10, paragraph D.11, and newly redesignated paragraph D.13; and

c. Under the entry Lake Woodruff National Wildlife Refuge:

i. Revising the introductory text of paragraph C, and paragraphs C.1 and C.2;

ii. Removing paragraphs C.3, C.4, C.7, C.10, C.16, and C.17;

iii. Redesignating paragraphs C.5, C.8, C.9, C.11 through C.15, and C.18 as paragraphs C.3, C.4, C.5, C.7 through C.11, and C.12, respectively;

iv. Revising newly redesignated paragraph C.5, paragraph C.6, and newly redesignated paragraphs C.8 and C.12;

v. Removing paragraph D.1; and

vi. Redesignating paragraphs D.2 through D.5 as paragraphs D.1 through D.4, respectively.

The revisions read as follows:

§ 32.28 Florida.

* * * * *

Arthur R. Marshall Loxahatchee National Wildlife Refuge

A. Migratory Game Bird Hunting. We allow hunting of duck and coot on designated areas of the refuge in accordance with State and Federal regulations, and subject to the following conditions:

1. You must possess and carry a signed refuge waterfowl hunt permit (signed brochure) while hunting. These brochures are available at the refuge visitor center and on the refuge's website (http://www.fws.gov/loxahatchee).

2. We allow hunting in the interior of the refuge south of latitude line 26.27.130 and north of mile markers 12 and 14 (SEE PERMIT MAP). We prohibit hunting from canals or levees and those areas posted as closed.

3. We do not open to hunting on Mondays, Tuesdays, and Christmas Day.

4. We allow hunting on the refuge from ½ hour before legal sunrise to 1 p.m. Hunters may enter the refuge no earlier than 4 a.m. and must be off the refuge by 3 p.m.

5. Hunters may only enter and leave the refuge at the Headquarters Area (Boynton Beach) and the Hillsboro Area (Boca Raton).

6. We allow only temporary blinds of native vegetation.

7. Hunters must remove decoys and other personal property (see § 27.93 of this chapter) from the hunting area at the end of each hunt day.

8. Hunters must complete a Migratory Bird Hunt Report (FWS Form 3-2361) and place it in an entrance fee canister each day prior to exiting the refuge.

9. All youth hunters age 15 and younger must be supervised by a licensed and permitted adult age 21 or older, and must remain with the adult while hunting. Youth hunters must have completed a hunter education course.

10. We allow only boats equipped with factory-manufactured-water-cooled outboard motors, boats with electric motors, and nonmotorized boats. We prohibit boats with air-cooled engines, airboats, fan boats, hovercraft, and personal watercraft (Jet Skis, Jet Boats, Wave Runners, etc.).

11. There is a 35 mph speed limit in all waters of the refuge. A 500-foot (150-meter) Idle Speed Zone is at each of the refuge's three boat ramps.

12. We require all boats operating outside of the main perimeter canals (the L-40 Canal, L-39 Canal, L-7 Canal, and L-101 Canal) in interior areas of the refuge and within the hunt area to fly a 12-inch by 12-inch (30-cm by 30-cm) orange flag 10 feet (3 m) above the vessel's waterline.

B. Upland Game Hunting. [Reserved]

C. Big Game Hunting. We allow hunting of alligators on designated areas of the refuge in accordance with Federal and State regulations, and subject to the following conditions:

1. You must possess and carry a signed refuge alligator hunt permit (signed brochure) while hunting. These brochures are available at the refuge visitor center and on the refuge's website (http://www.fws.gov/loxahatchee/).

2. We allow hunting in the interior of the refuge south of latitude line 26.27.130 and north of mile markers 12 and 14, including the canals south of that line (SEE PERMIT MAP). We prohibit hunting from levees and those areas posted as closed.

3. We allow hunting on the refuge 1 hour before sunset on Friday night through 1 hour after sunrise Saturday morning, and 1 hour before sunset on Saturday night through 1 hour after sunrise Sunday morning. We allow alligator hunting the first 2 weekends during Harvest Period 1 (August) and the first 2 weekends during Harvest Period 2 (September). Following the close of Harvest Period 2, the remaining weekends in October will be open for alligator harvest permittees who possess unused CITES tags. Specific dates for the alligator hunt will be provided on the harvest permit.

4. Hunters age 18 and older must be in possession of all necessary State and Federal licenses, permits, and CITES tags, as well as a refuge hunt permit (signed hunt brochure) while hunting on the refuge. They must possess an Alligator Trapping License with CITES tags or an Alligator Trapping Agent License, if applicable.

5. Hunters age 17 and younger may not hunt, but may only accompany an adult age 21 or older who possesses an Alligator Trapping Agent License.

6. Hunters may only enter and leave the refuge at the Hillsboro Area (Loxahatchee Road, Boca Raton).

7. You may take alligators using hand-held snares, harpoons, gigs, snatch hooks, artificial lures, manually operated spears, spear guns, and crossbows. We prohibit the taking of alligators using baited hooks, baited wooden pegs, or firearms. We allow the use of bang sticks (a hand-held pole with a pistol or shotgun cartridge on the end in a very short barrel) with nontoxic ammunition only for taking alligators attached to a restraining line (see § 32.2(k)). Once an alligator is captured, it must be killed immediately. We prohibit catch and release of alligators. Once the alligator is dead, you must lock a CITES tag through the skin of the carcass within 6 inches (15.2 centimeters) of the tip of the tail. The tag must remain attached to the alligator at all times.

8. Hunters must remove all personal property (see § 27.93 of this chapter) from the hunting area at the end of each hunt day.

9. We allow only one vessel per hunting group or party.

10. Conditions A9 and A10 apply.

D. Sport Fishing. We allow fishing on designated areas of the refuge in accordance with Federal and State regulations, and subject to the following conditions:

1. We allow fishing south of a line of latitude of 26.27.130 and in the rim canal in the rest of the refuge. We prohibit fishing in those areas posted as closed to fishing or to the public.

2. We only allow the use of rods and reels and poles and lines, and anglers must attend them at all times.

3. We prohibit commercial fishing and the taking of frogs, turtles, and other wildlife (see § 27.21 of this chapter).

4. We allow 12 fishing tournaments a year by Special Use Permit only (General Activities—Special Use Permit Application, FWS Form 3-1383-G). Contact the Refuge Office at 561-735-6029 for more information.

5. We prohibit the possession or use of cast nets, seines, trot lines, jugs, gigs, and other fishing devices.

6. Anglers may only launch boats at the Headquarters Area (Boynton Beach), the Hillsboro Area (Boca Raton), and 20 Mile Bend (West Palm Beach).

7. Conditions A9 and A10 apply.

* * * * *

J. N. “Ding” Darling National Wildlife Refuge

* * * * *

D. Sport Fishing. We allow fishing and crabbing in refuge waters in accordance with State regulations and subject to the following conditions:

1. We allow the take of crabs with the use of dip nets only.

* * * * *

6. We allow launching of canoes and kayaks anywhere on the right (north) side of Wildlife Drive. We prohibit launching motorized vessels over 14 feet (4.2 meters) in length from Wildlife Drive. Motorized vessels less than 14 feet (4.2 meters) in length may only be launched from designated site #2.

* * * * *

10. We prohibit the use of cast nets from the left (south) side of Wildlife Drive or any water control structure, bridge, boardwalk, or rip rap affixed to Wildlife Drive.

11. All fish must remain in whole condition until removed from refuge lands and waters.

* * * * *

13. We prohibit airboats, hovercraft, personal watercraft, and “Go-Devil”-style outboard motors.

* * * * *

Lake Woodruff National Wildlife Refuge

* * * * *

C. Big Game Hunting. We allow hunting of white-tailed deer, feral hog, and turkey on designated areas of the refuge in accordance with State regulations and subject to the following conditions:

1. We require a valid Lake Woodruff Quota Hunt Permit, which can be purchased through Florida Fish and Wildlife Conservation Commission; and a valid Lake Woodruff National Wildlife Refuge hunt permit (signed annual hunt brochure), which is free and nontransferable.

2. All hunters must be on stands or in blinds during deer hunts.

* * * * *

5. You may set up stands or blinds 2 days prior to the hunt for which you are permitted, and you must remove them on or before the last day of your permitted hunt. You must clearly mark stands with the hunter's name and address or the Florida Fish and Wildlife Conservation Commission (FWC) permit number found on your hunting license. No more than one stand or blind per person may be on the refuge at any time, unless a permitted hunter is accompanied by a youth hunter. Stands and/or blinds for youth hunters must be placed within sight and normal voice contact of the permitted hunter's stand and marked with the adult permitted hunter's name and address or the FWC permit number and the word “YOUTH.”

6. If you use flagging or other trail marking material, you must print your name or FWC permit number on each piece or marker. You may set up flagging and trail markers 2 days prior to the permitted hunt, and you must remove them on or before the last day of the permitted hunt.

* * * * *

8. The Western Unit is only accessible by boat.

* * * * *

12. We prohibit shotgun loads larger than number two shot and slugs during turkey hunts.

* * * * *

9. Amend § 32.29 by:

a. Under the entry Blackbeard Island National Wildlife Refuge:

i. Removing paragraphs C.7, C.8, C.10, C.13, C.14, and C.21;

ii. Redesignating paragraphs C.9, C.11, C.12, and C.15 through C.20 as paragraphs C.7, C.8, C.9, and C.10 through C.15, respectively;

iii. Revising newly redesignated paragraph C.12; and

iv. Removing paragraph D.3;

b. Under the entry Harris Neck National Wildlife Refuge:

i. Removing paragraphs C.3, C.4, C.8, C.13, C.14, C.16, and C.20;

ii. Redesignating paragraphs C.5, C.6, C.7, C.9 through C.12, C.15, C.17, C.18, and C.19 as paragraphs C.3, C.4, C.5, C.6 through C.9, C.10, C.11, C.12, and C.13, respectively;

iii. Revising newly redesignated paragraph C.12;

iv. Removing paragraphs D.3 and D.5; and

v. Redesignating paragraph D.4 as D.3;

c. Revising the entry Okefenokee National Wildlife Refuge;

d. Under the entry Savannah National Wildlife Refuge:

i. Revising paragraphs A.2 and A.3;

ii. Removing paragraphs A.4, A.5, and A.8;

iii. Redesignating paragraphs A.6 and A.7 as A.4 and A.5, respectively;

iv. Revising paragraph B.1;

v. Removing paragraphs B.2, B.4, and B.5;

vi. Redesignating paragraphs B.3 and B.6 as paragraphs B.2 and B.3, respectively;

vii. Revising newly redesignated paragraph B.3, and paragraphs C.1 and C.2;

viii. Removing paragraphs C.3, C.6, and C.11;

ix. Redesignating paragraphs C.4, C.5, and C.7 through C.10 as paragraphs C.3, C.4, and C.5 through C.8, respectively;

x. Revising newly redesignated paragraph C.8, and paragraph D.3;

xi. Removing paragraphs D.5 and D.7; and

xii. Redesignating paragraph D.6 as D.5; and

e. Under the entry Wassaw National Wildlife Refuge:

i. Removing paragraphs C.2, C.3, C.6, C.7, C.14, and C.22;

ii. Redesignating paragraphs C.4, C.5, C.8 through C.13, and C.15 through C.21 as paragraphs C.2, C.3, C.4 through C.9, and C.10 through C.16, respectively;

iii. Revising newly redesignated paragraphs C.5, C.8, and C.14; and

iv. Removing paragraph D.4.

The revisions read as follows:

§ 32.29 Georgia.

* * * * *

Blackbeard Island National Wildlife Refuge

* * * * *

C. * * *

12. Youth hunters age 15 and younger must remain within sight and normal voice contact of an adult age 21 or older. One adult may supervise no more than one youth hunter.

* * * * *

Harris Neck National Wildlife Refuge

* * * * *

C. * * *

12. Youth hunters age 15 and younger must remain within sight and normal voice contact of an adult age 21 or older. One adult may supervise no more than one youth hunter.

* * * * *

Okefenokee National Wildlife Refuge

A. Migratory Game Bird Hunting. [Reserved]

B. Upland Game Hunting. We allow the hunting of rabbit, squirrel, bobwhite quail, and turkey on the Cowhouse Unit of the refuge. The season will be consistent with the adjacent Dixon Memorial Wildlife Management Area and in accordance with State regulations and subject to the following conditions:

1. We only allow foot and bicycle traffic on the refuge portion of Cowhouse Island.

2. We only allow dogs to locate, point, and retrieve during quail hunts.

3. Feral hogs can only be taken during small game dates after October 31.

C. Big Game Hunting. We allow hunting of turkey only on the Cowhouse Island Unit of the refuge. We allow hunting of white-tailed deer and feral hog, as an incidental take, at the Suwannee Canal Recreation Area, the Pocket Unit, and Cowhouse Island Unit in accordance with State regulations and subject to the following conditions:

1. In the Pocket Unit:

i. We only allow archery hunting and foot traffic.

ii. You must sign in and out daily.

iii. We prohibit possessing a cocked crossbow in a motor vehicle.

iv. We allow nonmotorized scouting 7 days prior to scheduled hunt.

2. In the Suwannee Canal Unit:

i. We only allow two half-day hunts reserved for 30 hunters and 10 mobility-impaired/youth hunters.

ii. We allow only shotguns with slugs or muzzleloaders.

iii. We require a refuge permit (Big/Upland Game Hunt Application, FWS Form 3-2356) obtained through refuge lottery.

iv. You must sign in and sign out daily.

v. You must tag your deer with special refuge tags.

vi. There is a limit of two deer of either sex per day.

vii. We zone Chesser Island Hunt area to accommodate mobility-impaired and youth hunters. Only mobility-impaired hunters may use ATVs and vehicles on firebreaks and unpaved roads.

viii. We allow nonmotorized scouting 7 days prior to scheduled hunt.

ix. Condition C.1.iii applies.

3. In the Cowhouse Island Unit:

i. Dixon Memorial Wildlife Management Area rules, regulations, dates, and times apply.

ii. Conditions B.1, C.1.iii, and C.1.iv apply.

D. Sport Fishing. We allow fishing on designated areas of the refuge in accordance with State regulations and subject to the following conditions:

1. You may use only 10 horsepower motors or less on the refuge.

2. We prohibit possession of live bait fish.

3. We only allow the use of pole and line or rod and reel.

4. We prohibit paddleboarding, air boats, swimming, and wading.

5. All boats must be off the water by posted time.

6. In the Suwannee Canal Unit, we prohibit fishing in ponds and canals along Swamp Island Drive.

* * * * *

Savannah National Wildlife Refuge

A. * * *

2. To participate in the quota youth waterfowl hunt, youth hunters must submit the Waterfowl Lottery Application (FWS Form 3-2355). You must pay an application fee to enter the hunt drawing.

3. Youth hunters, defined as those age 15 and younger, must remain within sight and normal voice contact of an adult age 21 or older. One adult may supervise no more than two youth hunters.

* * * * *

B. * * *

1. Conditions A1 and A4 apply.

* * * * *

3. Youth hunters, defined as those age 15 and younger, must remain within sight and normal voice contact of an adult age 21 or older. One adult may supervise no more than one youth hunter.

C. * * *

1. Conditions A1, A4, and B3 apply.

2. To participate in the quota gun hunt for wheelchair-dependent hunters, hunters must submit the Quota Deer Hunt Application (FWS Form 3-2354). To participate in the quota Youth Turkey Hunt & Learn Weekend, youth hunters must submit the Big/Upland Game Hunt Application (FWS Form 3-2356). You must pay an application fee to enter these hunt drawings.

* * * * *

8. We prohibit the use of trail or game cameras.

D. * * *

3. We allow fishing from legal sunrise to legal sunset.

* * * * *

Wassaw National Wildlife Refuge

* * * * *

C. * * *

5. We allow only shotguns (20 gauge or larger; slug only), center-fire rifles, center-fire pistols, bows, and primitive weapons, in accordance with State regulations, for deer and hog hunting during the gun hunt.

* * * * *

8. We only allow camping at the designated camping area.

* * * * *

14. Youth hunters age 15 and younger must remain within sight and normal voice contact of an adult age 21 or older. One adult may supervise no more than one youth hunter.

* * * * *

10. Amend § 32.32 by:

a. Revising the entry Great River National Wildlife Refuge; and

b. Adding, in alphabetical order, an entry for Hackmatack National Wildlife Refuge.

The addition and revision read as follows:

§ 32.32 Illinois.

* * * * *

Great River National Wildlife Refuge

A. Migratory Game Bird Hunting. We allow hunting of waterfowl and coot on the Long Island and Slim Island Divisions of the refuge in accordance with State and Federal regulations, and subject to the following conditions:

1. On the Long Island Division, we allow hunting only from blinds constructed on sites posted by the Illinois Department of Natural Resources.

2. For hunting, you may use or possess only approved nontoxic shot shells while in the field, including shot shells used for hunting wild turkey (see § 32.2(k)).

B. Upland Game Hunting. We allow hunting of small game, furbearers, and game birds on the Long Island, Fox Island, and Slim Island Divisions, and Cherry Box and Hickory Creek Units of the refuge in accordance with State regulations and subject to the following conditions:

1. Condition A2 applies.

2. We open refuge divisions for upland game hunting from ½ hour before legal sunrise to ½ hour after legal sunset. On the Cherry Box and Hickory Creek Units, we allow hunting with shotgun only during the Statewide upland game season.

3. We close Fox Island Division to all upland game hunting from October 16 through December 31.

C. Big Game Hunting. We allow hunting of white-tailed deer and turkey on designated portions of the refuge in accordance with State regulations and subject to the following conditions:

1. Condition A2 applies, except for when hunting for white-tailed deer.

2. We only allow portable tree stands from September 1 through January 31 of each year. The hunter's full name, address, and State-generated hunter identification number must be permanently attached in a visible location on the stand. Limit one stand per hunter.

3. On the Fox Island and Slim Island Divisions, we only allow deer hunting during the Statewide archery deer season and special State-managed hunts.

4. On the Cherry Box and Hickory Creek Units, we allow deer hunting during the Statewide archery deer season only.

5. On the Delair Division, we only allow deer hunting during special managed hunts and subject to the following conditions:

i. You must possess and carry a refuge permit (hunt letter) when hunting.

ii. You must register at the hunter sign-in/out station and record the sex and age of deer harvested on the Big Game Harvest Report (FWS Form 3-2359). Shooting hours end at 3 p.m. each day.

6. On the Long Island Division, we allow deer and turkey hunting in accordance with State seasons and regulations.

7. On the Slim Island Division, we allow turkey hunting in accordance with State seasons and regulations.

8. On the Fox Island Division, Cherry Box Unit, and Hickory Creek Unit, we allow turkey hunting during the State spring season, youth season, and fall archery season.

D. Sport Fishing. We allow fishing on the Long Island, Fox Island, and Slim Island Divisions of the refuge in accordance with State regulations and subject to the following conditions:

1. We prohibit the taking of turtle and frog (see § 27.21 of this chapter).

2. On the Fox Island Division, we only allow bank fishing along any portion of the Fox River from January 1 through October 15.

Hackmatack National Wildlife Refuge

A. Migratory Game Bird Hunting. We allow hunting of migratory game birds on designated areas of the refuge in accordance with Federal and State regulations, and subject to the following condition: We allow the use of only portable or temporary blinds.

B. Upland Game Hunting. We allow upland game hunting on designated areas of the refuge in accordance with State regulations and subject to the following conditions:

1. We allow the use of only portable or temporary blinds.

2. For hunting, you may possess only approved nontoxic shot shells while in the field, including shot shells used for hunting wild turkey (see § 32.2(k)).

C. Big Game Hunting. We allow big game hunting on designated areas of the refuge in accordance with State regulations and subject to the following condition: Condition B.2 applies.

D. Sport Fishing. [Reserved]

* * * * *

11. Amend § 32.35 by:

a. Under the entry Flint Hills National Wildlife Refuge:

i. Revising paragraph A.5;

ii. Removing paragraphs A.6, A.7, A.8, and A.10.iii;

iii. Redesignating paragraphs A.9 and A.10 as paragraphs A.6 and A.7, respectively;

iv. Revising paragraph B.1;

v. Removing paragraph B.2;

vi. Redesignating paragraphs B.3 and B.4 as paragraphs B.2 and B.3, respectively;

vii. Removing paragraphs C.4 and C.7;

viii. Revising paragraph C.5;

ix. Redesignating paragraph C.6 as paragraph C.4; and

x. Revising paragraph D.2;

b. Under the entry Kirwin National Wildlife Refuge:

i. Revising paragraph A;

ii. Removing paragraphs B.3, B.4, and B.5;

iii. Revising paragraphs C.2 and C.4;

iv. Removing paragraphs C.3, C.6, C.7, C.8, and C.9;

v. Redesignating paragraph C.5 as paragraph C.3;

vi. Removing paragraphs D.2, D.5, D.8, and D.9; and

vii. Redesignating paragraphs D.3, D.4, D.6, and D.7 as paragraphs D.2, D.3, D.4, and D.5, respectively;

c. Under the entry Marais des Cygnes National Wildlife Refuge:

i. Removing paragraph A.5;

ii. Revising the introductory text of paragraph B and paragraph B.1;

iii. Removing paragraph B.4;

iv. Revising paragraph C.1;

v. Removing paragraph C.3; and

vi. Redesignating paragraphs C.4 and C.5 as paragraphs C.3 and C.4, respectively; and

d. Under the entry Quivira National Wildlife Refuge:

i. Removing paragraphs A.2, A.5, A.6, and A.7;

ii. Redesignating paragraphs A.3, A.4, A.8, and A.9 as paragraphs A.2, A.3, A.4, and A.5, respectively;

iii. Revising paragraphs B.1, D.1, and D.7; and

iv. Removing paragraph D.8.

The revisions read as follows:

§ 32.35 Kansas.

* * * * *

Flint Hills National Wildlife Refuge

A. * * *

5. You may leave temporary blinds (other than portable blinds) constructed of natural vegetation found on site overnight. We prohibit bringing any type of live or dead vegetation onto the refuge for any purpose at any time.

* * * * *

B. * * *

1. Conditions A1 and A3 apply.

* * * * *

C. * * *

5. Conditions A1, A3, and B2 apply.

* * * * *

D. * * *

2. We prohibit the take of reptiles and amphibians.

Kirwin National Wildlife Refuge

A. Migratory Game Bird Hunting. We allow hunting of goose, duck, merganser, coot, mourning dove, and snipe on designated areas of the refuge in accordance with State regulations and subject to the following conditions:

1. You may use natural vegetation to construct a temporary blind.

2. You may use portable hunting blinds.

3. We only allow waterfowl hunting by boat in Bow Creek. You may not create a wake while in Bow Creek.

* * * * *

C. * * *

2. You must obtain a refuge-issued permit to hunt deer on the refuge.

* * * * *

4. We prohibit retrieving deer or turkey from an area closed to deer or turkey hunting.

* * * * *

Marais des Cygnes National Wildlife Refuge

* * * * *

B. Upland Game Hunting. We allow hunting of cottontail rabbit, squirrel, and upland birds on designated areas of the refuge in accordance with State regulations and subject to the following conditions:

1. Conditions A1 and A3 apply.

* * * * *

C. * * *

1. Conditions A1, A3, A4, and B2 apply.

* * * * *

Quivira National Wildlife Refuge

* * * * *

B. * * *

1. Conditions A1 through A3 apply.

* * * * *

D. * * *

1. We prohibit taking of frog, snake, or any other wildlife (see § 27.21 of this chapter).

* * * * *

7. Condition A2 applies.

12. Amend § 32.37 by:

a. Under the entry Bayou Sauvage National Wildlife Refuge:

i. Revising paragraphs A.1, A.3, and A.8;

ii. Removing paragraphs A.9, A.11, A.12, A.14, A.15, A.16, A.17, A.18, and A.19;

iii. Redesignating paragraphs A.10, A.13, and A.20 as paragraphs A.9, A.10, and A.11, respectively;

iv. Revising paragraph D.6; and

v. Removing paragraphs D.7, D.8, and D.9;

b. Revising the entry Bayou Teche National Wildlife Refuge;

c. Revising the entry Big Branch Marsh National Wildlife Refuge;

d. Revising the entry Bogue Chitto National Wildlife Refuge;

e. Under the entry Delta National Wildlife Refuge:

i. Revising paragraph A.3;

ii. Removing paragraphs A.4, A.7, A.12, A.14, A.15, and A.16;

iii. Redesignating paragraphs A.5, A.6, A.8 through A.11, and A.13 as paragraphs A.4, A.5, A.6 through A.9, and A.10, respectively;

iv. Revising newly redesignated paragraph A.9, and paragraphs B.4, C.1, C.3, and C.5;

v. Removing paragraphs C.6 and C.7;

vi. Redesignating paragraphs C.8 and C.9 as paragraphs C.6 and C.7, respectively;

vii. Removing paragraph D.2;

viii. Redesignating paragraphs D.3 through D.5 as paragraphs D.2 through D.4, respectively; and

ix. Revising newly redesignated paragraph D.3;

f. Under the entry Mandalay National Wildlife Refuge:

i. Removing paragraphs A.6, A.8, A.9, A.10, A.11, and A.12;

ii. Redesignating paragraphs A.3 through A.5 as paragraphs A.4 through A.6, respectively;

iii. Adding new paragraph A.3;

iv. Revising newly redesignated paragraph A.4;

v. Revising paragraphs C.7 and C.8;

vi. Removing paragraph D.1;

vii. Redesignating paragraphs D.2 through D.6 as D.1 through D.5, respectively; and

viii. Revising newly redesignated paragraph D.4; and

g. Revising the entry Tensas River National Wildlife Refuge.

The addition and revisions read as follows:

§ 32.37 Louisiana.

* * * * *

Bayou Sauvage National Wildlife Refuge

A. * * *

1. We consider all waterfowl and coot hunting to be youth hunts. An adult at least age 21 must supervise youth hunters during hunts. State regulations define youth hunter age and hunter-educations requirements. The youth must be capable of and must actively participate in such hunt by the possession and/or firing of a legal weapon during such hunt for the express purpose of harvesting game.

* * * * *

3. We allow waterfowl hunting on Wednesdays, Thursdays, Saturdays, and Sundays from one half hour before legal sunrise until 12 p.m. (noon), on Wednesdays, Thursdays, Saturdays, and Sundays, including early teal season, youth waterfowl hunt season, or other such special seasons that may be promulgated by law or statute. We will close the refuge to waterfowl and coot hunting during any segment of goose season that extends beyond the regular duck season.

* * * * *

8. When hunting migratory game birds, we only allow the use of dogs to locate, point, and retrieve.

* * * * *

D. * * *

6. Condition A10 applies.

* * * * *

Bayou Teche National Wildlife Refuge

A. Migratory Game Bird Hunting. We allow hunting of migratory game birds and waterfowl on designated areas of the refuge in accordance with State regulations and subject to the following conditions.

1. All hunters must possess and carry a signed hunt permit while hunting on the refuge. This permit is free and available on the front cover of the refuge brochure.

2. We prohibit hunting in and/or shooting into or across any agricultural field, roadway, or canal.

3. An adult age 21 or older must supervise youth hunters during all hunts. State regulations define youth hunter age and hunter-educations requirements. One adult may supervise two youths during small game and migratory game bird hunts but may supervise only one youth during big game hunts. Youth(s) must remain within normal voice contact of the adult who is supervising them. Adult guardians are responsible for ensuring that youth hunters do not engage in conduct that would constitute a violation of refuge regulations.

4. We require waterfowl hunters to remove all portable blinds, boats, decoys, and other personal equipment from the refuge by 1 p.m. daily.

5. All hunters must check-in prior to hunting and check out after hunting at a refuge self-clearing check station. You must report all game taken on the refuge when checking out by using the check card.

6. We prohibit airboats and marsh buggies (tracked vehicles) on the refuge. We restrict motorized boat use to existing canals, ditches, trenasses, ponds, and from areas marked as nonmotorized areas only.

7. We prohibit parking, walking, or hunting within 150 feet (45 meters (m)) of any active oil well site, production facility, or equipment. We also prohibit hunting within 150 feet (45 m) of any public road, refuge road, building, residence, or designated public facility.

8. We allow hunting until 12 p.m. (noon). Hunters may only enter the refuge after 4 a.m.

9. We allow waterfowl hunting in Centerville, Garden City, Bayou Sale, North Bend East, and North Bend West Units during the State waterfowl season. We open no other units to migratory waterfowl hunting.

10. We only allow dogs to locate, point, and retrieve when hunting for migratory game birds.

11. We prohibit the use of any type of material used as flagging or trail markers, except reflective tacks.

B. Upland Game Hunting. We allow hunting of squirrel and rabbit on designated areas of the refuge in accordance with State regulations and subject to the following conditions:

1. We only allow hunting from the start of the State squirrel and rabbit seasons until the last day of State waterfowl season in the Coastal Zone, except that the Centerville Unit will be open until the last day of the State waterfowl season in the East Zone.

2. We prohibit squirrel and rabbit hunting in the Franklin Unit.

3. We prohibit upland game hunting on days corresponding with refuge deer gun hunts.

4. We allow hunters to enter the refuge after 4 a.m., but they must leave the refuge 1 hour after legal sunset.

5. We allow hunting 7 days per week beginning with the opening of the State season through the last day of the State waterfowl season in the Coastal Zone in the following refuge units: Garden City, Bayou Sale, North Bend—East, and North Bend—West Units. The Centerville Unit is in the East Zone. We open no other units to the hunting of upland game.

6. Conditions A1 through A3, A5 through A7, and A11 apply, except we allow the use of .17 and .22 caliber rimfire or smaller while hunting small game.

C. Big Game Hunting. We allow the hunting of white-tailed deer on designated areas of the refuge in accordance with State regulations and subject to the following conditions:

1. We allow hunting of deer only with firearms (see § 27.42 of this chapter) during 5 specific days during October and November. A youth gun hunt will occur during the last weekend of October. The general gun hunt will occur during the final full weekend in November. The youth gun hunt includes both Saturday and Sunday. The general gun hunt includes the Friday immediately before the weekend.

2. We allow archery deer hunting from the start of the State archery season until January 31. Hunters may take deer of either sex in accordance with State-approved archery equipment and regulations. The State season limits apply. The following units are open to archery deer hunting: Bayou Sale, North Bend—East, North Bend—West, and Garden City. The Centerville Unit is open until February 15. We close refuge archery hunting on those days that the refuge deer gun hunts occur.

3. We do not allow hunting within 500 feet (152.4 meters) of the Garden City parking area and boardwalk.

4. The Bayou Sale Unit is not open for big game firearm hunts.

5. We allow each hunter to possess only one deer per day; the deer may be a buck or a doe. State season limits apply.

6. You may take feral hogs only as incidental take with archery equipment while participating in the refuge deer archery hunt.

7. Hunters may use only portable deer stands. Hunters may erect deer stands one day before the deer archery season and must remove them from the refuge within 1 day after the season closes. Hunters may place only one deer stand on a refuge. Deer stands must have owner's name, address, and phone number clearly printed on the stand. Hunters must place stands in a nonhunting position when not in use (see § 27.93 of this chapter).

8. Conditions A1 through A3, A5 through A7, A11, and B3 apply.

9. We prohibit the use of trail cameras.

10. We prohibit the use of deer decoys.

11. We prohibit organized deer drives.

D. Sport Fishing. We allow fishing in all refuge waters in accordance with State regulations and subject to the following conditions:

1. We prohibit the use of unattended nets, traps, or lines (trot, jug, bush, etc.).

2. The refuge is open from legal sunrise until legal sunset unless stated otherwise.

3. The Franklin Unit canals (birdfoot canals) will be open for motorized boats between April 15 and August 31. This unit is open to nonmotorized boats all year.

4. Condition A6 applies.

Big Branch Marsh National Wildlife Refuge

A. Migratory Game Bird Hunting. We allow hunting of duck, coot, goose, snipe, rail, gallinule, and woodcock on designated areas of the refuge during the State season for these species in accordance with State regulations and subject to the following conditions:

1. We allow waterfowl hunting on Wednesdays, Thursdays, Saturdays, and Sundays from ½ hour before legal sunrise until 12 p.m. (noon), including the State special teal season and State youth waterfowl hunt.

2. We do not open the refuge to goose hunting for that part of the season that extends beyond the regular duck season.

3. We allow only temporary blinds, and hunters must remove the blinds and decoys by 1 p.m. (see § 27.93 of this chapter).

4. Hunters must possess and carry a valid refuge hunt permit (signed brochure).

5. We prohibit air-thrust boats, aircraft, mud boats, and air-cooled propulsion engines on the refuge.

6. An adult age 21 or older must supervise youth hunters during all hunts. State regulations define youth hunter age and hunter-education requirements. One adult may supervise two youths during small game hunts and migratory bird hunts, but is only allowed to supervise one youth during big game hunts. Youths must remain within normal voice contact of the adult who is supervising them. Adult guardians are responsible for ensuring that youth hunters do not engage in conduct that would constitute a violation of refuge regulations.

7. We prohibit hunting or discharge of firearm (see § 27.42 of this chapter) within 150 feet (45 meters (m)) of any residence or structure adjacent to the refuge, from the centerline of any road, railroad, designated public use maintained trails, designated parking area, or other designated public use facilities. We prohibit hunting in refuge-designated closed areas, which we post on the refuge and identify in the refuge hunt permits (see § 27.31 of this chapter).

8. We open the refuge to public entry from ½ hour before legal sunrise to ½ hour after legal sunset with the exception that hunters may enter the refuge earlier, but not before 4 a.m. and must exit the refuge no later than 2 hours after legal sunset for that day.

9. We only allow reflective tacks to be left on the refuge as trail markers.

B. Upland Game Hunting. We allow hunting of squirrel, rabbit, and quail on designated areas of the refuge in accordance with State regulations and subject to the following conditions:

1. We allow upland game hunting during the open State season. When hunting, you must possess only approved nontoxic shot (see § 32.2(k) of this chapter), shot size 4 or smaller, or 0.22 caliber rim-fire rifles or smaller.

2. We allow the use of dogs for hunting squirrel and rabbit only after the close of the State archery deer season.

3. We only allow dogs to locate, point, and retrieve when hunting for quail.

4. Conditions A4 through A9 apply.

5. All hunters, including archers (while on the ground), except waterfowl hunters must wear a hunter orange cap or hat during the dog season for squirrel and rabbit that is hunter orange, blaze pink, or other such color that meets State hunter safety requirements.

C. Big Game Hunting. We allow hunting of white-tailed deer and feral hog on designated areas of the refuge in accordance with State regulations and subject to the following conditions:

1. We are open only during the State season for archery hunting of deer.

2. We prohibit organized deer drives.

3. We allow the take of either-sex deer in accordance with State-approved archery equipment and regulations. The State season limits apply. Archery equipment, which State regulations define as legal gear for archery season, will be a legal means of take during the deer archery season.

4. We allow placement of temporary deer stands 1 day prior to the start of deer archery season. Hunters must remove all deer stands within 1 day after the archery deer season closes. Hunters are allowed to place only one deer stand on the refuge. Deer stands must have the owner's name, address, and phone number clearly printed on the stand. We prohibit hunting stands on trees painted with white bands.

5. We allow take of feral hogs only as incidental take with archery equipment while participating in the refuge deer archery hunt.

6. Conditions A4 through A9 apply.

7. We prohibit the use of trail cameras.

8. We prohibit the use of deer decoys.

D. Sport Fishing. We allow fishing in designated waters of the refuge in accordance with State regulations and subject to the following conditions:

1. You may fish only from ½ hour before legal sunrise until ½ hour after legal sunset, except we allow night fishing from the bank and pier on Lake Road.

2. You must only use rods and reel or pole and lines while fishing.

3. We prohibit the use of trotlines, limblines, slat traps, gar sets, nets, or alligator lines on the refuge. We allow take of bait with cast nets 8 feet (2.4 meters) in diameter or less.

4. We allow recreational crabbing.

5. Condition A5 applies.

6. You must attend to any fishing, crabbing, and crawfishing equipment at all times.

* * * * *

Bogue Chitto National Wildlife Refuge

A. Migratory Game Bird Hunting. We allow hunting of duck, goose, coot, and woodcock on designated areas of the refuge in accordance with State regulations and subject to the following conditions:

1. We allow hunting from ½ hour before legal sunrise until 12 p.m. (noon), including the State special teal season and State youth waterfowl hunt. You must remove blinds and decoys by 1 p.m. (see § 27.93 of this chapter). We do not open the refuge to goose hunting for that part of the season that extends beyond the regular duck season.

2. We allow woodcock hunting in accordance with State regulations using only approved nontoxic shot (see § 32.2(k)) size #4 or smaller.

3. We allow public hunting on designated areas during the open State season for duck, goose, coot, and woodcock. We designate areas where public use is restricted in the refuge hunt permit (signed brochure) or by designated signage.

4. When hunting for migratory game birds, we only allow dogs to locate, point, and retrieve.

5. Hunters must possess and carry a valid refuge hunt permit (signed refuge brochure).

6. An adult age 21 or older must supervise youth hunters during all hunts. State regulations define youth hunter age and hunter-education requirements. One adult is allowed to supervise two youths during small game hunts and migratory bird hunts but may supervise only one youth during big game hunts. Youths must remain within normal voice contact of the adult who is supervising them. Adult guardians are responsible for ensuring that youth hunters do not engage in conduct that would constitute a violation of refuge regulations.

7. We prohibit hunting or discharge of firearms (see § 27.42 of this chapter) within 150 feet (45.7 meters) from the centerline of any public road, refuge road, designated or maintained trail, building, residence, designated camping area, designated public facility, or from or across aboveground oil, gas, or electric facilities. We prohibit hunting in refuge-designated closed areas, which we post on the refuge and identify in the refuge hunt permits (signed brochure).

8. For the purpose of hunting, we prohibit possession of slugs, buckshot, rifle, or pistol ammunition unless otherwise specified.

9. We allow primitive camping within 100 feet (30 meters) of designated streams. These include either bank of the Boque Chitto River, Wilson Slough, and West Pearl River south of Wilson Slough; refuge lands along the East Pearl River; and Holmes Bayou. Campers must mark their campsite with the owner's name, address, phone number, and dates of occupancy placed in a conspicuous location in the center of camp.

10. We prohibit horses, trail cameras, all-terrain vehicles (ATVs) and utility-terrain vehicles (UTVs), except UTVs are allowed on designated physically challenged hunt trails and are restricted to physically challenged State-issued permit holders and persons 60 years or older with proof of age for all refuge designated hunts. Those users may utilize Physically Challenged UTV trails as indicated on the refuge hunt permit (signed brochure) map. Physically Challenged UTV users must not deviate from the designated UTV trails on the area map. Vehicles must park in designated parking areas. We prohibit blocking gates, trails, or roads with a vehicle or UTV.

11. We only allow reflective tacks to be left on the refuge as trail markers.

12. We allow State-licensed physically challenged hunters and persons 60 years or older with proof of age exclusive use of designated physically challenged hunt trails for any open hunt seasons on the refuge. Specific hunt trails are designated on the refuge hunt permit (signed brochure). An assistant may accompany the physically challenged or person 60 years or older while hunting, but the assistant may not hunt.

B. Upland Game Hunting. We allow hunting of squirrel, rabbit, raccoon, and opossum on designated areas of the refuge in accordance with State regulations and subject to the following conditions:

1. We allow the use of dogs for rabbit, squirrel, raccoon, and opossum on specific dates listed in the refuge hunt brochure.

2. We will close the refuge to hunting (except waterfowl) and camping when the Pearl River reaches 15.5 feet (4.65 meters) on the Pearl River Gauge at Pearl River, Louisiana.

3. We prohibit the take of feral hog during any upland game hunts.

4. All hunters, except waterfowl hunters and nighttime raccoon and opossum hunters, must abide by State WMA hunter-orange or blaze pink (or other approved colors by the State) regulations during any open deer firearm or primitive firearm season on the refuge. During the dog season for squirrels and rabbits, all hunters, including archery hunters (while on the ground), except waterfowl hunters, must wear a hunter-orange (or blaze pink in Louisiana, or other approved color by the State) hat or cap. Deer hunters hunting from concealed blinds must display State WMA hunter-orange or blaze-pink (as required by State regulations) above or around their blinds; this must be visible from 360 degrees.

5. Conditions A5 through A12 apply, except you may use .22-caliber rifles or smaller, and the nontoxic shot in your possession while hunting must be size 4 or smaller (see § 32.2(k)).

C. Big Game Hunting. We allow hunting of white-tailed deer, turkey, and feral hog on designated areas of the refuge in accordance with State regulations subject to the following conditions:

1. Conditions A5 through A7, A9 through A10, A12, B2, and B4 apply.

2. Hunters may erect deer stands one day before the deer archery season and must remove them from the refuge within 1 day after this season closes. We allow only one deer stand per hunter on the refuge. Deer stands must have the owner's name, address, and phone number clearly printed on the stand.

3. We allow take of hog as incidental game while participating in the refuge archery, primitive weapon, and general gun deer hunts and where otherwise specified using legal methods of take for the hunt. We list specific dates for the special hog hunt in February in the refuge hunt permit (signed brochure). During the special hog hunt in February, you must use trained hog-hunting dogs to aid in the take of hog. During the special hog hunt, we allow take of hog from ½ hour before legal sunrise until ½ hour after legal sunset. You must possess only approved nontoxic shot or pistol or rifle ammunition not larger than .22 caliber rim-fire to take the hog after it has been caught by dogs. Condition A8 applies during special hog hunt in February.

4. You must kill all hogs prior to removal from the refuge.

5. We prohibit the use of deer and turkey gobbler decoys.

6. We prohibit using shot larger than BB lead or T steel while hunting during turkey season.

D. Sport Fishing. We allow recreational fishing year-round in accordance with State regulations and subject to the following conditions:

1. We only allow cotton limb lines.

2. Conditions A8 and A10 apply.

3. We close the fishing ponds at the Pearl River Turnaround to fishing from April through the first full week of June and to boating during the months of April, May, June, and July.

4. When the Pearl River Turnaround area is open, we allow boats that do not have gasoline-powered engines attached in the fishing ponds at the Pearl River Turnaround. Anglers must hand-launch these boats into the ponds. When open, we only allow hook and line as a legal method of take in the fishing ponds at the Pearl River Turnaround.

5. We allow trotlines, but the last 5 feet of trotline must be 100% cotton.

6. The Pearl River Turnaround area, when open, is open ½ hour before legal sunrise to ½ hour after legal sunset.

* * * * *

Delta National Wildlife Refuge

A. * * *

3. When hunting for migratory game birds, we only allow the use of dogs to locate, point, and retrieve.

* * * * *

9. An adult age 21 or older must supervise youth hunters during all hunts. State regulations define youth hunter age and hunter-educations requirements. One adult may supervise two youths during small game and migratory game bird hunts but must supervise only one youth during big game hunts. Youth(s) must remain within normal voice contact of the adult who is supervising them. Adult guardians are responsible for ensuring that youth hunters do not engage in conduct that would constitute a violation of refuge regulations.

* * * * *

B. * * *

4. Conditions A4 through A10 apply.

* * * * *

C. * * *

1. Conditions A4 through A10 apply with the following exception to condition A9: Each adult is allowed to supervise only one youth hunter.

* * * * *

3. We only allow portable deer stands (see § 27.93 of this chapter). Hunters may erect deer stands 1 day before the deer archery season and must remove them from the refuge within 1 day after the season closes. Hunters may place only one deer stand on a refuge. Deer stands must have the owner's name, address, and phone number clearly printed on the stand.

* * * * *

5. We allow the take of hog(s) only with archery equipment during the archery deer season.

* * * * *

D. * * *

3. Conditions A6 and A7 apply.

* * * * *

Mandalay National Wildlife Refuge

A. * * *

3. When hunting migratory game birds, we only allow the use of dogs to locate, point, and retrieve.

4. An adult age 21 or older must supervise youth hunters during all hunts. State regulations define youth hunter age and hunter-educations requirements. One adult may supervise two youths during small game and migratory game bird hunts. An adult may supervise only one youth during big game hunts. Youth must remain within normal voice contact of the adult who is supervising them. Parents or adult guardians are responsible for ensuring that hunters age 16 or younger do not engage in conduct that would constitute a violation of refuge regulations.

* * * * *

C. * * *

7. We prohibit organized deer drives.

8. Conditions A3, A4, and A7 apply.

* * * * *

D. * * *

4. Condition A7 applies.

* * * * *

Tensas River National Wildlife Refuge

A. Migratory Game Bird Hunting. We allow hunting of duck, coot, woodcock, and snipe on designated areas of the refuge in accordance with State regulations and subject to the following conditions:

1. We allow hunting of duck and coot on Tuesdays, Thursdays, Saturdays, and Sundays until 2:00 p.m. during the State season. We prohibit migratory bird hunting during refuge gun hunts for deer.

2. We allow refuge hunters to enter the refuge no earlier than 4 a.m., and they must leave no later than 2 hours after legal sunset unless they are participating in the refuge nighttime raccoon hunt.

3. In areas posted “Area Closed” or “No Waterfowl Hunting Zone,” we prohibit hunting of migratory birds at any time. The Public Use Regulations brochure will be available at the refuge headquarters no later than August.

4. We allow nonmotorized boats, electric motors, and boats with motors 10 horsepower (hp) or less in refuge lakes, streams, and bayous. Boaters must follow State boating regulations, including those for navigation lights. We prohibit boat storage on the refuge. Hunters/anglers must remove boats daily (see § 27.93 of this chapter).

5. We allow all-terrain vehicle (ATV) travel on designated trails for access typically from September 15 to the last day of the refuge squirrel season. We open designated trails from 4 a.m. to no later than 2 hours after legal sunset unless otherwise specified. We define an ATV as an off-road vehicle (not legal for highway use) with factory specifications not to exceed the following: Weight 750 pounds (337.5 kilograms (kg)), length 85 inches (212.5 centimeters (cm)), and width 48 inches (120 cm). We restrict ATV tires to those no larger than 26 inches (66 cm) by 12 inches (30 cm) with a 1-inch (2.5-cm) lug height and maximum allowable tire pressure of 12 psi. Hunters/anglers using the refuge physically challenged all-terrain trails must possess the State's Physically Challenged Program Hunter Permit or be age 60 or older. Additional physically challenged access information will be available at the refuge headquarters.

6. We prohibit field dressing of game within 150 feet (45 meters (m)) of parking areas, maintained roads, and trails.

7. An adult age 18 or older must supervise youth hunters age 17 or younger during all hunts. One adult may supervise two youths during small game and migratory bird hunts but may supervise only one youth during big game hunts. Youth must remain within normal voice contact of the adult who is supervising them. Parents or adult guardians are responsible for ensuring that hunters age 17 or younger do not engage in conduct that would constitute a violation of refuge regulations.

B. Upland Game Hunting. We allow hunting of raccoon, squirrel, and rabbit on designated areas of the refuge in accordance with State regulations and subject to the following conditions:

1. We allow nighttime raccoon hunting beginning typically the third Saturday in December and typically ending January 31. We allow raccoon hunters to hunt from legal sunset to legal sunrise with the aid of dogs, horses, and mules, and with use of lights. We allow such use of lights on the refuge only at the point of kill. We prohibit all other use of lights for hunting on the refuge. Hunt dates will be available at refuge headquarters typically in July. We prohibit ATVs during the raccoon hunt. Hunters must attempt to take treed raccoons.

2. We allow squirrel and rabbit hunting with and without dogs:

i. We allow hunting without dogs from the beginning of the State season to December 31; during this time period, we do not require hunters to wear hunter orange.

ii. We allow squirrel and rabbit hunting with or without dogs from January 1 to the last day of February; during this time period, we require a minimum of a solid-hunter-orange cap.

iii. We allow no more than three dogs per hunting party.

3. We close squirrel and rabbit hunting during the following gun hunts for deer: refuge-wide youth hunt, primitive firearms hunt, and modern firearms hunt.

4. In areas posted “Area Closed” and “No Hunting Zone,” we prohibit upland game hunting at any time.

5. When hunting, we allow .22 caliber and smaller rimfire weapons.

6. Conditions A2 and A4 through A7 apply.

C. Big Game Hunting. We allow hunting of white-tailed deer and turkey on designated areas of refuges in accordance with State regulations and subject to the following conditions:

1. Deer archery season will begin the first Saturday in November and will conclude on January 31. We prohibit archery hunting during the following refuge-wide deer hunts: Youth gun hunt and modern firearms hunts. We prohibit possession of pods, drug-tipped arrows, or other chemical substances.

2. The deer primitive firearms season will occur between November 1 and January 31. We allow all legal primitive firearms as defined by State regulations.

3. During the deer primitive firearms season, hunters may fit any legal primitive firearms with magnified scopes. We allow hunters using primitive weapons to hunt reforested areas. We prohibit youth hunters from using modern firearms during the primitive weapon hunt.

4. We will conduct two quota-modern-firearms hunts for deer typically in the months of November and/or December. Hunt dates and permit application procedures will be available at refuge headquarters no later than August. Hunters using primitive weapons or muzzleloaders must follow all modern firearm regulations (no hunting in reforested areas). We prohibit hunting and/or shooting into or across any reforested area during the quota hunt for deer. We require a quota hunt permit for these hunts.

5. We will conduct guided quota youth deer hunts and guided quota deer hunts for the Full-Time Wheelchair Users in the Greenlea Bend area typically in December and January. Hunt dates and permit application procedures will be available at the refuge headquarters typically in July. For the guided quota youth hunts, we consider youth to be ages 8 through 15.

6. We will conduct a refuge-wide youth deer hunt. Hunt dates will be available at refuge headquarters typically in July. An adult at least age 18 must supervise youth hunters age 15 and younger during all hunts. One adult may supervise two youths during small game and migratory bird hunts but may supervise only one youth during big game hunts. Youth must remain within normal voice contact of the adult who is supervising them. Parents or adult guardians are responsible for ensuring that hunters age 16 and younger do not engage in conduct that would constitute a violation of refuge regulations.

7. Hunters may take only one deer (one buck or one doe) per day during refuge deer hunts except during guided youth and wheelchair-bound hunts where the limit will be one antlerless and one antlered deer per day.

8. We allow turkey hunting the first 16 days of the State turkey season. We will conduct a youth turkey hunt the Saturday and Sunday before the regular State turkey season. Hunters may harvest two bearded turkeys per season. We allow the use and possession of lead shot while turkey hunting on the refuge (see § 32.2(k)). We allow use of nonmotorized bicycles on designated all-terrain vehicle trails. Although you may hunt turkey without displaying a solid-hunter-orange cap or vest during your turkey hunt, we do recommend its use.

9. Conditions A2, A4, A5, and A6 apply.

10. In areas posted “Area Closed” or “No Hunting Zone,” we prohibit big game hunting at any time. We close “Closed Areas” (designated on the Public Use Regulations brochure map) to all hunts. We prohibit shooting into or across any closed area with a gun or archery equipment.

11. We allow muzzleloader hunters to discharge their primitive firearms at the end of each hunt safely into the ground at least 150 feet (135 meters) from any designated public road, maintained road, trail, fire break, dwelling, or above-ground oil and gas production facility. We define a maintained road or trail as one that has been mowed, disked, or plowed, or one that is free of trees.

12. We prohibit deer hunters leaving deer stands unattended before the opening day of the refuge archery season. Hunters must remove stands by the end of the last day of the refuge archery season (see § 27.93 of this chapter). Hunters must clearly mark stands left unattended on the refuge with the name and address of the stand owner. Hunters must remove portable stands from trees daily and place freestanding stands in a nonhunting position when unattended.

13. We allow hunting with slugs, rifle, or pistol ammunition larger than .22 caliber rimfire only during the quota hunts for deer. We prohibit use of buckshot when hunting.

D. Sport Fishing. We allow fishing on designated areas of the refuge in accordance with State regulations and subject to the following conditions:

1. We allow anglers to enter the refuge no earlier than 4 a.m., and they must depart no later than 2 hours after legal sunset.

2. We prohibit the taking of turtle (see § 27.21 of this chapter).

3. Condition A4 applies.

4. We prohibit fish cleaning within 150 feet (45 meters) of parking areas, maintained roads, and trails.

* * * * *

13. Amend § 32.38 by:

a. Under the entry Moosehorn National Wildlife Refuge:

i. Revising paragraphs A, B, and C.1;

ii. Removing paragraph C.3;

iii. Redesignating paragraphs C.4 and C.6 as paragraphs C.3 and C.4, respectively;

iv. Revising paragraph C.5;

v. Redesignating paragraph C.11 as paragraph C.6;

vi. Removing paragraph C.7;

vii. Redesignating paragraph C.12 as paragraph C.7;

viii. Revising paragraphs C.8, C.9, and C.10;

ix. Adding new paragraph C.11; and

x. Removing paragraphs C.13, C.14, and C.15;

b. Under the entry Petit Manan National Wildlife Refuge:

i. Revising paragraph A.2;

ii. Removing paragraph A.3;

iii. Revising paragraphs B.1, B.2, and B.5;

iv. Adding new paragraph B.6;

v. Revising the introductory text of paragraph C, and paragraphs C.1, C.2, and C.4; and

vi. Removing paragraph C.5;

c. Revising the entry Rachel Carson National Wildlife Refuge;

d. Revising the entry Sunkhaze Meadows National Wildlife Refuge; and

e. Revising the entry Umbagog National Wildlife Refuge.

The additions and revisions read as follows:

§ 32.38 Maine.

* * * * *

Moosehorn National Wildlife Refuge

A. Migratory Game Bird Hunting. We allow hunting of duck, goose, American woodcock, and snipe on designated areas of the Baring and Edmunds Division of the refuge in accordance with State regulations and subject to the following conditions:

1. We require every hunter to possess and carry a personally signed Migratory Bird Hunt Application (FWS Form 3-2357). Permits and information are available from the refuge.

2. We allow hunters to enter the refuge 2 hours before legal shooting hours, and they must exit the refuge by 1 hour past legal shooting hours.

3. You may hunt American woodcock and snipe on the Edmunds Division and that part of the Baring Division that lies west of State Route 191.

4. You may hunt waterfowl (duck and goose) in that part of the Edmunds Division that lies north of Hobart Stream and west of U.S. Route 1, and in those areas east of U.S. Route 1, and refuge lands that lie south of South Trail; and in that portion of the Baring Division that lies west of State Route 191.

5. We prohibit hunting waterfowl in the Nat Smith Field and Marsh or Bills Hill Field or Ponds on the Edmunds Division.

6. We only allow portable or temporary blinds and decoys that must be removed from the refuge following each day's hunt. We prohibit construction or use of any permanent blind.

7. You may possess only approved nontoxic shot when hunting woodcock and snipe on the refuge (see § 32.2(k)).

8. We prohibit use of motorized or mechanized vehicles and equipment in designated Wilderness Areas. This includes all vehicles and items such as winches, pulleys, and wheeled game carriers. You must remove animals harvested within the Wilderness Areas by hand without the aid of mechanical equipment of any type.

9. We prohibit dog training on the refuge.

B. Upland Game Hunting. We allow hunting of ruffed grouse, snowshoe hare, red fox, gray and red squirrel, raccoon, skunk, and woodchuck on designated areas of the Edmunds Division and that part of the Baring Division that lies west of State Route 191 in accordance with State regulations and subject to the following conditions:

1. We require every hunter to possess and carry a personally signed Big/Upland Game Hunt Application (FWS Form 3-2356). Permits and regulations are available from the refuge.

2. You may possess only approved nontoxic shot when hunting upland game on the refuge (see § 32.2(k)).

3. We prohibit use of motorized or mechanized vehicles and equipment in designated Wilderness Areas. This includes all vehicles and items such as winches, pulleys, and wheeled game carriers. You must remove animals harvested within the Wilderness Areas by hand without the aid of mechanical equipment of any type.

4. We allow hunters to enter the refuge 2 hours before legal shooting hours, and they must exit the refuge by 1 hour past legal shooting hours, except for hunters pursuing raccoons at night.

5. We prohibit hunting of upland game species on refuge lands between April 1 and September 30.

6. You must notify the refuge office prior to hunting raccoon or red fox with trailing dogs.

7. We prohibit dog training on the refuge.

C. * * *

1. Conditions B1 and B3 apply.

* * * * *

5. We allow portable tree stands, blinds, and ladders. You must clearly label any tree stand, blind, or ladder left on the refuge overnight with your name, address, phone number, and hunting license number. We require all tree stands, blinds, and ladders to be removed from the refuge on the last day of the muzzleloader deer season. We prohibit construction or use of permanent tree stands, blinds, or ladders.

* * * * *

8. We prohibit use of firearms to hunt bear and coyote during the archery deer season on that part of the Baring Division that lies east of Route 191. We prohibit the use of firearms, other than a muzzleloader, to hunt coyote during the deer muzzleloader season on that part of the Baring Division that lies east of Route 191.

9. You must notify the refuge office prior to hunting black bear, bobcat, or eastern coyote with trailing dogs.

10. We prohibit dog training on the refuge.

11. We prohibit hunting in the following areas:

i. The South Magurrewock Area.

ii. The North Magurrewock Area.

iii. The posted safety zone around the refuge headquarters.

iv. The Southern Gravel Pit.

* * * * *

Petit Manan National Wildlife Refuge

A. * * *

2. You may only possess approved nontoxic shot when hunting woodcock and snipe (see § 32.2(k)).

B. * * *

1. You may only possess approved nontoxic shot when hunting upland game on the refuge (see § 32.2(k)).

2. We allow the use of dogs for hunting; however, the dogs must be under the hunter's control at all times.

* * * * *

5. Hunters must retrieve all species, including coyotes, harvested on the refuge.

6. We prohibit night hunting from ½ hour after legal sunset until ½ hour before legal sunrise the following day.

C. Big Game Hunting. We allow hunting of white-tailed deer and black bear on designated areas of the refuge in accordance with State regulations and subject to the following conditions:

1. We allow white-tailed deer hunting on Sawyers Marsh and Gouldsboro Bay Divisions, Bois Bubert Island, and designated areas of the Petit Manan Point. Petit Manan Point is open only during the State-prescribed muzzleloader season.

2. We allow black bear hunting on the Sawyers Marsh and Gouldsboro Bay Divisions during the firearm season for white-tailed deer.

* * * * *

4. We allow hunters to enter the refuge 1 hour prior to legal sunrise and remain on the refuge 1 hour after legal sunset.

* * * * *

Rachel Carson National Wildlife Refuge

A. Migratory Game Bird Hunting. We allow hunting of duck, goose, coot, woodcock, and snipe in accordance with State regulations on designated areas of the Brave Boat Harbor, Lower Wells, Upper Wells, Mousam River, Goose Rocks, and Spurwink River Divisions of the refuge and subject to the following conditions:

1. Prior to entering designated refuge hunting areas, you must obtain a Migratory Bird Hunt Application (FWS Form 3-2357), pay a recreation fee, and sign and carry the permit at all times.

2. We open Designated Youth Hunting Areas to hunters age 15 and younger who possess and carry a refuge hunting permit. Youth hunters must be accompanied by an adult age 18 or older. The accompanying adult must possess and carry a refuge hunting permit and may also hunt.

3. You may only possess approved nontoxic shot for hunting woodcock and snipe on the refuge (see § 32.2(k)).

4. You may use seasonal blinds with a Special Use Permit (FWS Form 3-1383-G). A permitted seasonal blind is available to permitted hunters on a first-come, first-served basis. The permit holder for the blind is responsible for the removal of the blind at the end of the season and compliance with all conditions of the Special Use Permit.

5. We close the Moody, Little River, Biddeford Pool, and Goosefare Brook divisions of the refuge to all migratory bird hunting.

B. Upland Game Hunting. We allow hunting of pheasant, quail, and grouse on designated areas of the Brave Boat Harbor, Lower Wells, Upper Wells, Mousam River, Goose Rocks, Goosefare Brook, Spurwink River, and York River divisions of the refuge in accordance with State regulations and subject to the following conditions:

1. Conditions A1 and A5 apply.

2. For upland game, you may only take pheasant, quail, and grouse (no mammals) by falconry on the refuge during State seasons.

3. You may only possess approved nontoxic shot for hunting upland game on the refuge (see § 32.2(k)).

4. We close the Moody, Little River, and Biddeford Pool divisions of the refuge to all upland game hunting.

C. Big Game Hunting. We allow hunting of white-tailed deer and turkey on designated areas of the Brave Boat Harbor, Lower Wells, Upper Wells, Mousam River, Goose Rocks, Little River, Goosefare Brook, and Spurwink River divisions of the refuge in accordance with State regulations and subject to the following conditions:

1. Prior to entering designated refuge hunting areas, you must obtain a Big/Upland Game Hunt Application (FWS Form 3-2356), pay a recreation fee, and sign and carry the permit at all times.

2. Condition A5 applies.

3. We allow hunting of deer and turkey with shotgun and archery only. We prohibit rifles and muzzleloading firearms for hunting.

4. We allow turkey hunting during the fall season only, as designated by the State.

5. We close the Moody and Biddeford Pool divisions of the refuge to white-tailed deer and turkey hunting.

6. We allow archery on only those areas of the Little River division open to hunting.

7. We allow hunting of fox and coyote with archery or shotgun with a refuge big game permit, during State firearm deer season. We prohibit night hunting from ½ hour after sunset until ½ hour before sunrise the following day.

D. Sport Fishing. We allow sport fishing on designated areas of the refuge in accordance with State regulations and subject to the following conditions:

1. We allow sport fishing along the shoreline on the following areas of the refuge:

i. At the Brave Boat Harbor division on the north side (York) of the stream crossing under Route 103, beginning at Route 103 then downstream to the first railroad trestle.

ii. At the Moody division on the north side of the Ogunquit River and downstream of Route 1, beginning at the refuge boundary then downstream a distance of 500 feet (150 meters).

iii. At the Moody division on the east side of Stevens Brook and downstream of Bourne Avenue, beginning at Bourne Avenue then downstream to where the refuge ends near Ocean Avenue.

iv. At the Lower Wells division on the west side of the Webhannet River downstream of Mile Road, from Mile Road north to the first creek.

v. At the Upper Wells division on the south side of the Merriland River downstream of Skinner Mill Road, beginning at the refuge boundary and then east along the oxbow to the woods.

vi. At the Mousam River division on the north side of the Mousam River downstream of Route 9, beginning at the refuge boundary and then east to a point opposite Great Hill Road. Access is from the Bridle Path along the first tidal creek.

vii. At the Goosefare Brook division on the south side of Goosefare Brook where it flows into the Atlantic Ocean.

viii. At the Spurwink River division on the west side (Scarborough) of the Spurwink River upstream of Route 77, beginning at Route 77 and then upstream approximately 1,000 feet (300 meters) to a point near the fork in the river.

2. We allow car-top launching from legal sunrise to legal sunset on the following areas of the refuge:

i. At Brave Boat Harbor division on Chauncey Creek at the intersection of Cutts Island Road and Sea Point Road.

ii. At Little River division at the end of Granite Point Road into the Little River.

iii. At Spurwink River division on the upstream side of Route 77 at the old road crossing.

3. We allow fishing from legal sunrise to legal sunset.

4. We prohibit lead jigs and sinkers.

5. We prohibit collection of bait on the refuge.

Sunkhaze Meadows National Wildlife Refuge

A. Migratory Game Bird Hunting. We allow hunting of migratory game birds on all areas of the refuge, including Sunkhaze Meadows Unit in Milford, Carlton Pond Waterfowl Production Area in Troy, Benton Unit in Benton, and Sandy Stream Unit in Unity in accordance with State regulations and subject to the following conditions:

1. You may possess only approved nontoxic shot when hunting crow, woodcock, and snipe on the refuge (see § 32.2(k)).

2. We prohibit dog training on the refuge.

B. Upland Game Hunting. We allow hunting of upland game on all areas of the refuge, including Sunkhaze Meadows Unit in Milford, Carlton Pond Waterfowl Production Area in Troy, Benton Unit in Benton, and Sandy Stream Unit in Unity in accordance with State regulations and subject to the following conditions:

1. You may possess only approved nontoxic shot when hunting upland game on the refuge (see § 32.2(k)).

2. We allow eastern coyote hunting from October 1 to March 31.

3. We allow hunters to enter the refuge 1 hour before legal shooting hours and they must exit the refuge by 1 hour past legal shooting hours, except for hunters pursuing raccoons and coyotes at night.

4. The hunter must retrieve all species, including coyotes, harvested on the refuge.

5. We prohibit dog training on the refuge.

C. Big Game Hunting. We allow hunting of black bear, bobcat, moose, and white-tailed deer on all areas of the refuge, including Sunkhaze Meadows Unit in Milford, Carlton Pond Waterfowl Production Area in Troy, Benton Unit in Benton, and Sandy Stream Unit in Unity in accordance with State regulations and subject to the following conditions:

1. We allow hunters to enter the refuge 1 hour before legal shooting hours and they must exit the refuge by 1 hour past legal shooting hours.

2. We allow portable tree stands, blinds, and ladders. You must clearly label any tree stand, blind, or ladder left on the refuge overnight with your name, address, phone number, and hunting license number. We require all tree stands, blinds, and ladders to be removed from the refuge on the last day of the muzzleloader deer season. We prohibit construction or use of permanent tree stands, blinds, or ladders.

3. We prohibit dog training on the refuge.

D. Sport Fishing. We allow sport fishing on the refuge in accordance with State regulations and subject to the following conditions:

1. We allow fishing on the waters of and from the banks of Baker Brook, Birch Stream, Buzzy Brook, Dudley Brook, Johnson Brook, Little Birch Stream, Little Buzzy Brook, Sandy Stream, and Sunkhaze Stream.

2. We prohibit trapping of bait fish on the refuge.

Umbagog National Wildlife Refuge

A. Migratory Game Bird Hunting. We allow hunting of duck, goose, snipe, coot, crow, and woodcock in accordance with State regulations and subject to the following conditions:

1. Hunters must remove temporary blinds, boats, and decoys from the refuge following each day's hunt (see § 27.93 of this chapter).

2. We prohibit dog training on the refuge.

3. You may possess only approved nontoxic shot when hunting snipe, crow, and woodcock on the refuge (see § 32.2(k)).

B. Upland Game Hunting. We allow hunting of fox, raccoon, woodchuck, squirrel, porcupine, skunk, snowshoe hare, ring-necked pheasant, and ruffed grouse in accordance with State regulations, seasons, and bag limits, and subject to the following conditions:

1. We prohibit night hunting from ½ hour after legal sunset until ½ hour before legal sunrise the following day.

2. You may possess only approved nontoxic shot when hunting upland game on the refuge (see § 32.2(k)).

3. Condition A2 applies.

C. Big Game Hunting. We allow hunting of bear, white-tailed deer, coyote, wild turkey, and moose in accordance with State regulations and subject to the following conditions:

1. We prohibit night hunting from ½ hour after legal sunset until ½ hour before legal sunrise the following day.

2. Condition A2 applies.

3. Hunters must retrieve all species, including coyotes, harvested on the refuge.

4. We allow temporary blinds and tree stands that are clearly marked with the owner's name and address. Temporary blinds and tree stands may be erected no earlier than 14 days prior to the hunting season and must be removed within 14 days after the hunting season.

D. Sport Fishing. [Reserved]

14. Revise § 32.39 to read as follows:

§ 32.39 Maryland.

The following refuge units have been opened for hunting and/or fishing, and are listed in alphabetical order with applicable refuge-specific regulations.

Blackwater National Wildlife Refuge

A. Migratory Game Bird Hunting. We allow hunting of goose and duck on designated areas of the refuge in accordance with State regulations and subject to the following conditions:

1. You must obtain a refuge waterfowl hunting permit (signed brochure) by signing the corresponding season's refuge waterfowl hunting brochure in ink. You must abide by the terms and conditions outlined in the “Blackwater NWR Waterfowl Hunting Brochure” (see § 32.2(e) of this chapter). This brochure contains seasons, bag limits, methods of hunting, maps depicting areas open to hunting, hunt unit reservation procedures, and the terms and conditions under which we issue hunting permits. They are available at the refuge visitor center and on the refuge's website.

2. Up to three additional hunters may accompany you on your reserved unit.

B. Upland Game Hunting. [Reserved]

C. Big Game Hunting. We allow the hunting of white-tailed and sika deer and turkey on designated areas of the refuge in accordance with State regulations and subject to the following conditions:

1. General Hunt Regulations.

i. You must obtain a deer or turkey hunting permit (Big/Upland Game Hunt Application, FWS Form 3-2356 or Quota Deer Hunt Application, FWS Form 3-2354).

ii. We prohibit organized deer drives, unless otherwise authorized by the refuge manager on designated hunt days.

iii. We prohibit shooting a projectile from a firearm, muzzleloader, bow, or crossbow from, down, or across any refuge road. A refuge road is any road that is traveled by vehicular traffic.

iv. We prohibit leaving deer or turkey entrails or other waste within 50 feet (15.2 meters) of any road, parking area, trail, or refuge structure on the refuge.

v. You must check all deer harvested at the refuge-sponsored check station during hunt days when the refuge-sponsored check station is open. If you fail to check deer during operation hours of the check station, you must notify the hunt coordinator by 12 p.m. (noon) on the day after your kill.

vi. You must adhere to the bag limits set forth annually in the brochure. Deer harvested on the refuge do not count toward State bag limits but must be recorded and checked with the State. Deer harvested on the refuge must be checked pursuant to the refuge hunt in which they are taken, regardless of the weapon used or corresponding State season.

vii. We prohibit the use of rimfire or centerfire rifles and all handguns, including muzzleloading pistols, for hunting.

2. Archery Deer Hunt. We do not allow archery hunters to hunt within areas designated for the youth hunt on designated days.

3. Turkey Hunt. We allow turkey hunt permit holders to have an assistant, who must remain within sight and normal voice contact.

4. Youth Deer and Turkey Hunt.

i. We allow youth hunters to hunt on designated areas on designated days (Youth Hunt) if they meet the criteria of a “youth hunter” as defined by State law.

ii. Deer taken during youth days do not count toward the State bag limit and are in addition to any other deer taken during any other hunts on the refuge.

5. Designated Disabled Hunt.

i. Disabled hunters are required to have their Federal Government Access pass (OMB Control 1024-0252) in their possession while hunting in disabled areas.

ii. Disabled hunters may have an assistant, age 18 or older, who must remain within sight and normal voice contact while hunting. Assistants must possess a valid refuge hunt brochure (permit), signed in ink, and a valid government-issued photo identification.

D. Sport Fishing. We allow fishing and crabbing on designated areas of the refuge in accordance with State regulations and subject to the following conditions:

1. We allow fishing and crabbing only from April 1 through September 30 during daylight hours in refuge waters, unless otherwise authorized by the refuge manager.

2. We allow only fishing and crabbing in the Big Blackwater and the Little Blackwater River by boat and from designated areas listed in the refuge fishing brochure.

3. We prohibit boat launching from refuge lands except from the car-top boat launch located near the Blackwater River Bridge on Route 335. Only canoes, kayaks, and small jon boats under 17 feet are considered car-top boats.

4. We prohibit the use of airboats on refuge waters.

Eastern Neck National Wildlife Refuge

A. Migratory Game Bird Hunting. [Reserved]

B. Upland Game Hunting. [Reserved]

C. Big Game Hunting. We allow hunting of white-tailed deer and turkey on designated areas of the refuge in accordance with State hunting regulations and subject to the following conditions:

1. General Hunt Regulations.

i. You must obtain a deer or turkey hunting permit (Big/Upland Game Hunt Application, FWS Form 3-2356). Hunting brochures contain hunting application procedures, seasons, bag limits, methods of hunting, maps depicting areas open to hunting, and the terms and conditions under which we issue hunting permits.

ii. We prohibit shooting a projectile from a firearm, muzzleloader, bow, or crossbow from, down, or across any refuge road. A refuge road is any road that is traveled by vehicular traffic.

iii. We prohibit leaving deer entrails or other waste within 50 feet (15.2 meters) of any refuge road, trail, parking area, or structure.

iv. We prohibit the use of rimfire or centerfire rifles and all handguns, including muzzleloading pistols, for hunting.

2. Youth Deer Hunt. We allow hunters to hunt on designated areas on designated days (Youth Hunt) if they meet the criteria of a “youth hunter” as defined by State law.

3. Designated Disabled Hunt.

i. All disabled hunters must possess a Federal Government Access pass (OMB Control 1024-0252). Disabled hunters are required to have their Federal Government Access pass (OMB Control 1024-0252) in their possession while hunting in disabled areas.

ii. Disabled hunters may have an assistant who must be age 18 or older and remain within sight and normal voice contact. Assistants must possess a valid refuge hunt brochure (permit), signed in ink, and a valid government-issued photo identification.

D. Sport Fishing. We allow fishing and crabbing in designated areas of the refuge in accordance with State regulations and subject to the following conditions:

1. We allow fishing and crabbing from designated shoreline areas located at the Ingleside Recreation Area from legal sunrise to legal sunset, April 1 through September 30.

2. We allow fishing from designated shoreline areas located at the Chester River end of Boxes Point and Duck Inn Trails from legal sunrise to legal sunset.

3. We prohibit boat launching from refuge lands except for canoes/kayaks at the canoe/kayak ramp located at the Ingleside Recreation Area.

Patuxent Research Refuge

A. Migratory Game Bird Hunting. We allow hunting of goose, duck, and dove on the North Tract in accordance with State regulations and subject to the following conditions:

1. We require a Refuge Hunt Application (PRR Hunt Form #1).

2. Goose, duck, and dove hunting is suspended during the muzzleloader and firearms seasons, with the exceptions that waterfowl hunting will remain open during the 2-day January firearms season and during the early muzzleloader season, and waterfowl hunters are restricted to hunting only Blue Heron Pond, Lake Allen, andArea Z.

B. Upland Game Hunting. We allow hunting of gray squirrel, eastern cottontail rabbit, and woodchuck on the North Tract in accordance with State regulations and subject to the following conditions:

1. Conditions A1 and A2 apply.

2. You may possess only approved nontoxic shot while hunting in the field (see § 32.2(k)), except for the use of .22-caliber rimfire rifles during the months of December and January only to hunt squirrel.

C. Big Game Hunting. We allow hunting of turkey on North Tract only and white-tailed deer on the North, Central, and South Tracts in accordance with State regulations and subject to the following conditions:

1. Conditions A1 and A2 apply.

2. We require turkey hunters to use #4, #5, or #6 nontoxic shot; vertical bows; or crossbows.

3. We prohibit deer drives or anyone taking part in any deer drive. We define a “deer drive” as an organized or planned effort to pursue, drive, chase, or otherwise frighten or cause deer to move in the direction of any person(s) who is part of the organized or planned hunt and known to be waiting for the deer.

D. Sport Fishing. We allow sport fishing in accordance with State hook and line fishing regulations and subject to the following conditions:

1. We prohibit the use and/or possession of lead sinkers.

2. We allow the use of earthworms as the only source of live bait. We prohibit bloodworms, fish, or other animals or parts of animals to be used as bait.

3. Anglers may take the following species: Chain pickerel, catfish, golden shiner, eel, and sunfish (includes bluegill, black crappie, warmouth, and pumpkinseed). Maryland State daily harvest limits apply unless otherwise noted. We allow take of one chain pickerel per day.

4. We prohibit the use of any type of watercraft on North Tract.

15. Amend § 32.40 by:

a. Revising the entry Assabet River National Wildlife Refuge:

b. Revising the entry Great Meadows National Wildlife Refuge;

c. Revising the entry Nantucket National Wildlife Refuge;

d. Revising the entry Oxbow National Wildlife Refuge; and

e. Revising the entry Parker River National Wildlife Refuge.

The revisions read as follows:

§ 32.40 Massachusetts.

* * * * *

Assabet River National Wildlife Refuge

A. Migratory Game Bird Hunting. We allow hunting of woodcock on designated portions of the refuge in accordance with State regulations and subject to the following conditions:

1. We allow woodcock hunting within the portions of the refuge located north of Hudson Road, except those areas north of Hudson Road that are designated as “archery only” hunting as shown on the current refuge hunting map. Hunters must obtain and possess a refuge-specific hunting permit to hunt woodcock on the refuge.

2. You may begin scouting hunting areas 4 weeks prior to the opening day of your permitted season. We require possession of valid refuge hunting permits while scouting.

3. We prohibit the training of dogs on the refuge.

B. Upland Game Hunting. We allow hunting of upland game on designated areas of the refuge in accordance with State regulations and subject to the following conditions:

1. We allow shotgun hunting for ruffed grouse, cottontail rabbit, and gray squirrel within those portions of the refuge located north of Hudson Road, except those areas north of Hudson Road designated as “archery only” hunting as shown on the current refuge hunting map.

2. Hunters must obtain and possess a refuge-specific hunting permit to hunt designated upland game on the refuge.

3. You may possess only approved nontoxic shot while hunting upland game on the refuge (see § 32.2(k)).

C. Big Game Hunting. We allow hunting of white-tailed deer and turkey on designated areas of the refuge in accordance with State regulations and subject to the following conditions:

1. We allow shotgun and muzzleloader hunting of white-tailed deer, as well as shotgun hunting of turkey, within the portions of the refuge located north of Hudson Road, except those areas north of Hudson Road that are designated as “archery only” hunting as shown on the current refuge hunting map.

2. We allow archery deer and archery turkey hunting within all portions of the refuge during the hunting seasons for these species.

3. Hunters must obtain and possess a refuge-specific hunting permit to hunt deer and turkey on the refuge.

4. You may begin scouting hunting areas 4 weeks prior to the opening day of your permitted season. We require possession of valid refuge hunting permits while scouting.

5. We prohibit driving deer by any means on the refuge.

6. One nonhunting companion may accompany each permitted hunter. We prohibit nonhunting companions from hunting, but they may assist in other means. All companions must carry identification and stay with the hunter.

7. You may use temporary tree stands and/or ground blinds while engaged in hunting deer during the applicable archery, shotgun, or muzzleloader deer seasons or while hunting turkey. We allow hunters to keep one tree stand or ground blind on each refuge during the permitted season.

Hunters must mark ground blinds with the hunter's permit number. Hunters must mark tree stands with the hunter's permit number in such a fashion that all numbers are visible from the ground. Hunters must remove all temporary tree stands and ground blinds by the 15th day after the end of the hunter's permitted season.

D. We allow sport fishing in Puffer Pond in accordance with State regulations and subject to the following conditions:

1. We allow fishing from designated locations on the banks of Puffer Pond. We prohibit the use of motorized and nonmotorized boats on Puffer Pond.

2. We allow catch and release fishing only.

3. We allow the use of live bait with the exception of any amphibians or reptiles (frogs, salamanders, etc.)

4. We prohibit ice fishing on the refuge except for special refuge events.

Great Meadows National Wildlife Refuge

A. Migratory Game Bird Hunting. We allow hunting of ducks and geese on designated areas of the refuge in accordance with State regulations and subject to the following condition: We prohibit the training of dogs on the refuge.

B. Upland Game Hunting. [Reserved]

C. Big Game Hunting. We allow archery hunting of whitetail deer on designated areas of the refuge in accordance with State regulations and subject to the following conditions:

1. We allow archery hunting of whitetail deer within the portions of the Concord Unit of the refuge that are located north of Massachusetts Route 225. We also allow archery hunting of whitetail deer within the portions of the Sudbury Unit of the refuge that are located north of Stonebridge Road in Wayland, Massachusetts, and south of Lincoln Road/Sherman's Bridge Road on the Sudbury and Wayland Town Line. Hunters must obtain and possess a valid refuge hunting permit to hunt deer on the refuge.

2. We prohibit the use of firearms for hunting deer on the refuge.

3. Hunters may begin scouting hunting areas beginning 4 weeks prior to the opening day of their permitted season. We require possession of valid refuge hunting permits while scouting. We prohibit the use of dogs during scouting.

4. We allow one nonhunting companion to accompany each permitted hunter. We prohibit nonhunting companions from hunting, but they can assist in other means. All companions must carry identification and stay with the hunter.

5. We prohibit driving deer by any means on the refuge.

6. You may use temporary tree stands and/or ground blinds while engaged in hunting deer during the applicable archery season. We allow hunters to keep one tree stand or ground blind on each refuge during the permitted season. Hunters must mark ground blinds with their permit number. Hunters must mark tree stands with their permit number in such a fashion that all numbers are visible from the ground. Hunters must remove all temporary tree stands and ground blinds by the 15th day after the end of the permitted deer season.

D. Sport Fishing. We allow sport fishing in designated areas of the refuge in accordance with State regulations and subject to the following condition: We allow fishing along the main channels of the Concord and Sudbury Rivers and from designated banks of Heard Pond.

* * * * *

Nantucket National Wildlife Refuge

A. Migratory Game Bird Hunting. [Reserved]

B. Upland Game Hunting. [Reserved]

C. Big Game Hunting. [Reserved]

D. Sport Fishing. We allow fishing in accordance with State regulations and subject to the following conditions:

1. We may close the refuge shoreline and beach area to surf fishing and over-sand vehicle use during varying times of the year based on biological needs and beach conditions. Seasonal closures are delineated with posted signs.

2. We require a permit obtained from the Trustees of Reservations for the use of over-sand vehicles on the refuge.

Oxbow National Wildlife Refuge

A. Migratory Game Bird Hunting. We allow hunting of waterfowl, woodcock, and common snipe on designated areas of the refuge in accordance with State regulations and subject to the following conditions:

1. We allow waterfowl and common snipe hunting within the portions of the refuge located south of Massachusetts Route 2 and west of Tank Road.

2. We allow woodcock hunting within the portions of the refuge south of Massachusetts Route 2 and west of the B&M railroad tracks; north of Massachusetts Route 2 and south of Hospital Road; and within the portions of the refuge along the westerly side of the Nashua River located north of the commuter rail tracks in Shirley, Massachusetts. Hunters must obtain and possess a refuge-specific hunting permit to hunt woodcock on the refuge.

3. Hunters may begin scouting hunting areas 4 weeks prior to the opening day of your permitted season. We require possession of valid refuge hunting permits while scouting. We prohibit the use of dogs during scouting.

4. We prohibit the training of dogs on the refuge.

5. One nonhunting companion may accompany each permitted hunter. We prohibit nonhunting companions from hunting, but they can assist in other means. All companions must carry identification and stay with the hunter.

B. Upland Game Hunting. We allow upland game hunting on designated areas of the refuge in accordance with State regulations and subject to the following conditions:

1. We allow shotgun hunting of ruffed grouse, cottontail rabbit, and gray squirrels within the areas of the refuge located south of Massachusetts Route 2 and west of the B&M railroad tracks; north of Massachusetts Route 2 and south of Hospital Road; and within the portions of the refuge along the westerly side of the Nashua River located north of the commuter rail tracks in Shirley, Massachusetts. Hunters must obtain and possess a refuge-specific hunting permit to hunt upland game on the refuge.

2. You may possess only approved nontoxic shot while hunting upland game on the refuge (see § 32.2(k)).

C. Big Game Hunting. We allow hunting of white-tailed deer and turkey on designated areas of the refuge in accordance with State regulations and subject to the following conditions:

1. We allow shotgun, archery, and muzzleloader hunting of white-tailed deer, as well as shotgun and archery hunting of turkey, within the portions of the refuge located south of Massachusetts Route 2 and west of the B&M railroad tracks.

2. We allow archery deer and archery turkey hunting within the portions of the refuge located south of Massachusetts Route 2 and east of the B&M railroad tracks, and within the portions of the refuge along the easterly side of the Nashua River located north of the commuter rail tracks in Ayer, Massachusetts.

3. We allow archery deer hunting as well as shotgun and archery turkey hunting within the portions of the refuge located north of Massachusetts Route 2 and south of Hospital Road, and within the portions of the refuge along the westerly side of the Nashua River located north of the commuter rail tracks in Shirley, Massachusetts.

4. Hunters must obtain and possess a refuge-specific hunting permit to hunt deer and turkey on the refuge.

5. Hunters may begin scouting hunting areas 4 weeks prior to the opening day of your permitted season. We require possession of valid refuge hunting permits while scouting. We prohibit the use of dogs during scouting.

6. One nonhunting companion may accompany each permitted hunter. We prohibit nonhunting companions from hunting, but they can assist in other means. All companions must carry identification and stay with the hunter.

7. We prohibit driving deer by any means on the refuge.

8. Hunters may use temporary tree stands and/or ground blinds while engaged in hunting deer during the applicable archery, shotgun, or muzzleloader deer seasons or while hunting turkey. We allow hunters to keep one tree stand or ground blind on each refuge during the permitted season. Hunters must mark ground blinds with their permit number. Hunters must mark tree stands with their permit number in such a fashion that all numbers are visible from the ground. Hunters must remove all temporary tree stands and ground blinds by the 15th day after the end of the permitted season.

D. Sport Fishing. We allow sport fishing along the Nashua River in accordance with State regulations.

Parker River National Wildlife Refuge

A. Migratory Game Bird Hunting. We allow hunting in designated areas for waterfowl in accordance with Federal and State hunting regulations.

B. Upland Game Hunting. [Reserved]

C. Big Game Hunting. We allow hunting of white-tailed deer on designated areas of the Plum Island portion of the refuge in accordance with Federal, State, and local hunting regulations and subject to the following condition: We require hunters to obtain and possess a refuge deer hunting permit, issued pursuant to an annual selection lottery.

D. Sport Fishing. We allow saltwater fishing on designated areas of the refuge in accordance with State regulations and subject to the following conditions:

1. We allow saltwater fishing on the ocean beach and the surrounding waters of the Broad Sound with the following conditions:

i. We prohibit fishing during closures.

ii. We allow persons using refuge fishing areas access from legal sunrise to legal sunset without a refuge permit. They are, however, subject to entrance fee requirements.

iii. Nelson Island is open to fishing from legal sunrise to legal sunset, except during waterfowl seasons, or other closures. We limit access to the trail, and fishing within 100 feet (30 meters) on either side of the trail at the shoreline of Broad Sound.

iv. The south-facing shoreline of Stage Island is open to fishing. Access to the fishing area is permitted from the refuge's Stage Island Trail, as well as Sandy Point State Reservation, along the shoreline below mean high tide to a point 250 feet (73 meters) beyond the terminus, or most western point, of the Stage Island peninsula known as Ipswich Bluff.

2. We allow walk-on night fishing after legal sunset with the following conditions:

i. Anglers must enter the refuge through the entrance gate, pay an entrance fee, and arrive prior to legal sunset.

ii. We require a valid refuge permit (vehicle sticker issued by the refuge office) and permit fee for walk-on night fishing.

3. We allow anglers to use over-the-sand, surf-fishing vehicles (ORVs) with the following conditions:

i. Anglers must enter the refuge through the entrance gate, pay an entrance fee, and arrive prior to legal sunset.

ii. We require a valid refuge permit and permit fee for persons wishing access to the refuge beach with ORVs as determined in an annual lottery. Drive-on information, as provided in the “Parker River National Wildlife Refuge Drive-on Surf Fishing Information” sheet, will be in effect.

* * * * *

16. Amend § 32.41 by revising the entry Shiawassee National Wildlife Refuge to read as follows:

§ 32.41 Michigan.

* * * * *

Shiawassee National Wildlife Refuge

A. Migratory Game Bird Hunting. We allow hunting of waterfowl (ducks and geese), American coot, common gallinule, sora, Virginia rail, and Wilson's snipe on designated areas in accordance with State regulations and subject to the following conditions:

1. You must possess and carry a refuge permit.

2. We allow waterfowl hunting on Saturdays, Sundays, Tuesdays, and Thursdays during regular goose season after September 30.

3. We allow hunter access 1½ hours before legal shooting time.

4. We allow hunters to shoot ½ hour before legal sunrise until 12:00 p.m. (noon).

5. You may possess no more than 25 shotgun shells while hunting in the field.

6. We allow hunting with dogs.

7. We allow the take of feral hogs incidental to other lawful hunting using legal methods of take.

B. Upland Game Hunting. We allow hunting of turkey, small game (eastern fox squirrel, eastern cottontail, ring-necked pheasant, American woodcock, and American crow), and furbearers (raccoon, coyote, and red fox) on designated areas of the refuge in accordance with State regulations and subject to the following conditions:

1. Condition A6 applies.

2. You may only hunt turkey during spring season.

3. We allow hunter access for spring wild turkey season from 1½ hour before legal shooting time.

4. We allow hunter access for small game from ½ hour before legal shooting time to ½ hour after legal shooting time.

5. We allow hunting with dogs, but we prohibit training of dogs. Raccoon hunting dogs must wear GPS or radio collars.

6. You may only hunt furbearers from ½ hour before legal sunrise to ½ hour after legal sunset.

C. Big Game Hunting. We allow hunting of white-tailed deer on designated areas of the refuge in accordance with State regulations and subject to the following conditions:

1. Condition A6 applies.

2. You must possess and carry a refuge permit.

D. Sport Fishing. We allow sport fishing on designated areas in accordance with State regulations and subject to the following conditions:

1. We allow fishing by boat in navigable waterways but not within any managed refuge units.

2. We allow bank fishing from legal sunrise to legal sunset only at designated sites along the Tittabawassee and Cass Rivers.

17. Amend § 32.42 by revising the entry Glacial Ridge National Wildlife Refuge to read as follows:

§ 32.42 Minnesota.

* * * * *

Glacial Ridge National Wildlife Refuge

A. Migratory Game Bird Hunting. We allow hunting of goose, duck, coot, woodcock, snipe, rail, and mourning dove on designated areas of the refuge in accordance with State regulations and subject to the following conditions:

1. We prohibit the use of motorized boats. We allow nonmotorized boats in areas open to migratory bird hunting during the migratory bird hunting seasons.

2. For hunting, you may use or possess only approved nontoxic shot shells while in the field, including shot shells used for hunting wild turkey (see § 32.2(k)).

3. We prohibit hunting during the Spring Light Goose Conservation Order.

4. We allow hunting during special State-administered youth seasons.

5. We allow the use of hunting dogs, provided the dog is under the immediate control of the hunter at all times.

6. We allow the use of wheeled, nonmotorized conveyance devices (e.g., bikes, game carts).

7. We prohibit entry onto the refuge earlier than 2 hours before legal shooting time and require hunters to leave the refuge no later than 2 hours after legal shooting time.

B. Upland Game Hunting. We allow hunting of prairie chicken, sharp-tailed grouse, ring-necked pheasant, gray (Hungarian) partridge, ruffed grouse, rabbit (cottontail and jack), snowshoe hare, squirrel (fox and gray), and wild turkey on designated areas of the refuge in accordance with State regulations and subject to the following condition: Conditions A2, A5, A6, and A7 apply.

C. Big Game Hunting. We allow hunting of white-tailed deer on designated areas of the refuge in accordance with State regulations and subject to the following conditions:

1. We prohibit shooting from, across, or within 30 feet (9 meters) of a road edge open to public vehicle transportation.

2. Conditions A2, A4, A6, and A7 apply.

D. Sport Fishing. [Reserved]

* * * * *

18. Amend § 32.45 by:

a. Revising the entry Benton Lake National Wildlife Refuge;

b. Revising the entry Benton Lake Wetland Management District;

c. Revising paragraphs A and B in the entry Bowdoin National Wildlife Refuge;

d. Revising the entry Bowdoin Wetland Management District;

e. Revising the entry Creedman Coulee National Wildlife Refuge;

f. Revising the entry Lake Mason National Wildlife Refuge;

g. Revising the entry Lake Thibadeau National Wildlife Refuge;

h. Revising the entry Lamesteer National Wildlife Refuge;

i. Revising the entry Swan River National Wildlife Refuge;

j. Revising the entry UL Bend National Wildlife Refuge; and

k. Revising the entry War Horse National Wildlife Refuge.

The revisions read as follows:

§ 32.45 Montana.

* * * * *

Benton Lake National Wildlife Refuge

A. Migratory Game Bird Hunting. We allow hunting of duck, goose, swan, and coot in designated areas of the refuge in accordance with State regulations and subject to the following conditions:

1. We allow hunters to enter and remain in open hunting areas 2 hours before legal sunrise until 2 hours after legal sunset.

2. We allow hunting with the opening of waterfowl season and close hunting at the end of waterfowl season.

3. We allow hunting during a youth-only, special waterfowl hunt in accordance with State regulations.

4. Hunters with a documented mobility disability may reserve an accessible blind in advance by contacting the refuge office.

5. We only allow nonmotorized boats on refuge waters.

B. Upland Game Hunting. We allow hunting of pheasant, sharp-tailed grouse, and gray partridge in designated areas of the refuge in accordance with State regulations and subject to the following conditions:

1. Conditions A1 and A2 apply.

2. We allow hunting during a youth-only, special pheasant hunt in accordance with State regulations.

C. Big Game Hunting. [Reserved]

D. Sport Fishing. Anglers may sport fish on designated areas of the refuge as posted by signs.

Benton Lake Wetland Management District

A. Migratory Game Bird Hunting. We allow migratory game bird hunting on Waterfowl Production Areas (WPAs) throughout the District, excluding Sands WPA in Hill County and H2-0 WPA in Powell County, in accordance with State regulations and subject to the following condition: We prohibit the use of motorboats.

B. Upland Game Hunting. We allow the hunting of coyotes, skunks, red fox, raccoons, hares, rabbits, and tree squirrels on WPAs throughout the District, excluding Sands WPA in Hill County and H2-0 WPA in Powell County, in accordance with State regulations and subject to the following conditions:

1. Hunters may possess only approved nontoxic shot (see § 32.2(k)).

2. We prohibit the use of horses for any purposes.

C. Big Game Hunting. We allow big game hunting on WPAs throughout the District, excluding Sands WPA in Hill County and H2-0 WPA in Powell County, in accordance with State regulations and subject to the following condition: Condition B2 applies.

D. Sport Fishing. We allow sport fishing on WPAs throughout the District in accordance with State regulations and subject to the following condition: We prohibit the use of motorboats.

* * * * *

Bowdoin National Wildlife Refuge

A. Migratory Game Bird Hunting. We allow hunting of duck, goose, coot, swan, sandhill crane, and mourning dove on designated areas of the refuge in accordance with State regulations and subject to the following condition: We prohibit the use of air-thrust boats or boats with motors greater than 25 horsepower.

B. Upland Game Hunting. We allow hunting of pheasant, sharp-tailed grouse, sage grouse, gray partridge, fox, and coyote on designated areas of the refuge in accordance with State regulations and subject to the following conditions:

1. You must possess and carry a refuge Special Use Permit (FWS Form 3-1383-G) to hunt fox and coyotes.

2. Fox and coyote hunters may only use centerfire rifles, rimfire rifles, or shotguns with approved nontoxic shot.

3. Any person hunting or accompanying a hunter must wear a minimum of 400 square inches of hunter orange (fluorescent) material above the waist, visible at all times.

* * * * *

Bowdoin Wetland Management District

A. Migratory Game Bird Hunting. We allow migratory game bird hunting on all Waterfowl Production Areas (WPAs) (except Holm WPA) throughout the District in accordance with State regulations and subject to the following condition: We prohibit the use of motorboats.

B. Upland Game Hunting. We allow upland game hunting on all WPAs (except Holm WPA) throughout the District in accordance with State regulations.

C. Big Game Hunting. We allow big game hunting on all WPAs (except Holm WPA) throughout the District in accordance with State regulations and subject to the following conditions:

1. We allow portable tree stands, portable blinds, and freestanding elevated platforms to be left on WPAs from August 15 to December 15.

2. You must label portable tree stands, portable blinds, and freestanding elevated platforms with your automated licensing system (ALS) number. The label must be legible from the ground.

3. We only allow the use of archery, muzzleloader (as defined by State regulations), or shotgun on the McNeil Slough WPA and Hammond WPA.

D. Sport Fishing. We allow sport fishing on WPAs throughout the District in accordance with State regulations and subject to the following condition: We prohibit the use of motorboats.

* * * * *

Creedman Coulee National Wildlife Refuge

A. Migratory Game Bird Hunting. We allow hunting of duck, goose, coot, swan, sandhill crane, and mourning dove on designated areas of the refuge in accordance with State regulations.

B. Upland Game Hunting. We allow hunting of pheasant, sharp-tailed grouse, sage grouse, gray partridge, fox, and coyote on designated areas of the refuge in accordance with State regulations.

C. Big Game Hunting. We allow big game hunting on designated areas of the refuge in accordance with State regulations.

D. Sport Fishing. [Reserved]

* * * * *

Lake Mason National Wildlife Refuge

A. Migratory Game Bird Hunting. We allow hunting of migratory game birds on designated areas of the refuge in accordance with State regulations.

B. Upland Game Hunting. We allow hunting of upland game on designated areas of the refuge in accordance with State regulations and subject to the following condition: You may possess only approved nontoxic shot while in the field (see § 32.2(k)).

C. Big Game Hunting. We allow hunting of big game on designated areas of the refuge in accordance with State regulations.

D. Sport Fishing. [Reserved]

Lake Thibadeau National Wildlife Refuge

A. Migratory Game Bird Hunting. We allow hunting of duck, goose, coot, swan, sandhill crane, and mourning dove in designated areas of the refuge in accordance with State regulations.

B. Upland Game Hunting. We allow hunting of pheasant, sharp-tailed grouse, sage grouse, gray partridge, fox, and coyote on designated areas of the refuge in accordance with State regulations.

C. Big Game Hunting. We allow big game hunting on designated areas of the refuge in accordance with State regulations.

D. Sport Fishing. [Reserved]

Lamesteer National Wildlife Refuge

A. Migratory Game Bird Hunting. We allow hunting of migratory birds on designated areas of the refuge in accordance with State regulations.

B. Upland Game Hunting. We allow hunting of upland game on designated areas of the refuge in accordance with State regulations.

C. Big Game Hunting. We allow hunting of big game on designated areas of the refuge in accordance with State regulations.

D. Sport Fishing. We allow sport fishing on designated areas of the refuge in accordance with State regulations.

* * * * *

Swan River National Wildlife Refuge

A. Migratory Game Bird Hunting. We allow hunting of geese, ducks, and coots on designated areas of the refuge in accordance with State regulations.

B. Upland Game Hunting. [Reserved]

C. Big Game Hunting. We allow archery hunting of elk, white-tailed deer, and mule deer on designated areas of the refuge in accordance with State regulations and subject to the following conditions:

1. We allow the use of portable blinds and stands. You may install stands and blinds no sooner than August 1, and you must remove them by December 15 of each year. We limit each hunter to one stand or blind. The hunter must have their name, address, phone number, and automated licensing system number (ALS) visibly marked on the stand.

2. We prohibit the use of game or trail cameras.

D. Sport Fishing. The refuge is open to sport fishing in accordance with State regulations on Swan River, Swan Lake, and Spring Creek North of Bog Trail Road.

UL Bend National Wildlife Refuge

A. Migratory Game Bird Hunting. We allow hunting of migratory game birds on designated areas of the refuge in accordance with State regulations.

B. Upland Game Hunting. We allow hunting of upland game birds on designated areas of the refuge in accordance with State regulations and subject to the following condition: We allow coyote hunting from the first day of antelope rifle season through March 1 annually.

C. Big Game Hunting. We allow hunting of big game on designated areas of the refuge in accordance with State regulations.

D. Sport Fishing. We allow sport fishing on designated areas of the refuge in accordance with State regulations.

War Horse National Wildlife Refuge

A. Migratory Game Bird Hunting. We allow hunting of migratory game birds on designated areas of the refuge in accordance with State regulations.

B. Upland Game Hunting. We allow hunting of upland game birds on designated areas of the refuge in accordance with State regulations and subject to the following condition: You may possess only approved nontoxic shot while in the field (see § 32.2(k)).

C. Big Game Hunting. We allow hunting of big game on designated areas of the refuge in accordance with State regulations.

D. Sport Fishing. We allow sport fishing on designated areas of the refuge in accordance with State regulations.

19. Amend § 32.46 by:

a. Revising paragraphs A, B.1, B.2, C, D.1, and D.4 in the entry Crescent Lake National Wildlife Refuge;

b. Revising paragraph C in the entry Fort Niobrara National Wildlife Refuge;

c. Revising paragraphs C.1 and D in the entry North Platte National Wildlife Refuge; and

d. Under the entry Rainwater Basin Wetland Management District:

i. Removing paragraphs A.2, A.3, A.5, A.6, A.7, and A.8,

ii. Redesignating paragraph A.4 as A.2;

iii. Removing paragraph B.1;

iv. Redesignating paragraphs B.2 and B.3 as paragraphs B.1 and B.2, respectively; and

v. Revising newly redesignated paragraph B.2 and paragraphs C and D.

The revisions read as follows:

§ 32.46 Nebraska.

* * * * *

Crescent Lake National Wildlife Refuge

A. Migratory Game Bird Hunting. We allow hunting of waterfowl and coot in designated areas of the refuge in accordance with State regulations and subject to the following conditions:

1. Hunters may enter the designated hunting area 2 hours before legal sunrise and must be back to their vehicle in the process of leaving the refuge 2 hours after legal sunset. Official shooting hours are from ½ hour before legal sunrise until ½ hour after legal sunset for deer, coyote, and furbearer hunters; and from ½ hour before legal sunrise until legal sunset for all other hunters.

2. We only allow you to unleash dogs used to locate, point, and retrieve upland and small game and migratory birds on the refuge while hunting (see § 26.21(b) of this chapter).

3. We open the refuge to hunting from September 1 through January 31.

4. We allow parking within one vehicle length of the road.

5. We prohibit publicly organized hunts unless authorized under a Special Use Permit (FWS Form 3-1383-C).

6. We only allow floating blinds on Island Lake. We prohibit all boats (including a floating device of any kind) on all other refuge lakes.

B. * * *

1. Conditions A1 through A5 apply.

2. We allow electronic calls for coyote and furbearer hunting.

* * * * *

C. Big Game Hunting. We allow hunting of white-tailed deer and mule deer on designated areas of the refuge in accordance with State regulations and subject to the following condition: Conditions A1, A4, and A5 apply.

D. * * *

1. Anglers may enter the refuge 1 hour before legal sunrise and remain until 1 hour after legal sunset.

* * * * *

4. We only allow boating and float tubes on Island Lake. We prohibit use of internal combustion motors for boats on Island Lake.

* * * * *

Fort Niobrara National Wildlife Refuge

* * * * *

C. Big Game Hunting. We allow hunting of deer and elk on designated areas of the refuge in accordance with State regulations and subject to the following conditions:

1. We require the submission of a Big/Upland Game Hunt Application (FWS Form 3-2356). You must possess and carry a signed refuge hunt permit (signed brochure) when hunting. We require hunters to complete a Big Game Harvest Report (FWS Form 3-2359) and return it to the refuge at the conclusion of the hunting season.

2. We allow hunting with muzzleloader and archery equipment. We prohibit hunting with firearms capable of firing cartridge ammunition.

3. We allow hunting in the area defined as those refuge lands situated north and west of the Niobrara River. We allow access to this area only from designated refuge parking areas and the Niobrara River.

4. We prohibit hunting within 200 yards (180 meters) of any public use facility.

5. We allow hunter access from 2 hours before legal sunrise until 2 hours after legal sunset.

6. We allow horses within the wilderness area. We limit horse use to three groups at a time and no more than five horses per group. We prohibit horses from 2 hours after legal sunset until 2 hours before legal sunrise. We require registration at the refuge headquarters prior to horse use during the hunting season. We limit horse access to the wilderness area via the refuge corrals and buffalo bridge.

7. We prohibit leaving tree stands and ground blinds in the same location for more than 7 consecutive days. You must label unattended tree stands, elevated platforms, and ground blinds with your name and address; the label must be legible from the ground. You may put up tree stands, elevated platforms, and ground blinds, but no earlier than opening day of deer season; you must remove them by the last day of deer season.

8. We prohibit hunting during the Nebraska November Firearm Deer Season.

9. We prohibit the use of electronic or photographic trail monitoring devices.

* * * * *

North Platte National Wildlife Refuge

* * * * *

C. * * *

1. Condition B1 applies.

* * * * *

D. Sport Fishing. We allow fishing on designated areas of the refuge in accordance with State regulations subject to the following condition: Fishing is only allowed on the Winter's Creek Unit.

Rainwater Basin Wetland Management District

* * * * *

B. * * *

2. Condition A2 applies.

* * * * *

C. Big Game Hunting. We allow big game hunting on Waterfowl Production Areas (WPAs) throughout the District, excluding McMurtrey WPA in Clay County, in accordance with State regulations and subject to the following condition: Condition A2 applies.

D. Sport Fishing. We allow sport fishing on Waterfowl Production Areas (WPAs) throughout the District, excluding McMurtrey WPA in Clay County, in accordance with State regulations and subject to the following condition: Condition A1 applies.

* * * * *

20. Amend § 32.47 by:

a. Under the entry Ash Meadows National Wildlife Refuge:

i. Removing paragraphs A.1 and A.4;

ii. Redesignating paragraphs A.2 and A.3 as paragraphs A.1 and A.2, respectively; and

iii. Revising paragraph B; and

b. Under the entry Pahranagat National Wildlife Refuge:

i. Removing paragraph A.1;

ii. Redesignating paragraphs A.2 and A.3 as paragraphs A.1 and A.2, respectively; and

iii. Revising newly redesignated paragraph A.2 and paragraphs B and D.2.

The revisions read as follows:

§ 32.47 Nevada.

* * * * *

Ash Meadows National Wildlife Refuge

* * * * *

B. Upland Game Hunting. We allow hunting of quail and rabbit on designated areas of the refuge in accordance with State regulations and subject to the following condition: Condition A2 applies.

* * * * *

Pahranagat National Wildlife Refuge

A. * * *

2. From October 1 to February 1, you may only possess shotshells in quantities of 25 or fewer when in the field.

B. Upland Game Hunting. We allow hunting of quail and rabbit on designated areas of the refuge in accordance with State regulations and subject to the following condition: We allow hunting of jackrabbits only during the State cottontail season.

* * * * *

D. * * *

2. We only allow motorless boats or boats with electric motors on the Upper Lake, Middle Marsh, and Lower Lake, with the exception that we close Upper Lake to all boating from October 1 through February 1.

* * * * *

21. Revise § 32.48 to read as follows:

§ 32.48 New Hampshire.

The following refuge units have been opened for hunting and/or fishing, and are listed in alphabetical order with applicable refuge-specific regulations.

Great Bay National Wildlife Refuge

A. Migratory Game Bird Hunting. We allow hunting of waterfowl in accordance with State regulations and subject to the following conditions:

1. We allow hunting within the refuge boundary upon navigable waters from within a boat.

2. We prohibit access to land areas, mud flats, rocks, or marsh grass above mean high tide within the refuge.

3. We prohibit hunters retrieving birds inland of the boundary signs.

B. Upland Game Hunting. [Reserved]

C. Big Game Hunting. We allow hunting of white-tailed deer on designated areas of the refuge in accordance with State and local regulations, and subject to the following conditions:

1. We require hunters to obtain and possess a refuge deer hunting permit, issued pursuant to an annual selection lottery.

2. We require deer hunters to wear in a visible manner on the head, chest, and back, a minimum of 400 square inches (2,600 square centimeters) of solid-colored, blaze-orange clothing or material.

D. Sport Fishing. [Reserved]

Silvio O. Conte National Fish and Wildlife Refuge

A. Migratory Game Bird Hunting. We allow hunting of duck, goose, common snipe, and American woodcock on the Pondicherry Division of the refuge in accordance with State regulations.

B. Upland Game Hunting. We allow hunting of coyote, fox, raccoon, woodchuck, red squirrel, eastern gray squirrel, porcupine, skunk, American crow, snowshoe hare, ring-necked pheasant, and ruffed grouse on the Pondicherry Division of the refuge in accordance with State regulations.

C. Big Game Hunting. We allow hunting of white-tailed deer, moose, black bear, and wild turkey on the Pondicherry Division of the refuge in accordance with State regulations and subject to the following condition: You may use portable tree stands and blinds. Your name and address must be clearly visible on the tree stands or blinds, and you must remove your tree stands or blinds by the end of the season.

D. Sport Fishing. [Reserved]

Umbagog National Wildlife Refuge

A. Migratory Game Bird Hunting. We allow hunting of duck, goose, snipe, coot, crow, and woodcock in accordance with State regulations and subject to the following conditions:

1. Hunters must remove temporary blinds, boats, and decoys from the refuge at the end of each day's hunt (see § 27.93 of this chapter).

2. We prohibit dog training on the refuge.

3. You may possess only approved nontoxic shot when hunting snipe, crow, and woodcock on the refuge (see § 32.2(k)).

B. Upland Game Hunting. We allow hunting of fox, raccoon, woodchuck, squirrel, porcupine, skunk, snowshoe hare, ring-necked pheasant, and ruffed grouse in accordance with State regulations, seasons, and bag limits, and subject to the following conditions:

1. We prohibit night hunting from ½ hour after legal sunset until ½ hour before legal sunrise the following day.

2. You may possess only approved nontoxic shot when hunting upland game on the refuge (see § 32.2(k)).

3. Condition A2 applies.

C. Big Game Hunting. We allow hunting of bear, white-tailed deer, coyote, wild turkey, and moose in accordance with State regulations and subject to the following conditions:

1. We prohibit night hunting from ½ hour after legal sunset until ½ hour before legal sunrise the following day.

2. Condition A2 applies.

3. Hunters must retrieve all species, including coyotes, harvested on the refuge.

4. We allow temporary blinds and tree stands that are clearly marked with the owner's name and address. Temporary blinds and tree stands may be erected no earlier than 14 days prior to the hunting season and must be removed within 14 days after the hunting season.

D. Sport Fishing. [Reserved]

22. Amend § 32.49 by:

a. Under the entry Cape May National Wildlife Refuge:

i. Revising paragraphs A, B.1, and B.2;

ii. Removing paragraph B.4;

iii. Revising paragraph C;

iv. Revising the introductory text of paragraph D and paragraph D.5; and

v. Removing paragraphs D.6, D.7, D.8, and D.9;

b. Revising the entry Edwin B. Forsythe National Wildlife Refuge;

c. Revising the entry Great Swamp National Wildlife Refuge;

d. Revising paragraphs A, C, and D.1 in the entry Supawna Meadows National Wildlife Refuge; and

e. Revising the entry Wallkill River National Wildlife Refuge.

The revisions read as follows:

§ 32.49 New Jersey.

* * * * *

Cape May National Wildlife Refuge

A. Migratory Game Bird Hunting. We allow hunting of waterfowl, coot, moorhen, rail, common snipe, and woodcock on designated areas of the refuge in accordance with State regulations and subject to the following conditions:

1. We allow hunting only on those refuge tracts located west of Route 47 in the Delaware Bay Division and on those tracts north of Route 550 in the Great Cedar Swamp Division. We prohibit hunting on the Two Mile Beach Unit.

2. The common snipe season on the refuge begins with the start of the State early woodcock south zone season and continues through the end of the State common snipe season.

3. You may possess only approved nontoxic shot while hunting woodcock on the refuge (see § 32.2(k)).

4. We allow the use of dogs for hunting; however, the dogs must be under the hunter's control at all times. We prohibit dog training on the refuge.

5. We prohibit falconry.

B. * * *

1. Conditions A1 and A5 apply.

2. We allow rabbit and squirrel hunting following the end of the State's Six-Day Firearm Season for white-tailed deer, until the close of the regular rabbit and squirrel season.

* * * * *

C. Big Game Hunting. We allow hunting of white-tailed deer and turkey on designated areas of the refuge in accordance with State regulations subject to the following conditions:

1. We allow hunting of white-tailed deer on all areas of the refuge except for the Two Mile Beach Unit.

2. We allow turkey hunting only on refuge tracts located north of County Route 550 in the Great Cedar Swamp Division. We prohibit turkey hunting on the Two Mile Beach Unit.

3. We prohibit the use of dogs for turkey hunting.

4. You must mark tree stands with owner information (name, address, and phone number). You must remove all deer hunting stands, blinds, and hunting materials at the end of the State deer hunting season. We prohibit permanent stands or blinds.

D. Sport Fishing. We allow saltwater sport fishing on designated areas of the refuge in accordance with State regulations and subject to the following conditions:

* * * * *

5. We prohibit fishing for, or possession of, shellfish on refuge lands.

Edwin B. Forsythe National Wildlife Refuge

A. Migratory Game Bird Hunting. We allow hunting of waterfowl, coot, moorhen, and rail on designated areas of the refuge in accordance with State regulations and subject to the following condition: We require hunters to possess a signed refuge hunt permit at all times while scouting and hunting on the refuge.

B. Upland Game Hunting. We allow hunting of squirrel on designated areas of the refuge in accordance with State regulations and subject to the following conditions:

1. We require hunters to possess a signed refuge hunt permit at all times while scouting and hunting on the refuge.

2. We prohibit the use of dogs while hunting.

C. Big Game Hunting. We allow hunting of white-tailed deer and wild turkey on designated areas of the refuge in accordance with State regulations and subject to the following conditions:

1. We require hunters to possess a signed refuge hunt permit at all times while scouting and hunting deer and turkey on the refuge.

2. We require deer stands to be marked with the hunter's Conservation Identification Number and removed at the end of the last day of the hunting season (no permanent stands).

D. Sport Fishing. We allow fishing on designated areas of the refuge in accordance with State regulations and subject to the following condition: We prohibit use of internal combustion engines on Lily Lake and the Loveladies Kayak Area.

Great Swamp National Wildlife Refuge

A. Migratory Game Bird Hunting. [Reserved]

B. Upland Game Hunting. [Reserved]

C. Big Game Hunting. We allow hunting of deer on designated areas of the refuge in accordance with State regulations and subject to the following refuge hunting regulations:

1. We require hunters to obtain and possess a State permit for the appropriate New Jersey Deer Management Zone at all times while hunting or scouting on the refuge.

2. Hunters must purchase a refuge Deer Hunting Permit, and possess the signed refuge permit at all times while hunting or scouting on the refuge. Youth hunters age 16 years or younger must obtain a permit, but are only charged a processing fee.

3. On scouting days, hunters must access the refuge between legal sunrise and legal sunset. On hunting days, hunters may enter the refuge 2 hours before legal shooting time and must leave no later than 2 hours after legal shooting time.

4. Hunters may put up tree stands beginning on the first scouting day, except on the day of the refuge's youth hunt. They must retrieve their stands by 12 p.m. (noon) on the Sunday after the last day of the hunt. All hunters must put their name and phone number on their stand, and they may have only one stand in the field at any one time. The refuge is not responsible for any stolen stands.

5. We allow hunters to use sleds to slide deer out (no wheeled game carriers allowed) in the Wilderness Area east of Long Hill/New Vernon Road.

6. We prohibit organized deer drives.

7. The refuge hunt season consists of several scouting days, a 1-day youth hunt, and a 4-day regular hunt, usually in late October and early November. Dates are available annually from the refuge website and in the Great Swamp NWR Hunter Information Sheet.

8. Refuge bag limits and hunt areas are determined annually by the refuge. Please refer to the most recent Great Swamp NWR Hunter Information Sheet and Refuge Hunt Map for specific information on annual bag limits and areas open to hunting.

D. Sport Fishing. [Reserved]

Supawna Meadows National Wildlife Refuge

A. Migratory Game Bird Hunting. We allow hunting of geese and ducks on designated areas of the refuge in accordance with State regulations.

* * * * *

C. Big Game Hunting. We allow hunting of white-tailed deer on designated areas of the refuge in accordance with State regulations and subject to the following condition: We allow only bow hunting on the refuge.

D. * * *

1. We prohibit the taking of frogs and turtles from all nontidal waters and refuge lands.

* * * * *

Wallkill River National Wildlife Refuge

A. Migratory Game Bird Hunting. We allow hunting of migratory birds on designated areas of the refuge in accordance with State of New Jersey regulations and subject to the following conditions:

1. Hunters must purchase a Wallkill River NWR Migratory Bird Hunting Permit from the refuge's hunt permit website. We require hunters to possess a signed refuge hunt permit at all times while scouting and hunting on the refuge. We charge a fee for all hunters except youth age 16 and younger. We provide hunters with refuge hunt regulations, hunt maps, and a Refuge Parking Permit.

2. Hunters may enter the refuge 2 hours before legal shooting time and leave no later than 2 hours after legal shooting time.

B. Upland Game Hunting. We allow hunting of coyote, fox, crow, ruffed grouse, opossum, raccoon, pheasant, chukar, rabbit/hare/jackrabbit, squirrel, and woodchuck on designated areas of the refuge in accordance with State of New Jersey regulations and subject to the following conditions:

1. Hunters must purchase a Wallkill River NWR Small Game Hunting Permit from the refuge's hunt permit website. We require hunters to possess a signed refuge hunt permit at all times while scouting and hunting on the refuge. We charge a fee for all hunters except youth age 16 and younger. We provide hunters with refuge hunt regulations, hunt maps, and a Refuge Parking Permit.

2. We prohibit night hunting.

3. We prohibit the use of dogs.

4. We prohibit the use of rifles.

5. Hunters may enter the refuge 2 hours before legal shooting time and leave no later than 2 hours after legal shooting time.

C. Big Game Hunting. We allow hunting of white-tailed deer, bear, and wild turkey on designated areas of the refuge in accordance with State of New Jersey regulations and subject to the following conditions:

1. Hunters must purchase a Wallkill River NWR Deer, Bear, or Turkey Hunting Permit from the refuge's hunt permit website. We require hunters to possess a signed refuge hunt permit at all times while scouting and hunting on the refuge. We charge a fee for all hunters except youth age 16 and younger. We provide hunters with refuge hunt regulations, hunt maps, and a Refuge Parking Permit.

2. We prohibit organized deer drives.

3. The Armstrong tract is archery only for deer (see hunt map).

4. Hunters may enter the refuge 2 hours before legal shooting time and leave no later than 2 hours after legal shooting time.

D. Sport Fishing. We allow sport fishing on the refuge in accordance with State of New Jersey regulations and subject to the following conditions:

1. Owens Station Crossing is open for catch and release only.

2. Fishing is permitted ½ hour before legal sunrise to ½ hour after legal sunset. We prohibit night fishing.

3. We prohibit the taking of amphibians and reptiles.

4. We prohibit minnow/bait trapping.

23. Amend § 32.50 by revising the entry Sevilleta National Wildlife Refuge to read as follows:

§ 32.50 New Mexico.

* * * * *

Sevilleta National Wildlife Refuge

A. Migratory Game Bird Hunting. We allow hunting of mourning dove, white-winged dove, geese, ducks, and coot on designated areas of the refuge in accordance with State regulations and subject to the following conditions:

1. In Units A and B, legal hunting hours will run from ½ hour before legal sunrise and will not extend past 1:00 p.m. (local time) on each hunt day. Hunters may access Units A and B from 1 hour before legal sunrise until 1 hour after legal sunset. We allow falcons to hunt dove in the Rio Puerco Unit only.

2. Hunters may not possess more than 25 shotgun shells while in the field.

3. We allow unleashed hunting and/or retrieving dogs on the refuge when hunters are legally present in areas where hunting is allowed, only if the dogs are under the immediate control of hunters at all time, and only to pursue species legally in season at that time.

4. We prohibit hunting along/on the river within the refuge boundary.

5. At Unit A, in the Cornerstone Marsh Unit, hunters who are disabled (per Mobility-Impaired Certification in the State Hunting Rules and Information pamphlet) are given priority use.

B. Upland Game Hunting. We allow hunting of Gambel's quail and Eurasian collared-dove on designated areas of the refuge in accordance with State regulations and subject to the following conditions:

1. Conditions A2 through A5 apply.

2. In the Rio Puerco Unit, legal hunting hours will run from ½ hour before legal sunrise to legal sunset.

3. We allow Eurasian collared-dove hunting in all three hunt units. We allow Gambel's quail hunting only in the Rio Puerco Unit as designated on the refuge hunting map.

4. While all State and Federal hunting regulations regarding methods of take, bag limits, and other factors apply to Eurasian collared-dove hunting on the refuge, hunting dates for Eurasian collared-dove are limited to the same dates as the New Mexico Department of Game and Fish (NMDGF) Dove South Zone.

C. Big Game Hunting. [Reserved]

D. Sport Fishing. [Reserved]

24. Amend § 32.51 by:

a. Revising paragraph D in the entry Amagansett National Wildlife Refuge;

b. Revising paragraph D in the entry Elizabeth A. Morton National Wildlife Refuge;

c. Revising the entry Iroquois National Wildlife Refuge;

d. Revising the entry Montezuma National Wildlife Refuge;

e. Revising paragraph D in the entry Oyster Bay National Wildlife Refuge;

f. Revising paragraph D in the entry Seatuck National Wildlife Refuge;

g. Revising paragraph C in the entry Shawangunk Grasslands National Wildlife Refuge;

h. Revising paragraph D in the entry Target Rock National Wildlife Refuge;

i. Revising the entry Wallkill River National Wildlife Refuge; and

j. Under the entry Wertheim National Wildlife Refuge:

i. Revising paragraph C and the introductory text of paragraph D;

ii. Removing paragraph D.3; and

iii. Redesignating paragraph D.4 as D.3.

The revisions read as follows:

§ 32.51 New York.

* * * * *

Amagansett National Wildlife Refuge

* * * * *

D. Sport Fishing. We allow fishing on designated areas of the refuge in accordance with State regulations and subject to the following conditions:

1. Anglers may only surf fish in the Atlantic Ocean from the refuge shoreline in accordance with State regulations.

2. Seasonal closure applies from April 1 to August 31.

Elizabeth A. Morton National Wildlife Refuge

* * * * *

D. Sport Fishing. We allow fishing on designated areas of the refuge in accordance with State regulations subject to the following condition: We allow fishing only from the beach and in areas not designated as closed.

Iroquois National Wildlife Refuge

A. Migratory Game Bird Hunting. We allow hunting of duck, goose, rail, coot, gallinule, woodcock, and snipe on designated areas of the refuge in accordance with State regulations and subject to the following conditions:

1. For hunting of duck, goose, and coot:

i. We allow hunting on Saturday of the New York State Youth Days.

ii. We allow hunting Tuesdays, Thursdays, and Saturdays from opening day of regular waterfowl season until the end of the first split. We require proof of successful completion of the New York State Waterfowl Identification Course, the Iroquois Nonresident Waterfowl Identification Course, or a suitable nonresident State Waterfowl Identification Course to hunt in the refuge; all hunters must show proof each time they hunt, in addition to showing their valid hunting license and signed Federal Migratory Bird Hunting and Conservation Stamp (Federal Duck Stamp).

iii. We require refuge waterfowl hunting permits.

iv. We only allow hunting from legal starting time until 12 p.m. (noon) and require hunters to check out no later than 1 p.m., and return the Migratory Bird Hunt Report (FWS Form 3-2361) to the waterfowl hunter check station.

v. We require hunters to stay in designated hunting areas, unless actively pursuing downed or crippled birds.

vi. You may only possess approved nontoxic shotshells (see § 32.2(k)) in the field.

vii. We only allow the use of nonmotorized boats.

2. For hunting of rail, gallinule, snipe, and woodcock:

i. We only allow hunting east of Sour Springs Road from October 1 until the opening of regular waterfowl season.

ii. You may only possess approved nontoxic shot in the field (see § 32.2(k)).

B. Upland Game Hunting. We allow hunting of ruffed grouse, gray squirrel, cottontail rabbit, pheasant, coyote, fox, raccoon, skunk, and opossum on designated areas of the refuge in accordance with State regulations and subject to the following conditions:

1. Small game hunting;

i. We allow hunting from October 1 until the last day of February.

ii. We prohibit the use of raptors to take small game.

iii. Condition A.2.ii applies.

2. Furbearer hunting:

i. Condition B.1.i applies.

ii. We prohibit night hunting.

iii. Condition A.2.ii applies.

C. Big Game Hunting. We allow hunting of white-tailed deer and turkey on designated areas of the refuge in accordance with State regulations and subject to the following condition: We require a refuge permit for spring turkey hunting.

D. Sport Fishing. We allow fishing and frogging on designated areas of the refuge in accordance with State regulations and subject to the following conditions:

1. We allow fishing and frogging from legal sunrise to legal sunset.

2. We prohibit the collection and/or releasing of baitfish.

Montezuma National Wildlife Refuge

A. Migratory Game Bird Hunting. We allow waterfowl, Canada goose, and snow goose hunting on designated areas of the refuge in accordance with State regulations and subject to the following conditions:

1. For the regular waterfowl season:

i. We require daily refuge permits (Migratory Bird Hunt Report, FWS Form 3-2361) and reservations; we issue permits to hunters with a reservation for that hunt day. We require you to complete and return your permit by the end of the hunt day.

ii. We allow hunting only on Tuesdays, Thursdays, and Saturdays during the established refuge season set within the State western zone season. We allow a youth waterfowl hunt during New York State's established youth waterfowl hunt each year.

iii. All hunters with reservations and their hunting companions must check-in at the Route 89 Hunter Check Station area at least 1 hour before legal shooting time or forfeit their reservation. Forfeited reservations become available on a first-come, first-served basis to standby hunters at the Route 89 Hunter Check Station.

iv. We allow motorless boats to hunt waterfowl. We limit hunters to one boat per reservation and one motor vehicle in the hunt area per reservation.

v. We prohibit shooting from any dike or within 50 feet (15.2 meters) of any dike or road, or from within 500 feet (152.4 meters) of the Tschache Pool observation tower.

vi. We require proof of successful completion of the New York State Waterfowl Identification Course, the Montezuma Nonresident Waterfowl Identification Course, or a suitable nonresident State Waterfowl Identification Course to hunt in the refuge; all hunters must show proof each time they hunt, in addition to showing their valid hunting license and signed Federal Migratory Bird Hunting and Conservation Stamp (Federal Duck Stamp).

2. For Canada goose and snow goose hunting:

i. We allow hunting of Canada goose during the New York State September (or “early”) season and of snow goose during portions of the New York State snow goose season and portions of the period covered by the Light Goose Conservation Order.

ii. We allow Canada goose and snow goose hunting 7 days per week during the refuge's set hunting dates.

iii. You must possess a valid daily hunt permit card (Migratory Bird Hunt Report, FWS Form 3-2361). We require you to complete and return the daily hunt permit card by the end of the hunt day. Entry onto the refuge to obtain a permit is authorized no earlier than 1½ hours before legal sunrise.

B. Upland Game Hunting. We allow hunting of wild turkey only during the New York State fall and youth turkey seasons on designated areas of the refuge in accordance with State regulations and subject to the following conditions:

1. You must carry a valid daily hunt permit card (Big/Upland Game Hunt Application, FWS Form 3-2356). We require you to complete and return the daily hunt permit card by the end of the hunt day.

2. We prohibit parking and walking along the Wildlife Drive for the purpose of hunting, unless otherwise posted by refuge personnel.

C. Big Game Hunting. We allow hunting of white-tailed deer on designated areas of the refuge in accordance with State regulations and subject to the following conditions:

1. We close Esker Brook and South Spring Pool Trails to hunting before November 1 each year. We close Wildlife Drive to hunting before December 1 each year. We open Seneca Trail and the Refuge Headquarters area during New York State's late archery/muzzleloader season only. We allow a youth white-tailed deer hunt during the State's established youth white-tailed deer hunt each year.

2. You must possess a valid daily hunt permit card (Big/Upland Game Hunt Application, FWS Form 3-2356). We require you to complete and return the daily hunt permit card by the end of the hunt day.

3. We allow advanced scouting of the refuge, prior to the hunting season, during a time set by the refuge manager.

4. We allow white-tailed deer hunters to be on the refuge during the period that begins 2 hours before legal sunrise and ends 2 hours after legal sunset.

5. We prohibit parking and walking along the Wildlife Drive for the purpose of hunting, unless otherwise posted by refuge personnel.

D. Sport Fishing. Anglers may access the New York State Barge Canal System Waters at established fishing access sites on the refuge. You may either bank fish or boat fish in accordance with State regulations.

Oyster Bay National Wildlife Refuge

* * * * *

D. Sport Fishing. We allow fishing on designated areas of the refuge in accordance with State regulations and subject to the following condition: Anglers may fish from designated areas on the refuge shoreline at Mill Pond from legal sunrise until legal sunset.

Seatuck National Wildlife Refuge

* * * * *

D. Sport Fishing. We allow fishing on designated areas of the refuge in accordance with State regulations subject to the following condition: Anglers may fish in refuge-controlled waters of Great South Bay from boats only.

Shawangunk Grasslands National Wildlife Refuge

* * * * *

C. Big Game Hunting. We allow hunting of white-tailed deer on designated areas of the refuge in accordance with State of New York regulations and subject to the following conditions:

1. Hunters must purchase a Shawangunk Grasslands NWR Deer Hunting Permit from the refuge's hunt permit website. We require hunters to possess a signed refuge hunt permit at all times while scouting and hunting on the refuge. We charge a fee for all hunters except youth age 16 and younger. We provide hunters with refuge hunt regulations, hunt maps, and a Refuge Parking Permit.

2. Deer may be taken using archery equipment only.

3. We prohibit organized deer drives.

4. Hunters may enter the refuge 2 hours before legal shooting time and leave no later than 2 hours after legal shooting time.

* * * * *

Target Rock National Wildlife Refuge

* * * * *

D. Sport Fishing. We allow fishing on designated areas of the refuge in accordance with State regulations and subject to the following condition: We allow fishing in Huntington Bay from the refuge shoreline when the refuge is open to visitors.

Wallkill River National Wildlife Refuge

A. Migratory Game Bird Hunting. We allow hunting of migratory birds on designated areas of the refuge in accordance with State of New York regulations and subject to the following conditions:

1. Hunters must purchase a Wallkill River NWR Migratory Bird Hunting Permit from the refuge's hunt permit website. We require hunters to possess a signed refuge hunt permit at all times while scouting and hunting on the refuge. We charge a fee for all hunters except youth age 16 and younger. We provide hunters with refuge hunt regulations, hunt maps, and a Refuge Parking Permit.

2. Hunters may enter the refuge 2 hours before legal shooting time and leave no later than 2 hours after legal shooting time.

B. Upland Game Hunting. We allow hunting of rabbit/hare, gray/black/fox squirrel, pheasant, bobwhite quail, ruffed grouse, crow, red/gray fox, coyote, bobcat, raccoon, skunk, mink, weasel, and opossum on designated areas of the refuge in accordance with State of New York regulations and subject to the following conditions:

1. Hunters must purchase a Wallkill River NWR Small Game Hunting Permit from the refuge's hunt permit website. We require hunters to possess a signed refuge hunt permit at all times while scouting and hunting on the refuge. We charge a fee for all hunters except youth age 16 and younger. We provide hunters with refuge hunt regulations, hunt maps, and a Refuge Parking Permit.

2. We prohibit night hunting.

3. We prohibit the use of dogs.

4. We prohibit the use of rifles.

5. Hunters may enter the refuge 2 hours before legal shooting time and leave no later than 2 hours after legal shooting time.

C. Big Game Hunting. We allow hunting of white-tailed deer, bear, and wild turkey on designated areas of the refuge in accordance with State of New York regulations and subject to the following conditions:

1. Hunters must purchase a Wallkill River NWR Deer, Bear, or Turkey Hunting Permit from the refuge's hunt permit website. We require hunters to possess a signed refuge hunt permit at all times while scouting and hunting on the refuge. We charge a fee for all hunters except youth age 16 and younger. We provide hunters with refuge hunt regulations, hunt maps, and a Refuge Parking Permit.

2. We prohibit organized deer drives.

3. We prohibit the use of rifles.

4. Hunters may enter the refuge 2 hours before legal shooting time and leave no later than 2 hours after legal shooting time.

D. Sport Fishing. We allow sport fishing on the refuge in accordance with State of New York regulations and subject to the following conditions:

1. Owens Station Crossing is open for catch and release only.

2. Fishing is permitted ½ hour before legal sunrise to ½ hour after legal sunset. We prohibit night fishing.

3. We prohibit the taking of amphibians and reptiles.

4. We prohibit minnow/bait trapping.

Wertheim National Wildlife Refuge

* * * * *

C. Big Game Hunting. We allow hunting of white-tailed deer within designated areas of the refuge in accordance with State regulations and subject to the following conditions:

1. We allow archery and shotgun hunting of white-tailed deer within portions of the refuge during specific days between October 1 and January 31.

2. We require refuge permits. We limit the number of deer hunters permitted to hunt on the refuge. We will issue permits by random selection.

3. You must take the specified number of antlerless deer as noted in the refuge hunting regulations before taking an antlered deer.

4. We prohibit driving deer by any means. We define a “drive” as two or more persons involved in the act of chasing, pursuing, disturbing, or otherwise directing deer to make the animal more susceptible to harvest.

5. Hunters assigned to Unit 5 must hunt from portable tree stands and must direct aim away from a public road and/or dwelling.

6. We allow scouting of hunting areas on the refuge only during designated times and days. We prohibit the use of dogs during scouting.

D. Sport Fishing. We allow fishing on designated areas of the refuge in accordance with State regulations and subject to the following conditions:

* * * * *

25. Amend § 32.53 by:

a. Under the entry Arrowwood National Wildlife Refuge:

i. Removing paragraphs B.3, B.4, and C.6,

ii. Redesignating paragraphs C.4 and C.5 as paragraphs C.3 and C.4, respectively;

iii. Revising newly redesignated paragraph C.4, and paragraphs D.1, D.3, and D.4; and

iv. Removing paragraphs D.5 and D.6;

b. Under the entry J. Clark Salyer National Wildlife Refuge:

i. Removing paragraphs B.8 and B.9;

ii. Revising the introductory text of paragraph C;

iii. Removing paragraphs C.5, C.6, and C.9;

iv. Redesignating paragraphs C.3, C.4, C.7, and C.8 as paragraphs C.4, C.5, C.6, and C.7, respectively;

v. Adding new paragraph C.3;

vi. Revising paragraph D.6; and

vii. Removing paragraphs D.7 and D.8;

c. Revising the entry Lostwood National Wildlife Refuge;

d. Under the entry Tewaukon National Wildlife Refuge:

i. Revising paragraph B.2; and

ii. Adding new paragraphs C.4, D.3, D.4, and D.5; and

e. Under the entry Upper Souris National Wildlife Refuge:

i. Revising paragraphs A, B.6, and B.7;

ii. Removing paragraphs B.9 and B.10;

iii. Revising paragraph C.2;

iv. Removing paragraphs C.3, C.4, and C.5;

v. Redesignating paragraph C.6 as paragraph C.3;

vi. Revising paragraphs D.6 and D.7;

vii. Removing paragraphs D.8, D.9, and D.10;

viii. Redesignating paragraphs D.11 through D.14 as paragraphs D.8 through D.11, respectively; and

ix. Adding new paragraph D.12.

The additions and revisions read as follows:

§ 32.53 North Dakota.

* * * * *

Arrowwood National Wildlife Refuge

* * * * *

C. * * *

4. We allow temporary tree stands, blinds, and game cameras for daily use; you must remove them by the end of the day.

D. * * *

1. We allow boats at idle speed only on Arrowwood Lake and Jim Lake from May 1 to September 30 of each fishing year.

* * * * *

3. We allow ice fishing and dark house spearfishing. We allow snowmobiles, ATVs, UTVs, motor vehicles, and fish houses on the ice as conditions allow. We restrict snowmobile, ATV, UTV, and motor vehicle use to unvegetated ice areas, designated roads, and access points.

4. You may use and leave fish houses on the ice overnight until March 15; after March 15, you must remove fish houses from the refuge before leaving for the day. We prohibit leaving fish houses overnight or unattended on refuge uplands or in parking areas.

* * * * *

J. Clark Salyer National Wildlife Refuge

* * * * *

C. Big Game Hunting. We allow hunting of white-tailed deer and moose on designated areas of the refuge in accordance with State regulations and subject to the following conditions:

* * * * *

3. We open the entire refuge to moose hunting except the closed areas listed in C2.

* * * * *

D. * * *

6. We allow ice fishing and dark house spearfishing. We allow snowmobiles, ATVs, UTVs, motor vehicles, and fish houses on the ice as conditions allow. We restrict snowmobile, ATV, UTV, and motor vehicle use to unvegetated ice areas, designated roads, and access points.

* * * * *

Lostwood National Wildlife Refuge

A. Migratory Game Bird Hunting. [Reserved]

B. Upland Game Hunting. We allow hunting of sharp-tailed grouse, Hungarian partridge, and ring-necked pheasant on designated areas of the refuge in accordance with State regulations and subject to the following conditions:

1. We open the refuge daily from 5 a.m. to 10 p.m.

2. We prohibit upland game hunting on the portion of the refuge south of Highway 50 during regular deer gun season.

3. We allow upland game hunting on the portion of the refuge north of Highway 50 on the day following the close of the regular deer gun season through the end of the State season.

4. You may use hunting dogs to retrieve upland game. Dogs must be under your direct control at all times.

C. Big Game Hunting. We allow deer and moose hunting on designated areas of the refuge in accordance with State regulations and subject to the following conditions:

1. Condition B1 applies.

2. We prohibit entry to the refuge before 12 p.m. (noon) on the first day of the respective archery, gun, or muzzleloader deer hunting season.

3. We prohibit the use of trail cameras.

D. Sport Fishing. [Reserved]

* * * * *

Tewaukon National Wildlife Refuge

B. * * *

2. We open the refuge daily from 5 a.m. to 10 p.m.

C. * * *

4. Condition B2 applies.

D. * * *

3. We allow snowmobiles, ATVs, UTVs, motor vehicles, and fish houses on the ice as conditions allow. We restrict snowmobile, ATV, UTV, and motor vehicle use to unvegetated ice areas, designated roads, and access points.

4. We prohibit leaving fish houses overnight or unattended on refuge uplands or in parking areas.

5. Condition B2 applies.

* * * * *

Upper Souris National Wildlife Refuge

A. Migratory Game Bird Hunting. [Reserved]

B. * * *

6. We allow hunters on the refuge from 5:00 a.m. until 10:00 p.m.

7. We prohibit the use of bicycles or similar vehicles on the refuge.

* * * * *

C. * * *

2. Conditions B5 through B8 apply.

* * * * *

D. * * *

6. We prohibit the use of amphibious vehicles, personal watercraft (PWCs), bicycles, or similar vehicles on the refuge.

7. We allow snowmobiles, ATVs, UTVs, motor vehicles, and fish houses on the ice as conditions allow from Lake Darling Dam north to Carter Dam (Dam 41) for ice fishing. We restrict snowmobile, ATV, UTV, and motor vehicle use to unvegetated ice areas, designated roads, and access points. Consult with the refuge manager or refuge fishing brochure for specific areas.

* * * * *

12. Condition B6 applies.

* * * * *

26. Revise § 32.54 to read as follows:

§ 32.54 Ohio.

The following refuge units have been opened to hunting and/or fishing, and are listed in alphabetical order with applicable refuge-specific regulations.

Cedar Point National Wildlife Refuge

A. Migratory Game Bird Hunting. [Reserved]

B. Upland Game Hunting. [Reserved]

C. Big Game Hunting. We allow white-tailed deer hunting on designated dates in the controlled hunt areas of the refuge in accordance with State regulations and subject to the following conditions:

1. You must possess and carry a State-issued permit. All hunters must check in and out at the refuge check station. We require hunters to check out with the State-issued Harvest Card no later than 2 hours after the conclusion of their controlled hunt.

2. We require hunters to remain within their assigned unit.

3. We require hunters to obtain permission from refuge officials before tracking a wounded deer out of the assigned hunting unit.

4. We prohibit hunting or shooting within 150 feet (45.7 meters) of any structure, building, or parking lot.

D. Sport Fishing. We allow sport fishing on designated areas of the refuge subject to the following conditions:

1. We allow fishing from legal sunrise to legal sunset during designated dates.

2. We allow boats and flotation devices.

Ottawa National Wildlife Refuge

A. Migratory Game Bird Hunting. We allow hunting of goose, duck, rails, gallinule, coot, dove, woodcock, and snipe on designated areas of the refuge in accordance with State regulations and subject to the following conditions:

1. On controlled waterfowl hunt units, we allow hunting of goose, duck, and coot in accordance with State regulations and subject to the following conditions:

i. You must stop hunting at 12 p.m. (noon) each day.

ii. You must stay in your assigned hunt unit.

iii. You may possess no more than 25 shot shells.

2. On public hunting units, we allow hunting of ducks, geese, rails, gallinule, coot, dove, woodcock, and snipe in accordance with State regulations and subject to the following conditions:

i. We allow refuge access from 1½ hours prior to the State-listed morning shooting time and 1 hour after the State-listed evening shooting time.

ii. We allow the use of hunting dogs, provided the dog is under the immediate control of the hunter at all times.

iii. We allow nonmotorized boats in areas open to waterfowl hunting during the waterfowl hunting seasons with the following exception: We allow motorized boats in the Metzger Marsh and Two Rivers units.

B. Upland Game Hunting. We allow hunting of pheasant, squirrel, rabbit, fox, raccoon, skunk, opossum, groundhog, and coyote on designated public hunting units of the refuge in accordance with State regulations and subject to the following conditions:

1. Conditions A.2.i and A.2.ii apply.

2. We prohibit the use of buckshot for any hunting on the refuge.

C. Big Game Hunting. We allow hunting of white-tailed deer and wild turkey on designated areas of the refuge in accordance with State regulations and subject to the following conditions:

1. On controlled deer hunt units, we allow hunting of white-tailed deer only in accordance with State regulations and subject to the following conditions:

i. We require hunters to possess and carry a State-issued permit. You must check in and out at the refuge check station using the State-issued Harvest Card no later than 2 hours after the conclusion of your hunt.

ii. You must remain within your assigned unit.

iii. You must obtain permission from refuge officials before tracking a wounded deer out of your assigned hunting unit.

iv. We prohibit hunting or shooting within 150 feet (45.7 meters) of any structure, building, or parking lot.

2. We allow hunting of white-tailed deer and turkey on designated public hunting units of the refuge in accordance with State regulations and subject to the following conditions:

i. Conditions A.2.i and B2 apply.

ii. We allow only portable deer stands for hunting. We allow only one tree stand per hunter per refuge unit. We allow placement of tree stands after September 1 and require hunters to remove tree stands by March 1 of each year. We require deer stands to be labeled with owner's name and address.

iii. For hunting, you may use or possess only approved nontoxic shot shells while in the field, including shot shells used for hunting wild turkey (see § 32.2(k)).

D. Sport Fishing. We allow fishing on designated areas of the refuge in accordance with State regulations and subject to the following conditions:

1. We allow fishing from legal sunrise to legal sunset during designated dates.

2. We allow boats and flotation devices in designated areas.

27. Amend § 32.56 by:

a. Under the entry Cold Springs National Wildlife Refuge:

i. Revising paragraphs A.2, A.3, and A.4;

ii. Removing paragraphs A.5, A.6, and A.7; and

iii. Revising paragraphs B.2 and C;

b. Under the entry Lower Klamath National Wildlife Refuge:

i. Revising the introductory text of paragraph A, and paragraphs A.1 and A.3;

ii. Removing paragraphs A.4 and A.7;

iii. Redesignating paragraphs A.5 and A.6 as paragraphs A.4 and A.5, respectively; and

iv. Revising paragraph B; and

c. Under the entry William L. Finley National Wildlife Refuge:

i. Removing paragraphs C.3, C.6, C.7, C.8, C.9, and C.10;

ii. Redesignating paragraphs C.4 and C.5 as paragraphs C.3 and C.4, respectively;

iii. Revising paragraphs D.1 and D.2; and

iv. Adding new paragraphs D.3 and D.4.

The additions and revisions read as follows:

§ 32.56 Oregon.

* * * * *

Cold Springs National Wildlife Refuge

A. * * *

2. We prohibit discharge of any firearm within ¼ mile (396 meters (m)) of any maintained building or Federal facility, such as, but not limited to, a structure designed for storage, human occupancy, or shelter for animals. You may not shoot or discharge any firearm from, across, or along a public highway, designated route of travel, road, road shoulder, road embankment, or designated parking area.

3. We allow hunting only on Tuesdays, Thursdays, Saturdays, Sundays, and all federally recognized holidays within the State season, with the exception of dove. We only allow hunting for all dove species within the State mourning dove season.

4. On the Memorial Marsh Unit, we allow waterfowl hunting only from numbered field blind sites, and hunters must park their vehicles only at the numbered post corresponding to the numbered field blind site they are using (see § 27.31 of this chapter). Selection of parking sites/numbered posts is on a first-come, first-served basis at parking lot F. We prohibit free-roam hunting or jump shooting, and you must remain within 100 feet (30 m) of the numbered field blind post unless retrieving birds or setting decoys. We allow a maximum of four persons per blind site.

B. * * *

2. We allow hunting from 12 p.m. (noon) to legal sunset.

C. Big Game Hunting. We allow hunting of elk on designated areas of the refuge in accordance with State regulations and subject to the following conditions:

1. Conditions A1 and A2 apply.

2. We allow hunting under emergency hunt permit or kill permit only (issued by the State).

* * * * *

Lower Klamath National Wildlife Refuge

A. Migratory Game Bird Hunting. We allow hunting of goose, duck, coot, and common snipe on designated areas of the refuge in accordance with State laws and regulations, and subject to the following conditions:

1. In the controlled waterfowl hunting area, we require a valid Refuge Recreation Pass for all hunters age 16 or older. An adult with a valid Recreation Pass must accompany hunters age 17 or younger who are hunting in the controlled area.

* * * * *

3. Entry hours begin at 4:30 a.m. unless otherwise posted.

* * * * *

B. Upland Game Hunting. We allow hunting of pheasant on designated areas of the refuge in accordance with State regulations, and subject to the following condition: In the controlled pheasant hunting area, we require a valid Refuge Recreation Pass for all hunters age 16 or older. An adult with a valid Recreation Pass must accompany hunters age 17 or younger who are hunting in the controlled area.

* * * * *

William L. Finley National Wildlife Refuge

* * * * *

D. * * *

1. We allow fishing on Muddy Creek.

2. We allow bank fishing on the Snag Boat Bend Unit only on the Willamette River and Lake Creek.

3. We allow fishing from legal sunrise to legal sunset.

4. We allow anglers to use pole and line, or rod and reel. Anglers must attend their line.

28. Amend § 32.57 by:

a. Revising the entry Cherry Valley National Wildlife Refuge;

b. Revising the entry Erie National Wildlife Refuge; and

c. Revising paragraph C in the entry John Heinz National Wildlife Refuge at Tinicum.

The revisions read as follows:

§ 32.57 Pennsylvania.

* * * * *

Cherry Valley National Wildlife Refuge

A. Migratory Game Bird Hunting. We allow hunting of migratory birds, including waterfowl (i.e., ducks, mergansers, coots, and geese), doves, woodcock, snipe, rails, moorhens, and gallinules, on designated areas of the refuge in accordance with State of Pennsylvania regulations and subject to the following conditions:

1. Hunters must purchase a Cherry Valley NWR Migratory Bird Hunting Permit from the refuge's hunt permit website. We require hunters to possess a signed refuge hunt permit at all times while scouting and hunting on the refuge. We charge a fee for all hunters except youth age 16 and younger. We provide hunters with refuge hunt regulations, hunt maps, and a Refuge Parking Permit.

2. Hunters may enter the refuge 2 hours before legal shooting time and must leave no later than 2 hours after legal shooting time.

B. Upland Game Hunting. We allow hunting of squirrels, grouse, rabbit, pheasant, quail, woodchuck, crow, fox, raccoon, opossum, skunk, weasel, coyote, and bobcat on designated areas of the refuge in accordance with State of Pennsylvania regulations and subject to the following conditions:

1. Hunters must purchase a Cherry Valley NWR Small Game Hunting Permit from the refuge's hunt permit website. We require hunters to possess a signed refuge hunt permit at all times while scouting and hunting on the refuge. We charge a fee for all hunters except youth age 16 and younger. We provide hunters with refuge hunt regulations, hunt maps, and a Refuge Parking Permit.

2. We prohibit night hunting.

3. We prohibit the use of dogs.

4. We prohibit the use of rifles.

5. Hunters may enter the refuge 2 hours before legal shooting time and must leave no later than 2 hours after legal shooting time.

C. Big Game Hunting. We allow hunting of white-tailed deer, bear, and wild turkey on designated areas of the refuge in accordance with State of Pennsylvania regulations and subject to the following conditions:

1. Hunters must purchase a Cherry Valley NWR Deer, Bear, or Wild Turkey Hunting Permit from the refuge's hunt permit website. We require hunters to possess a signed refuge hunt permit at all times while scouting and hunting on the refuge. We charge a fee for all hunters except youth age 16 and younger. We provide hunters with refuge hunt regulations, hunt maps, and a Refuge Parking Permit.

2. We prohibit organized deer drives.

3. Hunters may enter the refuge 2 hours before legal shooting time and must leave no later than 2 hours after legal shooting time.

D. Sport Fishing. [Reserved]

Erie National Wildlife Refuge

A. Migratory Game Bird Hunting. We allow hunting of mourning dove, rail, common snipe, Canada goose, duck, coot, and crow on designated areas of the refuge in accordance with State regulations and subject to the following conditions:

1. We allow hunting activities on the refuge from September 1 through the end of February. We allow scouting for those same dates, and for the 7 days prior to the start of each season.

2. We only allow nonmotorized boats for waterfowl hunting in permitted areas.

3. We prohibit field possession of migratory game birds in areas of the refuge closed to migratory game bird hunting, unless authorized by the refuge to retrieve downed or crippled animals.

B. Upland Game Hunting. We allow hunting of ruffed grouse, squirrel, rabbit, woodchuck, pheasant, quail, raccoon, fox, coyote, skunk, and opossum on designated areas of the refuge in accordance with State regulations and subject to the following conditions:

1. We allow woodchuck hunting on the refuge from September 1 through the end of February.

2. We prohibit the use of raptors to take small game.

C. Big Game Hunting. We allow hunting of deer, bear, and turkey on designated areas of the refuge in accordance with State regulations.

D. Sport Fishing. We allow fishing on designated areas of the refuge in accordance with State regulations and subject to the following conditions:

1. We allow bank fishing only on the Seneca Unit of the refuge. We prohibit wading.

2. We prohibit the use of watercraft for fishing, with the exception of Area 5 where we allow nonmotorized watercraft use. Watercraft must remain in an area from the dike to 3,000 feet (900 meters) upstream.

3. We prohibit the taking of turtle or frog.

4. We prohibit the collecting or releasing of baitfish.

5. We prohibit the taking or possession of shellfish on the refuge.

John Heinz National Wildlife Refuge at Tinicum

* * * * *

C. Big Game Hunting. We allow archery-only hunting of white-tailed deer on designated areas of the refuge, during specified dates, in accordance with State regulations and subject to the following conditions:

1. Hunters must possess a valid refuge hunting special use permit and comply with all terms and conditions.

2. Junior hunters age 15 and younger must be accompanied by an adult member of the family (age 18 or older), or by an adult serving in the place of a parent.

* * * * *

29. Amend § 32.59 by:

a. Revising the entry Block Island National Wildlife Refuge;

b. Revising the entry Ninigret National Wildlife Refuge;

c. Revising paragraph D in the entry Sachuest Point National Wildlife Refuge; and

d. Revising paragraphs A and D in the entry Trustom Pond National Wildlife Refuge.

The revisions read as follows:

§ 32.59 Rhode Island.

* * * * *

Block Island National Wildlife Refuge

A. Migratory Game Bird Hunting. [Reserved]

B. Upland Game Hunting. [Reserved]

C. Big Game Hunting. We allow hunting of white-tailed deer on designated areas of the refuge in accordance with State regulations and subject to the following conditions:

1. We require hunters to submit a Big/Upland Game Hunt Application (FWS Form 3-2356) to be selected to hunt on the refuge.

2. Hunters must mark portable tree stands/blinds with refuge permit number.

3. We prohibit hunting within 100 feet (30 meters) of a refuge trail.

D. Sport Fishing. Anglers may saltwater fish from the refuge shoreline in accordance with State regulations.

* * * * *

Ninigret National Wildlife Refuge

A. Migratory Game Bird Hunting. [Reserved]

B. Upland Game Hunting. [Reserved]

C. Big Game Hunting. We allow hunting of white-tailed deer on designated areas of the refuge in accordance with State regulations and subject to the following conditions:

1. We require hunters to submit a Big/Upland Game Hunt Application (FWS Form 3-2356) to be selected to hunt on the refuge.

2. Hunters must mark portable tree stands/blinds with refuge permit number.

3. We prohibit hunting within 100 feet (30 meters) of a refuge trail.

D. Sport Fishing. Anglers may saltwater fish from the refuge shoreline in accordance with State regulations. Anglers may saltwater fish and shellfish in Ninigret Pond from the refuge shoreline only from legal sunrise to legal sunset in accordance with State and refuge regulations.

Sachuest Point National Wildlife Refuge

* * * * *

D. Sport Fishing. We allow saltwater fishing on the refuge in accordance with State regulations and subject to the following conditions:

1. Anglers may saltwater fish in the Sakonnet River and Sachuest Bay from the refuge shoreline.

2. Anglers may saltwater fish at Sachuest Beach shoreline from September 16 to March 31.

3. Anglers may night-fish after legal sunset with a refuge permit.

Trustom Pond National Wildlife Refuge

A. Migratory Game Bird Hunting. We allow hunting of Canada geese and mourning doves on designated areas of the refuge in accordance with State regulations.

* * * * *

D. Sport Fishing. Anglers may saltwater fish from the refuge shoreline from September 16 to March 31 in accordance with State and refuge regulations.

30. Amend § 32.60, under the entry Pinckney Island National Wildlife Refuge, by:

a. Revising paragraphs C.3 and C.4;

b. Removing paragraphs C.5, C.8, and C.10;

c. Redesignating paragraphs C.6, C.7, C.9, C.11, C.13, and C.14 as paragraphs C.5, C.6, C.7, C.8, C.9, and C.10, respectively;

d. Adding new paragraph C.11;

e. Revising paragraph C.12;

f. Removing paragraphs C.15, C.16, and C.18;

g. Redesignating paragraph C. 17 as paragraph C.13; and

h. Removing paragraph D.3.

The revisions and addition read as follows:

§ 32.60 South Carolina.

* * * * *

Pinckney Island National Wildlife Refuge

* * * * *

C. * * *

3. Hunters must check-in at the designated check station and park in the designated area prior to hunting. We require personal identification at check-in.

4. We prohibit entry by boat, and we prohibit hunters to leave by boat to reach other parts of the island.

* * * * *

11. We will close the refuge to the nonhunting public on hunt days.

12. Youth hunters age 15 and younger must remain within sight and normal voice contact of an adult age 21 or older. One adult may supervise no more than one youth hunter.

* * * * *

31. Amend § 32.62 by:

a. Revising the entry Chickasaw National Wildlife Refuge;

b. Revising the entry Hatchie National Wildlife Refuge;

c. Revising the entry Lake Isom National Wildlife Refuge;

d. Revising the entry Lower Hatchie National Wildlife Refuge; and

e. Revising the entry Reelfoot National Wildlife Refuge.

The revisions read as follows:

§ 32.62 Tennessee.

* * * * *

Chickasaw National Wildlife Refuge

A. Migratory Game Bird Hunting. We allow hunting of duck, goose, coot, merganser, mourning dove, woodcock, and snipe on designated areas of the refuge in accordance with State regulations and subject to the following conditions:

1. We seasonally close the refuge sanctuary area to the public from November 15 through March 15.

2. You must possess and carry a signed refuge permit (signed refuge brochure) and comply with all permit provisions and other applicable State and Federal laws.

3. We allow hunting for duck, goose, coot, and merganser from ½ hour before legal sunrise to 12 p.m. (noon) CST. We allow hunters to access the refuge no more than 2 hours before legal sunrise.

4. We close mourning dove, woodcock, and snipe seasons during all firearms, youth, and muzzleloader deer seasons.

5. You may use only portable blinds, and you must remove all boats, blinds, and decoys from the refuge by 1 p.m. CST daily.

B. Upland Game Hunting. We allow hunting of squirrel, rabbit, quail, raccoon, and opossum on designated areas of the refuge in accordance with State regulations and subject to the following conditions:

1. Conditions A1 and A2 apply.

2. We allow hunters to access the refuge no more than 2 hours before legal sunrise to no later than 2 hours after legal sunset, except that raccoon and opossum hunters may access the refuge from legal sunset to legal sunrise.

3. We do not open for spring squirrel season on the refuge.

4. We close squirrel, rabbit, and quail seasons during all firearms, youth, and muzzleloader deer seasons.

5. We close raccoon and opossum seasons on Friday and Saturday nights during all firearms, youth, and muzzleloader deer hunts and seasons, including the Friday night prior to any hunt or season that opens on a Saturday morning.

6. We allow horses only on roads open to motorized traffic. We prohibit the use of horses and other animal conveyances from all other areas including fields, woods, and foot trails.

7. You may take coyote and beaver incidental to legal hunting activities with legal methods of take for those hunts.

C. Big Game Hunting. We allow hunting of white-tailed deer and turkey on designated areas of the refuge in accordance with State regulations and subject to the following conditions:

1. Conditions A1, A2, B2, B6, and B7 apply.

2. You may only participate in the refuge quota hunts with a special quota permit issued through random drawing. Information for permit applications is available at the refuge headquarters.

D. Sport Fishing. We allow sport fishing on designated areas of the refuge in accordance with State regulations and subject to the following conditions:

1. Condition A1 applies.

2. We allow fishing only with pole and line, or rod and reel.

3. We allow the use of bow and arrow, or a gig to take nongame fish on refuge waters.

4. We prohibit taking frog or turtle on the refuge.

* * * * *

Hatchie National Wildlife Refuge

A. Migratory Game Bird Hunting. We allow hunting of duck, goose, coot, merganser, mourning dove, woodcock, and snipe on designated areas of the refuge in accordance with State regulations and subject to the following conditions:

1. We seasonally close the sanctuary areas of the refuge to the public from November 15 through March 15.

2. You must possess and carry a signed refuge permit (signed refuge brochure) and comply with all permit provisions and other applicable State and Federal laws.

3. We allow waterfowl hunting only on Tuesdays, Thursdays, and Saturdays. We allow hunting for duck, goose, coot, and merganser from ½ hour before legal sunrise until 12 p.m. (noon) CST. We allow hunters to access the refuge no earlier than 2 hours before legal sunrise.

4. We close mourning dove, woodcock, and snipe seasons during all quota gun and youth deer gun hunts.

5. You may use only portable blinds, and you must remove all boats, blinds, and decoys from the refuge by 1 p.m. CST daily.

B. Upland Game Hunting. We allow hunting of squirrel, rabbit, quail, raccoon, and opossum on designated areas of the refuge in accordance with State regulations and subject to the following conditions:

1. Conditions A1 and A2 apply.

2. We allow hunters to access the refuge no earlier than 2 hours before legal sunrise to no later than 2 hours after legal sunset, except that raccoon and opossum hunters may access the refuge from legal sunset to legal sunrise.

3. We do not open to spring squirrel season on the refuge.

4. We close all small game hunts during the refuge deer quota and youth gun hunts.

5. We allow horses only on roads open to motorized traffic. We prohibit the use of horses and other animal conveyances from all other areas including fields, woods, and foot trails.

6. You may take coyote and beaver incidental to legal hunting activities with legal methods of take for those hunts.

C. Big Game Hunting. We allow hunting of white-tailed deer and turkey on designated areas of the refuge in accordance with State regulations and subject to the following conditions:

1. Conditions A1 through A2, B2, B5, and B6 apply.

2. You may only participate in the refuge deer quota hunts with a special quota permit (name and address only) issued through random drawing. Information for permit applications is available at the refuge headquarters.

3. We allow archery deer and turkey hunting on designated areas of the refuge as defined annually in the refuge Public Use Regulations available at the refuge office and in accordance with State regulations.

D. Sport Fishing. We allow sport fishing on designated areas of the refuge in accordance with State regulations and subject to the following conditions:

1. Condition A1 applies.

2. We allow fishing only with pole and line, or rod and reel.

3. We allow use of a bow and arrow, or gig to take nongame fish on refuge waters.

4. We prohibit taking frog or turtle on the refuge.

5. We open Oneal Lake for fishing during a restricted season and for authorized special events. Information on events and season dates is available at the refuge headquarters.

6. We only allow fishing boats of 18 feet (5.5 meters) or less in length on refuge lakes.

7. We allow the use of nonmotorized boats and boats with electric motors only; we prohibit the use of gas and diesel motors on refuge lakes except in the waterfowl hunting area.

Lake Isom National Wildlife Refuge

A. Migratory Game Bird Hunting. [Reserved]

B. Upland Game Hunting. We allow hunting of squirrel and raccoon on designated areas of the refuge in accordance with State regulations and subject to the following conditions:

1. We seasonally close the refuge to the public from November 15 through March 15.

2. You must possess and carry a signed refuge permit (signed refuge brochure) and comply with all permit provisions and other applicable State and Federal laws.

3. We allow hunters to access the refuge no earlier than 2 hours before legal sunrise to no later than 2 hours after legal sunset, except that raccoon hunters may access the refuge from legal sunset to legal sunrise.

4. We allow horses only on roads opened to motorized traffic. We prohibit the use of horses and other animal conveyances from all other areas including fields, woods, and foot trails.

5. You may take coyote and beaver incidental to legal hunting activities with legal methods of take for those hunts.

6. We do not open for spring squirrel season on the refuge.

C. Big Game Hunting. We allow only archery hunting for white-tailed deer on designated areas of the refuge in accordance with State regulations and subject to the following condition: Conditions B1 through B5 apply.

D. Sport Fishing. We allow sport fishing on designated areas of the refuge in accordance with State regulations and subject to the following conditions:

1. We open all waters of Lake Isom to fishing only from March 16 through November 14 and from legal sunrise to legal sunset.

2. We allow boats with only electric or outboard motors of 10 horsepower or less.

3. We prohibit taking frog or turtle from refuge waters.

4. We allow fishing only with pole and line, or rod and reel.

5. We allow use of a bow and arrow, or a gig to take nongame fish on refuge waters.

Lower Hatchie National Wildlife Refuge

A. Migratory Game Bird Hunting. We allow hunting of duck, goose, coot, merganser, mourning dove, woodcock, and snipe on designated areas of the refuge in accordance with State regulations and subject to the following conditions:

1. We seasonally close the sanctuary area of the refuge and the southern unit of Sunk Lake Public Use Natural Area to the public from November 15 through March 15.

2. You must possess and carry a signed refuge permit (signed refuge brochure) and comply with all permit provisions and other applicable State and Federal laws.

3. We allow hunting for duck, goose, coot, and merganser from ½ hour before legal sunrise to 12 p.m. (noon) CST. We allow hunters to access the refuge no earlier than 2 hours before legal sunrise.

4. We close mourning dove, woodcock, and snipe seasons during all firearms, youth, and muzzleloader deer seasons.

5. You may use only portable blinds, and you must remove all boats, blinds, and decoys from the refuge by 1 p.m. CST daily.

6. We close Sunk Lake Public Use Natural Area to all migratory game bird hunting, and we close the southern unit of Sunk Lake Public Use Natural Area to all hunting.

B. Upland Game Hunting. We allow hunting of squirrel, rabbit, quail, raccoon, and opossum on designated areas of the refuge in accordance with State regulations and subject to the following conditions:

1. Conditions A1, A2, and A6 apply.

2. We allow hunters to access the refuge no more than 2 hours before legal sunrise to no more than 2 hours after legal sunset, except that raccoon and opossum hunters may access the refuge from legal sunset to legal sunrise.

3. We do not open for spring squirrel season on the refuge.

4. We close squirrel, rabbit, and quail seasons during all firearms, youth, and muzzleloader deer seasons.

5. We close raccoon and opossum seasons on Friday and Saturday nights during all firearms, youth, and muzzleloader deer hunts and seasons, including the Friday night prior to any hunt or season that opens on a Saturday morning.

6. We allow horses only on roads open to motorized traffic. We prohibit the use of horses and other animal conveyances from all other areas including fields, woods, and foot trails.

7. You may take coyote and beaver incidental to legal hunting activities with legal methods of take for those hunts.

C. Big Game Hunting. We allow hunting of white-tailed deer and turkey on designated areas of the refuge in accordance with State regulations and subject to the following conditions:

1. Conditions A1, A2, A6, B2, B6, and B7 apply.

2. You may participate in the refuge quota hunts only with a special quota permit (name and address only) issued through random drawing. Information for permit applications is available at the refuge headquarters.

3. We allow archery deer hunting only on the northern unit of Sunk Lake Public Use Natural Area.

D. Sport Fishing. We allow sport fishing on designated areas of the refuge and the Sunk Lake Public Use Natural Area in accordance with State regulations and subject to the following conditions:

1. We allow fishing only from legal sunrise to legal sunset.

2. We allow fishing only with pole and line, or rod and reel.

3. We allow use of a bow and arrow, or a gig to take nongame fish on refuge waters.

4. We prohibit taking frog or turtle on the refuge.

5. We seasonally close the sanctuary area of the refuge and the southern unit of Sunk Lake Public Use Natural Area to the public from November 15 through March 15.

6. We allow the use of only nonmotorized boats and boats with electric motors on Sunk Lake Public Use Natural Area.

Reelfoot National Wildlife Refuge

A. Migratory Game Bird Hunting. [Reserved]

B. Upland Game Hunting. We allow hunting of squirrel and raccoon on designated areas of the refuge in accordance with State regulations and subject to the following conditions:

1. We seasonally close the refuge to the public from November 15 through March 15.

2. You must possess and carry a signed refuge permit (signed refuge brochure) and comply with all permit provisions and other applicable State and Federal law.

3. We allow hunters to access the refuge no earlier than 2 hours before legal sunrise to no later than 2 hours after legal sunset, except that raccoon hunters may access the refuge from legal sunset to legal sunrise.

4. We allow horses only on roads open to motorized traffic. We prohibit the use of horses and other animal conveyances from all other areas including fields, woods, and foot trails.

5. You may take coyote and beaver incidental to legal hunting activities with legal methods of take for those hunts.

6. We do not open for spring squirrel season on the refuge.

C. Big Game Hunting. We allow hunting for white-tailed deer and turkey on designated areas of the refuge in accordance with State regulations and subject to the following conditions:

1. Conditions B1 through B5 apply.

2. You may participate in the refuge firearms deer and turkey quota hunts only with a special quota permit (name and address only) issued through random drawing. Information for permit applications is available at the refuge headquarters.

D. Sport Fishing. We allow sport fishing on designated areas of the refuge in accordance with State regulations and subject to the following conditions:

1. We allow access to the Long Point Unit (north of Upper Blue Basin) for fishing from March 16 through November 14, and the Grassy Island Unit (south of Upper Blue Basin) for fishing from February 1 through November 14.

2. We allow fishing on the refuge from legal sunrise to legal sunset.

3. We prohibit taking of frog or turtle on the refuge.

4. We prohibit airboats, hovercraft, or personal watercraft (e.g., Jet Skis) on any waters within the refuge boundary.

* * * * *

32. Amend § 32.63 by revising the entry Anahuac National Wildlife Refuge to read as follows:

§ 32.63 Texas.

* * * * *

Anahuac National Wildlife Refuge

A. Migratory Game Bird Hunting. We allow hunting of goose, duck, coot, white-winged dove, mourning dove, Eurasian collared-dove, and rock pigeon on designated areas of the refuge in accordance with State regulations and subject to the following conditions:

1. You must carry a current signed refuge hunting permit (signed brochure—Hunting Regulations) while waterfowl hunting on all refuge hunt units.

2. Hunters age 17 and younger must be under the direct supervision of an adult age 18 or older.

3. We close refuge hunt units on Thanksgiving, Christmas, and New Year's Day.

4. We prohibit the use of airboats, marsh buggies, ATVs (see § 27.31(f) of this chapter), and personal watercraft.

5. On inland waters of refuge hunt areas open to motorized boats, we restrict the operation of motorized boats to lakes, ponds, ditches, and other waterways. We prohibit the operation of motorized boats on or through emergent wetland vegetation.

6. On inland waters of the refuge hunt areas open to motorized boats, we restrict the use of boats to those powered by a single engine of 25 horsepower or less and utilizing a propeller 9 inches (22.5 centimeters) in diameter or less.

7. For waterfowl hunting, we allow hunting in portions of the East Unit on specified days during the regular waterfowl seasons. We prohibit motorized boats launching from the East Unit.

8. We allow hunting in portions of the Middleton Tract and the Pace Tract during early teal season and regular waterfowl season during designated dates and on designated areas of the refuge.

9. Light goose conservation order will be concurrent with State regulations in designated areas and on designated dates.

10. We allow dove hunting in designated areas and concurrent with State regulations.

B. Upland Game Hunting. [Reserved]

C. Big Game Hunting. [Reserved]

D. Sport Fishing. We allow fishing and crabbing on designated areas of the refuge in accordance with State regulations and subject to the following conditions:

1. We allow fishing and crabbing on shoreline areas on East Galveston Bay, along East Bay Bayou on the East Bay Bayou Tract, along West Line Road to the southern end of Shoveler Pond, along the canal from the Oyster Bayou Boat Ramp to the southwest corner of Shoveler Pond, and along the banks of Shoveler Pond.

2. We allow fishing and crabbing only with pole and line, rod and reel, or handheld line. We prohibit the use of any method not expressly allowed, including trotlines, setlines, jug lines, limb lines, bows and arrows, gigs, spears, or crab traps.

3. We allow cast netting for bait for personal use along waterways in areas open to the public and along public roads.

4. We prohibit boats and other floatation devices on inland waters. You may launch motorized boats in East Bay at the East Bay Boat Ramp on Westline Road and at the Oyster Bayou Boat Ramp (boat canal). We prohibit the launching of airboats or personal watercraft on the refuge. You may launch nonmotorized boats only along East Bay Bayou and along the shoreline of East Galveston Bay.

5. We prohibit fishing from or mooring to water control structures.

* * * * *

33. Amend § 32.64 by:

a. Under the entry Bear River Migratory Bird Refuge:

i. Revising paragraph A.1;

ii. Removing paragraphs A.2, A.3, A.4, A.7, A.8, A.10, A.11, A.15, A.16, A.17, A.18, A.19, A.20, B.2, and D.4; and

iii. Redesignating paragraphs A.5, A.6, A.9, and A.12 through A.14 as paragraphs A.2, A.3, A.4, and A.5 through A.7, respectively; and

b. Under the entry Ouray National Wildlife Refuge:

i. Removing paragraphs A.3, A.4, A.5, A.6, A.8, and A.10;

ii. Redesignating paragraphs A.7 and A.9 as paragraphs A.3 and A.4, respectively;

iii. Revising the introductory text of paragraph B;

iv. Removing paragraph B.1;

v. Redesignating paragraphs B.2 through B.4 as paragraphs B.1 through B.3, respectively;

vi. Revising the introductory text of paragraph C;

vii. Removing paragraphs C.1 and C.8;

viii. Redesignating paragraphs C.2 through C.7, and C.9 as paragraphs C.1 through C.6, and C.7, respectively; and

ix. Revising paragraph D.3.

The revisions read as follows:

§ 32.64 Utah.

* * * * *

Bear River Migratory Bird Refuge

A. * * *

1. We prohibit hunting or shooting within 100 yards (90 m) of refuge roads, the D line levee, parking areas, and other observation platforms.

* * * * *

Ouray National Wildlife Refuge

* * * * *

B. Upland Game Hunting. We allow hunting of pheasant and turkey in designated areas in accordance with State regulations and subject to the following conditions:

* * * * *

C. Big Game Hunting. We allow hunting of deer and elk in designated areas in accordance with State regulations and subject to the following conditions:

D. * * *

3. You must release unharmed any of the four federally endangered fish if caught (razorback sucker, Colorado pike minnow, humpback chub, or bonytail chub).

34. Revise § 32.65 to read as follows:

§ 32.65 Vermont.

The following refuge units have been opened for hunting and/or fishing, and are listed in alphabetical order with applicable refuge-specific regulations.

Missisquoi National Wildlife Refuge

A. Migratory Game Bird Hunting. We allow hunting of goose, duck, brant, merganser, coot, woodcock, and snipe in accordance with State regulations and subject to the following conditions:

1. Waterfowl: For the hunting of goose, brant, duck, merganser, and coot, we divide the refuge into six discrete waterfowl hunting units: the Delta Lakeshore Area, the Maquam Shore Area, the Saxes Pothole/Creek and Shad Island Area, the Junior Waterfowl Hunting Area (including Long Marsh Bay, Patrick Marsh, and Charcoal Creek), the Long Marsh Channel and Metcalfe Island Area, and the Maquam Swamp Area. See the Missisquoi National Wildlife Refuge Migratory Game Bird Hunting Map and Regulations for further information. Conditions for each area are as follows:

i. Delta Lakeshore Area, which includes lakeshore areas from Shad Island to the south side of Martindale Point but does not include Saxes Pothole/Creek and Shad Island Pothole, is open to migratory bird hunting with the following special requirements:

a. We do not require a refuge permit to hunt or scout in this area.

b. We prohibit blind staking, permanent blinds, and unattended decoys.

ii. Maquam Shore Area encompasses a 30-acre area along the lakeshore of Maquam Bay and is bounded by private land on the west and a Vermont wildlife management area on the east. We do not require a refuge permit to hunt or scout in this area.

iii. Saxes Pothole/Creek and Shad Island Pothole, which encompass Saxes Creek, Saxes Pothole, and Shad Island Pothole, are open to migratory bird hunting with the following special requirements:

a. This is a controlled hunting area. We require a refuge permit to hunt in this area.

b. Each hunting party must possess and carry a permit for the specific zone on the specific day they are hunting in this area. Permits are not transferable.

c. You must use a retrieving dog.

iv. Junior Waterfowl Hunting Area, which encompasses Long Marsh Bay, Patrick Marsh, and that portion of Charcoal Creek south of Vermont Route 78, is open to migratory bird hunting with the following special requirements:

a. This is a controlled hunting area. We require a refuge permit to hunt in this area.

b. Each junior hunter must possess and carry a permit for the assigned blind site and day. On Mentor Day, mentors must also possess and carry this permit for the assigned blind site. Each adult hunting party must possess and carry a permit for the blind site and day they are hunting. Permits are not transferable.

c. Shooting hours end at 11 a.m.

v. Long Marsh Channel and Metcalfe Island, which encompass the Metcalfe Island Pothole and Long Marsh Channel, are open to migratory bird hunting with the following special requirements:

a. This is a controlled hunting area. We require a refuge permit to hunt in this area.

b. We will limit hunting to Tuesdays, Thursdays, and Saturdays throughout the waterfowl hunting season for duck.

c. Each hunting party must possess and carry a permit for the blind on the specific day they are hunting in this area. Permits are not transferable.

d. Shooting hours end at 11 a.m.

e. You must use a retrieving dog.

f. We will close this area to waterfowl hunting during split seasons when geese are the only waterfowl that hunters may legally take.

vi. Maquam Swamp Area encompasses about 200 acres (80 hectares) west of the Central Vermont Railroad and south of Coleman's inholding, and is open to migratory bird hunting with the following special requirements:

a. We prohibit blind staking, permanent blinds, or unattended decoys.

b. You must use a retrieving dog.

2. Other migratory birds (including woodcock, snipe and crow): You may hunt woodcock and snipe in the Delta Lakeshore Waterfowl Hunting Area, excluding the Saxe's Creek/Pothole and Shad Island Pothole controlled areas and Maquam Swamp area. We do not require a refuge permit to hunt or scout in these areas.

3. On the Eagle Point Unit, we allow hunting of migratory birds in accordance with State regulations.

B. Upland Game Hunting. We allow hunting of cottontail rabbits, snowshoe hare, ruffed grouse, and gray squirrels on open areas of the refuge in accordance with State regulations and subject to the following conditions:

1. You must obtain a permit at refuge headquarters prior to hunting, and you must hold a valid State hunting license. We will collect a fee for each permit we issue. The permit applies for the calendar year of issue.

2. We only allow shotguns or muzzleloaders on open areas east of the Missisquoi River and on Shad Island.

3. You must use approved nontoxic shot for the shotgun hunting of all upland game species (see § 32.2(k)).

4. We prohibit hunting from the end of snowshoe hare and rabbit season through September 1.

5. On the Eagle Point Unit, we allow hunting in accordance with State regulations; conditions B1 through B4 do not apply on the Eagle Point Unit.

C. Big Game Hunting. We allow hunting of big game in accordance with State regulations and subject to the following conditions:

1. We allow hunting of white-tailed deer.

2. You must obtain a permit at refuge headquarters prior to hunting, and you must hold a valid State hunting license.

3. We only allow shotguns, muzzleloaders, or archery equipment on open areas east and north of Vermont Route 78. We prohibit rifles in these areas at any time.

4. You may use portable tree stands in accordance with State regulations guiding their use on State Wildlife Management Areas with the following exception: We allow only one tree stand or ground blind for each big game/upland game permit we issue.

5. On the Eagle Point Unit, we allow hunting in accordance with State regulations and subject to the following conditions:

i. You may use portable tree stands in accordance with State regulations guiding their use on State Wildlife Management Areas. We prohibit permanent stands and blinds.

ii. We allow training of hunting dogs during the regular hunting seasons as regulated by the State. Dog training outside the regular hunting seasons (June 1 to July 31) will be permitted by Special Use Permit (Permit Application Form: National Wildlife Refuge System General Special Use, FWS Form 3-1383-G) only.

iii. You must request a permit in writing from the refuge manager, Missisquoi National Wildlife Refuge.

D. Sport Fishing. We allow fishing on areas described below in accordance with State regulations and subject to the following conditions:

1. We allow sport fishing by boat (including bow fishing) and ice fishing in the west branch, east branch, and main channel of the Missisquoi River; Dead Creek; and shallow water areas of the Missisquoi River delta from Goose Bay to Charcoal Creek (north of Vermont Route 78) with the following exceptions:

i. We close the following areas from ice out to July 15—Goose Bay, Saxes Creek and Pothole, Metcalfe Island Pothole, Long Marsh Channel, and Clark Marsh.

ii. We close the following areas from Labor Day to December 31—Long Marsh Bay and Long Marsh Channel.

2. We allow bank fishing along Charcoal Creek where it passes under Route 78, and along the shoreline of the Missisquoi River from refuge headquarters to Mac's Bend boat launch. Bank fishing is accessible only by foot along the Missisquoi River from Louie's Landing to Mac's Bend.

3. We prohibit taking fish with firearms within refuge boundaries.

4. We allow boat launching from Louie's Landing year-round. We allow boat launching from Mac's Bend boat launch area from September through November inclusive.

Silvio O. Conte National Fish and Wildlife Refuge

A. Migratory Game Bird Hunting. We allow hunting of ducks, geese, crows, and American woodcock at the Nulhegan Basin Division and Putney Mountain Unit in accordance with State of Vermont regulations and subject to the following condition: We allow disabled hunters to hunt from a vehicle on refuge roads if the hunter possesses a State-issued disabled hunting license in accordance with State regulations and a Special Use Permit (FWS Form 3-1383-G) issued by the Refuge Manager.

B. Upland Game Hunting. We allow hunting of coyote, fox, raccoon, bobcat, woodchuck, red squirrel, eastern gray squirrel, porcupine, skunk, snowshoe hare, eastern cottontail, and ruffed grouse at the Nulhegan Basin Division and Putney Mountain Unit in accordance with State of Vermont regulations, seasons, and bag limits, and subject to the following conditions:

1. We allow disabled hunters to hunt from a vehicle on refuge roads if the hunter possesses a State-issued disabled hunting license in accordance with State regulations and a Special Use Permit (FWS Form 3-1383-G) issued by the Refuge Manager.

2. To monitor and mitigate potential disturbances to wildlife and neighboring landowners, we require hunters hunting at night to possess a Special Use Permit (FWS Form 3-1383-G) issued by the Refuge Manager.

C. Big Game Hunting. We allow hunting of white-tailed deer, moose, black bear, and wild turkey at the Nulhegan Basin Division and Putney Mountain Unit in accordance with State of Vermont regulations, seasons, and bag limits subject to the following conditions:

1. We allow disabled hunters to hunt from a vehicle on refuge roads if the hunter possesses a State-issued disabled hunting license in accordance with State regulations and a Special Use Permit (FWS Form 3-1383-G) issued by the Refuge Manager.

2. You may use portable tree stands and blinds in accordance with State regulations guiding their use on State Wildlife Management Areas, and you must remove them by the end of the final deer season.

3. Moose may be retrieved at the Nulhegan Basin Division by a commercial moose hauler, if the hauler possesses a Special Use Permit (FWS Form 3-1383-C) issued by the Refuge Manager.

D. Sport Fishing. [Reserved]

35. Amend § 32.66 by:

a. Revising paragraphs C and D in the entry Back Bay National Wildlife Refuge;

b. Under the entry Chincoteague National Wildlife Refuge:

i. Removing paragraphs A.3, A.4, and A.6;

ii. Redesignating paragraph A.5 as paragraph A.3; and

iii. Revising paragraphs C and D.1;

c. Revising paragraph C in the entry Eastern Shore of Virginia National Wildlife Refuge;

d. Under the entry Great Dismal Swamp National Wildlife Refuge:

i. Revising paragraphs C and D.1;

ii. Removing paragraph D.3; and

iii. Redesignating paragraph D.4 as paragraph D.3;

e. Revising paragraph C in the entry James River National Wildlife Refuge;

f. Under the entry Mason Neck National Wildlife Refuge:

i. Revising paragraph C.2; and

ii. Removing paragraphs C.3, C.4, C.5, and C.6;

g. Revising paragraph C in the entry Occoquan Bay National Wildlife Refuge;

h. Under the entry Plum Tree Island National Wildlife Refuge:

i. Revising paragraph A.1; and

ii. Removing paragraphs A.4, A.5, and A.6;

i. Revising paragraph C in the entry Presquile National Wildlife Refuge;

j. Under the entry Rappahannock River Valley National Wildlife Refuge:

i. Revising paragraph C;

ii. Removing paragraphs D.6 and D.9; and

iii. Redesignating paragraphs D.7 and D.8 as paragraphs D.6 and D.7, respectively; and

k. Under the entry Wallops Island National Wildlife Refuge:

i. Removing paragraphs C.4 and C.6; and

ii. Redesignating paragraphs C.5 and C.7 as paragraphs C.4 and C.5, respectively.

The revisions read as follows:

§ 32.66 Virginia.

* * * * *

Back Bay National Wildlife Refuge

* * * * *

C. Big Game Hunting. We allow hunting of white-tailed deer and feral hogs on designated areas of the refuge in accordance with State regulations and subject to the following conditions:

1. We prohibit use of dogs.

2. We allow scouting on designated days prior to the start of each refuge hunt period. Hunters may enter the hunt zones on foot, on bicycle, or through transportation provided by the refuge only.

3. Hunters may go to Hunt Zone 1 (Long Island) only by hand-launched watercraft (canoe, punt, rowboat, and similar watercraft) from the canoe launch at refuge headquarters. We prohibit use of trailers.

4. We prohibit hunting or discharging of firearms within designated Safety Zones. We prohibit retrieval of wounded game from a “No Hunting Area” or “Safety Zone” without the consent of the refuge employee on duty at the check station.

5. We prohibit use of tree stands, except on Long Island (Hunt Zone 1).

D. Sport Fishing. We allow fishing, noncommercial crabbing, and clamming on designated areas of the refuge in accordance with State regulations and subject to the following conditions:

1. We close all areas within the hunting zones, as well as the oceanfront, to fishing, crabbing, and clamming during the annual refuge white-tailed deer and feral hog hunt.

2. You may surf fish, crab, and clam south of the refuge's beach access ramp. We allow night surf fishing by Special Use Permit (FWS Form 3-1383-G) in this area in accordance with dates and times designated on the permit.

3. For sport fishing in D Pool:

i. We only allow fishing from the docks or banks in D Pool. We prohibit boats, canoes, or kayaks on D Pool and all other refuge pools and impoundments.

ii. We prohibit live minnows or other live bait fish.

iii. We prohibit hooks other than barbless or flattened.

iv. You must catch and release all freshwater game fish. The daily creel limit for D Pool for other species is a maximum combination of any 10 nongame fish.

v. Parking for nonambulatory visitors only is available adjacent to the dock at D Pool.

Chincoteague National Wildlife Refuge

* * * * *

C. Big Game Hunting. We allow hunting of white-tailed deer and sika with archery tackle and firearms in designated areas of the refuge in accordance with State regulations and subject to the following conditions:

1. We allow holders of a refuge hunt permit (Quota Deer Hunt Application, FWS Form 3-2354) to access areas of the refuge typically closed to the nonhunting public. All occupants of a vehicle or hunt party must possess a refuge hunt permit and be actively engaged in hunting. We allow an exception to exist for those persons aiding a disabled person who possesses a valid State-issued Commonwealth of Virginia Disabled Resident Lifetime License or Commonwealth of Virginia Resident Disabled Veteran's Lifetime License.

2. You may not hunt within 100 feet (30.5 meters) of any building.

3. We prohibit deer drives. We define a “drive” as four or more persons involved in the act of chasing, pursuing, disturbing, or otherwise directing deer so as to make the animal more susceptible to harvest.

4. You may not hunt, discharge a firearm, or nock an arrow or crossbow bolt within 50 feet (15.2 meters) of the centerline of any road, whether improved or unimproved, or paved trail.

D. * * *

1. You may not wade or launch a vessel in Swan's Cove Impoundment.

* * * * *

Eastern Shore of Virginia National Wildlife Refuge

* * * * *

C. Big Game Hunting. We allow archery and shotgun hunting of white-tailed deer on designated areas of the refuge in accordance with State regulations and subject to the following conditions:

1. We allow holders of a refuge hunt permit (Quota Deer Hunt Application, FWS Form 3-2354) to access areas of the refuge typically closed to the nonhunting public. All occupants of a vehicle or hunt party must possess a refuge hunt permit and be actively engaged in hunting. We allow an exception to exist for those persons aiding a disabled person who possesses a valid State-issued Commonwealth of Virginia Disabled Resident Lifetime License or Commonwealth of Virginia Resident Disabled Veteran's Lifetime License.

2. You must sign in before entering the hunt zones and sign out upon leaving the zone.

3. We prohibit deer drives. We define a “drive” as four or more persons involved in the act of chasing, pursuing, disturbing, or otherwise directing deer so as to make the animal more susceptible to harvest.

4. We prohibit nocked arrows or loaded firearms outside of the designated hunting areas.

5. We only allow shotguns loaded with buckshot during the firearm season.

* * * * *

Great Dismal Swamp National Wildlife Refuge

* * * * *

C. Big Game Hunting. We allow hunting of white-tailed deer and bear on designated areas of the refuge in accordance with State regulations and subject to the following condition: You must possess and carry a refuge permit.

D. * * *

1. We allow fishing in Lake Drummond from a boat and from the piers at Washington Ditch and Interior Ditch.

* * * * *

James River National Wildlife Refuge

* * * * *

C. Big Game Hunting. We allow hunting of white-tailed deer on designated areas of the refuge in accordance with State regulations subject to the following conditions:

1. We require hunters to possess and carry a refuge hunting permit.

2. We require persons who wish to hunt during the refuge's archery season to obtain a refuge hunting permit through a lottery administered by the Virginia Department of Game and Inland Fisheries. We notify successful applicants by mail or email, and if we receive the hunting fee by the date identified in the mailing, we mail refuge hunting permits to successful applicants.

3. We prohibit dogs.

4. We require that hunters during firearms and muzzleloader seasons remain within 100 feet (30 meters) of their assigned stand while hunting.

5. We require that hunters using a muzzleloader must hunt from a stand elevated 10 feet (3 meters) or more above the ground.

* * * * *

Mason Neck National Wildlife Refuge

* * * * *

C. * * *

2. Hunters must certify/qualify weapons and ammunition and view the orientation session online prior to issuance of a permit. Consult the refuge office or website for certification and orientation information and procedures.

* * * * *

Occoquan Bay National Wildlife Refuge

* * * * *

C. Big Game Hunting. We allow hunting of deer on designated areas of the refuge in accordance with State and County regulations, and subject to the following conditions:

1. You must possess and carry a refuge permit.

2. We select hunters by lottery. Consult the refuge office or website for application information and procedures.

3. Hunters must certify/qualify weapons and ammunition and view an orientation session online prior to issuance of a permit. Consult the refuge office or website for certification and orientation information and procedures.

* * * * *

Plum Tree Island National Wildlife Refuge

A. * * *

1. We require hunters to possess and carry a refuge hunting permit (see condition A2) along with their State hunting license and stamps, while hunting migratory game birds on the refuge. We open the Cow Island unit of the refuge only to migratory game bird hunting. We close all other areas of the refuge to public entry.

* * * * *

Presquile National Wildlife Refuge

* * * * *

C. Big Game Hunting. We allow hunting of white-tailed deer on designated areas of the refuge in accordance with State regulations and subject to the following conditions:

1. We require big game hunters to obtain a permit through a lottery administered by the Virginia Department of Game and Inland Fisheries. We require a fee to obtain a refuge hunting permit. We will notify successful applicants by mail or email, and if we receive the hunting fee by the date identified in the mailing, we will mail refuge hunting permits to successful applicants.

2. We prohibit the use of “deer drives,” defined as individual or group efforts intended to “push” or “jump” deer for the purposes of hunting.

3. We allow shotgun hunting on designated days as indicated on refuge hunting permits, in the State hunting guide, and on the refuge website, https://www.fws.gov/refuge/presquile/.

4. We prohibit dogs.

5. We require hunters to dock their boats at designated locations on the refuge.

* * * * *

Rappahannock River Valley National Wildlife Refuge

* * * * *

C. Big Game Hunting. We allow hunting of white-tailed deer on designated areas of the refuge in accordance with State regulations and subject to the following conditions:

1. We require big game hunters to obtain a permit. Please contact the refuge on how to obtain a permit.

2. We prohibit dogs.

* * * * *

36. Amend § 32.68 by:

a. Revising paragraphs A, B.1, B.4, B.5, and C in the entry Canaan Valley National Wildlife Refuge; and

b. Revising the entry Ohio River Islands National Wildlife Refuge.

The revisions read as follows:

§ 32.68 West Virginia.

* * * * *

Canaan Valley National Wildlife Refuge

A. Migratory Game Bird Hunting. We allow hunting of goose, duck, rail, coot, gallinule, mourning dove, snipe, and woodcock on designated areas of the refuge in accordance with State regulations and subject to the following conditions:

1. We require each hunter to possess and carry a signed refuge hunting permit.

2. We prohibit camping. We prohibit overnight parking except by Special Use Permit (FWS Form 3-1383-G) on Forest Road 80.

3. We allow the use of dogs for hunting migratory game birds. We prohibit more than 2 dogs per hunter. We require all dogs to wear a collar displaying the owner's name, address, and telephone number.

4. We prohibit dog training except during legal hunting seasons.

B. * * *

1. Conditions A1, A3, and A4 apply.

* * * * *

4. You may use dogs for hunting upland game species. We prohibit more than six dogs per hunting party. All dogs must wear a collar displaying the owner's name, address, and telephone number.

5. We prohibit the hunting of upland game species between March 1 and August 31.

C. Big Game Hunting. We allow the hunting of white-tailed deer, black bear, and turkey on designated areas of the refuge in accordance with State regulations and subject to the following conditions:

1. Conditions A1, A3, A4, and B3 apply.

2. We prohibit permanent tree stands, but we allow use of temporary tree stands. You must clearly print your name and address in an easily read area on the stand while the stand is affixed to the tree. You must remove tree stands (see § 27.93 of this chapter) at the end of the deer season.

3. We prohibit hunting for turkey with a rifle. You must use a shotgun or muzzleloader with a shot size of #4 or smaller.

4. We allow dogs for hunting black bear during the gun season. We prohibit more than six dogs per hunting party. All dogs must wear a collar displaying the owner's name, address, and telephone number.

* * * * *

Ohio River Islands National Wildlife Refuge

A. Migratory Game Bird Hunting. We allow hunting of migratory game birds (waterfowl, coots, rails, gallinules, snipe, woodcock, and dove) on designated areas of the refuge (Pennsylvania: Phillis Island, Georgetown Island; West Virginia: Captina Island, Captina Mainland, Fish Creek Island, Williamson Island, Witten Towhead, Wells Island, Grandview Island, Grape/Bat Island, Broadback Island, Buckley Island, Muskingum Island, Buffington Island, Letart Island; and Kentucky: Manchester 1 Island, Manchester 2 Island) in accordance with State regulations and subject to the following conditions:

1. We require each hunter to possess and carry a signed refuge hunting permit; the free refuge hunting permit is available to download from the refuge website and at the refuge headquarters.

2. The refuge opens 1 hour before legal sunrise and closes 1 hour after legal sunset, including parking areas.

3. We only allow dogs to locate, point, and retrieve when hunting for migratory game birds.

B. Upland Game Hunting. We allow hunting of rabbit and squirrel on designated areas of the refuge (Pennsylvania: Phillis Island, Georgetown Island; West Virginia: Captina Island, Captina Mainland, Fish Creek Island, Williamson Island, Witten Towhead, Wells Island, Grandview Island, Grape/Bat Island, Broadback Island, Buckley Island, Muskingum Island, Buffington Island, Letart Island; and Kentucky: Manchester 1 Island, Manchester 2 Island) in accordance with State regulations and subject to the following conditions:

1. Conditions A1 and A2 apply.

2. We prohibit the use of pursuit dogs for hunting rabbit or squirrel.

3. We prohibit the use of rifles, muzzleloaders, or pistols for hunting rabbit or squirrel.

C. Big Game Hunting. We allow hunting of white-tailed deer only by archery on designated areas of the refuge (Pennsylvania: Phillis Island, Georgetown Island; West Virginia: Paden Island, Captina Island, Captina Mainland, Fish Creek Island, Williamson Island, Witten Towhead, Wells Island, Mill Creek Island, Grandview Island, Grape/Bat Island, zoned area of Middle Island, Broadback Island, Buckley Island, Buckley Mainland, Muskingum Island, Neal Island, Buffington Island, Letart Island; and Kentucky: Manchester 1 Island, Manchester 2 Island) in accordance with State regulations and subject to the following conditions:

1. Conditions A1 and A2 apply.

2. We prohibit organized deer drives by two or more individuals. We define a deer drive as the act of chasing, pursuing, disturbing, or otherwise directing deer so as to make the animals more susceptible to harvest.

3. We only allow the use of temporary tree stands and blinds, which must be removed at the end of each hunt day. All tree stands and blinds must have the name and address of the owner clearly printed in an easily readable area.

D. Sport Fishing. We allow sport fishing throughout the refuge in accordance with State regulations and subject to the following conditions:

1. Condition A2 applies.

2. We prohibit trotlines (setlines) and turtle lines.

37. Amend § 32.69 by:

a. Adding an entry, in alphabetical order, for Hackmatack National Wildlife Refuge;

b. Revising paragraph D in the entry St. Croix Wetland Management District; and

c. Revising the entry Trempealeau National Wildlife Refuge.

The addition and revisions read as follows:

§ 32.69 Wisconsin.

* * * * *

Hackmatack National Wildlife Refuge

Refer to § 32.32 Illinois for regulations.

* * * * *

St. Croix Wetland Management District

* * * * *

D. Sport Fishing. We allow sport fishing on Waterfowl Production Areas throughout the District in accordance with State regulations and subject to the following condition: We prohibit the use of motorized boats.

Trempealeau National Wildlife Refuge

A. Migratory Game Bird Hunting. We allow hunting of migratory game birds on designated areas of the refuge in accordance with State regulations and subject to the following conditions:

1. We allow hunting of ducks, mergansers, geese, coots, mourning dove, sora, Virginia rail, woodcock, snipe, and crow on refuge lands north of the main channel of the Trempealeau River and north of State Highway 35/54, subject to the following conditions:

i. We allow only the use of portable or temporary blinds.

ii. We allow the use of hunting dogs for bird hunting, provided the dog is under the immediate control of the hunter at all times.

2. We allow hunting of ducks, mergansers, geese, and coots on refuge lands south of the main channel of the Trempealeau River and south of State Highway 35/54, subject to the following condition: We require a refuge permit.

B. Upland Game Hunting. We allow hunting of wild turkey, ruffed grouse, ring-necked pheasant, bobwhite quail, Hungarian partridge, sharp-tailed grouse, coyote, gray and red fox, bobcat, raccoon, snowshoe hare, cottontail rabbit, and gray and red squirrel only on refuge land north of the main channel of the Trempealeau River and north of State Highway 35/54 in accordance with State regulations and subject to the following condition: Conditions A.1.i and A.1.ii apply on the refuge (see § 32.2(k)).

C. Big Game Hunting. We allow hunting of white-tailed deer on designated areas of the refuge subject to the following conditions:

1. We prohibit the use of rifles for deer hunting on all refuge land south of the main channel of the Trempealeau River and south of State Highway 35/54.

2. On refuge land north of the main channel of the Trempealeau River and north of State Highway 35/54, we allow white-tailed deer hunting during the state archery, muzzleloader, and firearms seasons. We allow hunting during the Youth Gun Deer Hunt and the Gun Hunt for Hunters with Disabilities in accordance with State regulations.

3. On refuge land south of the main channel of the Trempealeau River and south of State Highway 35/54, we allow white-tailed deer hunting only by refuge permit.

D. Sport Fishing. We allow fishing on designated areas of the refuge from legal sunrise to legal sunset in accordance with State laws for inland waters and subject to the following conditions:

1. We allow only boats propelled by hand or electric motors on refuge pools. We do not prohibit the possession of other watercraft motors, only their use.

2. We prohibit harvest of turtle.

3. We prohibit night-lighting, archery, spearing, or netting of fish.

* * * * *

38. Amend § 32.70, under the entry Cokeville Meadows National Wildlife Refuge, by:

a. Revising paragraph A.1;

b. Removing paragraphs A.2, A.3, A.4, A.5, A.6, A.7, and A.9;

c. Redesignating paragraphs A.8, A.10, and A.11 as paragraphs A.2, A.3, and A.4, respectively;

d. Revising paragraph B.1;

e. Removing paragraphs B.2 and B.5;

f. Redesignating paragraphs B.3 and B.4 as paragraphs B.2 and B.3, respectively;

g. Revising newly redesignated paragraph B.3, and paragraph C.1; and

h. Removing paragraphs C.2 and C.3.

The revisions read as follows:

§ 32.70 Wyoming.

* * * * *

Cokeville Meadows National Wildlife Refuge

A. * * *

1. We prohibit hunting in areas of the refuge indicated on the Cokeville Meadows National Wildlife Refuge Hunting Brochure and marked by signs as closed to all hunting or closed to migratory bird hunting.

* * * * *

B. * * *

1. Conditions A1, A3, and A4 apply.

* * * * *

3. Red fox, raccoon, and striped skunk may be taken on the refuge by licensed migratory bird, big game, or upland/small game hunters from September 1 until the end of the last open big game, upland bird, or small game season. Red fox, raccoon, or striped skunk that are harvested must be taken into possession and removed from the refuge.

C. * * *

1. Conditions A1, A3, and A4 apply.

* * * * *

Dated: August 22, 2018.
Andrea Travnicek,
Principal Deputy Assistant Secretary—Water and Science, Exercising the Authority of the Assistant Secretary for Fish and Wildlife and Parks.

[FR Doc. 2018-19173 Filed 9-7-18; 8:45 am]

BILLING CODE 4333-15-P